DEPARTMENT OF TRANSPORTATION

Federal Aviation Administration

14 CFR Parts 61, 91, and 141

[Docket No. FAA-2006-26661; Notice No. 06-20]

RIN 2120-AI86

Pilot, Flight Instructor, and Pilot School Certification

AGENCY: Federal Aviation Administration (FAA), DOT.

ACTION: Notice of proposed rulemaking (NPRM).

SUMMARY: The FAA proposes to amend the training, qualification, certification, and operating requirements for pilots, flight instructors, ground instructors, and pilot schools. These changes are needed to clarify, update, and correct our existing regulations. These changes are intended to ensure that flight crewmembers have the training and qualifications to enable them to operate aircraft safely.

DATES: Send your comments to reach us on or before May 8, 2007.

ADDRESSES: You may send comments, identified by Docket Number FAA-2006-26661, using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

For more information on the rulemaking process, see the SUPPLEMENTARY INFORMATION section of this document.

Privacy: We will post all comments we receive, without change, to http://dms.dot.gov, including any personal information you provide. For more information, see the Privacy Act discussion in the SUPPLEMENTARY INFORMATION section of this document.

Docket: To read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: John D. Lynch, Certification and General Aviation Operations Branch, AFS-810, General Aviation and Commercial Division, Flight Standards Service, Federal Aviation Administration, 800 Independence Avenue, SW., Washington, DC 20591; Telephone No. (202) 267-3844; e-mail john.d.lynch@faa.gov.

SUPPLEMENTARY INFORMATION:

I. Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9 a.m. and 5 p.m., Monday through Friday, except Federal holidays. You may also review the docket using the Internet at the web address in the ADDRESSES section.

Privacy Act: Using the search function of our docket Web site, anyone can find and read the comments received into any of our dockets, including the name of the individual sending the comment (or signing the comment on behalf of an association, business, labor union, etc.). You may review DOT's complete Privacy Act Statement in the Federal Register published on April 11, 2000 (65 FR 19477-78) or you may visit http://dms.dot.gov.

Before acting on this proposal, we will consider all comments we receive on or before the closing date for comments. We will consider comments filed late if it is possible to do so without incurring expense or delay. We may change this proposal in light of the comments we receive.

If you want the FAA to acknowledge receipt of your comments on this proposal, include with your comments a pre-addressed, stamped postcard on which the docket number appears. We will stamp the date on the postcard and mail it to you.

II. Proprietary or Confidential Business Information

Do not file in the docket information that you consider to be proprietary or confidential business information. Send or deliver this information directly to the person identified in the FOR FURTHER INFORMATION CONTACT section of this document. You must mark the information that you consider proprietary or confidential. If you send the information on a disk or CD-ROM, mark the outside of the disk or CD-ROM and also identify electronically within the disk or CD-ROM the specific information that is proprietary or confidential.

Under 14 CFR 11.35(b), when we are aware of proprietary information filed with a comment, we do not place it in the docket. We hold it in a separate file to which the public does not have access, and place a note in the docket that we have received it. If we receive a request to examine or copy this information, we treat it as any other request under the Freedom of Information Act (5 U.S.C. 552). We process such a request under the DOT procedures found in 49 CFR part 7.

III. Availability of Rulemaking Documents

(1) You can get an electronic copy using the Internet by: Searching the Department of Transportation's electronic Docket Management System (DMS) Web page at http://dms.dot.gov/search;

(2) Visiting the FAA's Regulations and Policies Web page at: http://www.faa.gov/regulations_policies; or

(3) Accessing the Government Printing Office's Web page at: http://www.gpoaccess.gov/fr/index.html.

You can also get a copy by sending a request to the Federal Aviation Administration, Office of Rulemaking, ARM-1, 800 Independence Avenue, SW., Washington, DC 20591, or by calling (202) 267-9680. Make sure to identify the docket number, notice number, or amendment number of this rulemaking.

IV. Authority for This Rulemaking

The FAA's authority to issue rules regarding aviation safety is found in Title 49 of the United States Code. Subtitle I, § 106 describes the authority of the FAA Administrator, including the authority to issue, rescind, and revise regulations. Subtitle VII, Aviation Programs, describes in more detail the scope of the agency's authority.

This rulemaking is promulgated under the authority described in Subtitle VII, Part A, Chapter 447—Safety Regulation. Under § 44701, the FAA is charged with promoting safe flight of civil aircraft in air commerce by prescribing regulations necessary for safety. Under § 44703, the FAA issues an airman certificate to an individual when we find, after investigation, that the individual is qualified for, and physically able to perform the duties related to, the position authorized by the certificate. In this NPRM, we are proposing to amend the training, qualification, certification, and operating requirements for pilots, flight instructors, ground instructors, and pilot schools.

These changes are intended to ensure that flight crewmembers have the training and qualifications to enable them to operate aircraft safely. For this reason, the proposed changes are within the scope of our authority and are a reasonable and necessary exercise of our statutory obligations.

V. Background

On April 4, 1997, the FAA published a final rule amending the pilot and flight instructor certification, training, and experience rules of part 61, the ground instructor certification, training, and experience rules of subpart I of part 61, and the certification rules of part 141 for FAA-approved pilot schools (See 62 FR 16220). Since that time, we have determined that changes are needed to clarify and refine these regulations and address problems discovered since we issued the final rule. We also received a number of sound suggestions from the regulated community through petitions for rulemaking, industry/agency meetings, and requests for interpretation. Consequently, we are proposing revisions and making clarifications under part 61 that pertain to pilot, flight instructor, and ground instructor certification requirements. We also are proposing to make revisions to part 141 and its appendixes, which apply to FAA-approved pilot schools.

One significant proposal under this notice involves pilot and flight instructor training and qualifications for operating with night vision goggles (NVG). In February 2000, FAA Flight Standards Service personnel and an FAA Aviation Rulemaking Advisory Committee (ARAC) met in Washington, DC to discuss establishing requirements for pilot and flight instructor training and qualifications for operating with night vision goggles. The ARAC was convened because the FAA recognized the use of NVGs had increased significantly—the cost of the equipment had decreased and the equipment itself had become easier to use. Hence, the aviation community asked the FAA to standardize the equipment and the corresponding training programs. The information shared and the decisions made from the February 2000 ARAC meeting are the basis for these proposed NVG rules.

VI. Summary Table on the Proposed Changes

The table below lists the changes contained in this NPRM in order of their Code of Federal Regulations (CFR) designations. The table is organized as follows: The first column, identified as “Proposal No.,” refers to the paragraph number in the “Description of Proposed Changes” portion of this preamble where a detailed discussion of the proposed change appears. The second column gives the CFR designation of the regulation we are proposing to change. The third column, identified as “Summary of the Proposed Changes,” provides a brief summary of the proposed amendment.

Proposal No. | CFR designation | Summary of the proposed changes
1 | § 61.1(b)(15) | Add a definition for the term “night vision goggles.”
2 | § 61.1(b)(14) | Add a definition for the term “night vision goggle operations.”
3 | § 61.1(b)(2)(i) | Add the term “current” for the ground instructor certificate under the definition of authorized instructor.
3 | § 61.1(b)(2)(ii) | Correct the term “current” and add the term “valid” for the flight instructor certificate under the definition of authorized instructor.
3 | § 61.1(b)(5) | Add the definition of “current” to airman certificates, ratings, and authorizations, which would mean the pilot has met the appropriate recent flight experience requirements of part 61 for the flight operation being conducted and the pilot's medical certificate has not expired, if a medical certificate is required.
3 | § 61.1(b)(22) | Add the definition of “valid” for airman certificates, ratings, and authorizations, which would mean the airmen certificate, ratings, and authorizations have not been surrendered, suspended, revoked, or expired.
3 | § 61.3(a)(1) | Add the qualifier “current and valid.”
3 | § 61.3(f)(2)(i) & (ii) | Add the qualifier “current and valid.”
3 | § 61.3(c) | Add the qualifier “current and valid.”
3 | § 61.3(g)(2)(i), (ii) | Add the qualifier “current and valid.”
4 | § 61.3(j)(1) | Delete the phrase “Except as provided in paragraph (j)(3) of this section.”
4 | § 61.3(j)(3) | Delete this provision because the dates have passed.
5 | § 61.19(b) | Extend the duration period for student pilot certificates for persons under the age of 40 years.
6 | § 61.19(b)(3) | Extend the duration period for student pilot certificates for persons seeking the glider or balloon rating to 36 calendar months.
7 | § 61.19(d) | Establish flight instructor certificates without expiration dates.
8 & 81 | § 61.19(e) | Parallel the ground instructor certificate duration with the ground instructor currency requirements in proposed § 61.217.
9 | § 61.23(a)(3)(iv)-(v) | Make minor editorial changes to the medical certificate requirements.
9 | § 61.23(a)(3)(vii) | Permit Examiners to hold only a 3rd class medical certificate as already provided for in FAA Order 8710.3D.
10 | § 61.23(b)(3) | Clarify the no medical certificate requirement for when persons are exercising the privileges of their pilot certificate when operating a balloon or a glider.
11 | § 61.23(b)(7) | Clarify the no medical certificate requirement for Examiners who are administering practical tests in a glider, balloon, flight simulator, or flight training device.
12 | § 61.23(b)(8) | Clarify the no medical certificate requirement when taking a practical test in a glider, balloon, flight simulator, or flight training device.
13 | § 61.23(b)(9) | Add a provision excusing U.S. military pilots from obtaining an FAA medical certification, provided he or she holds a current medical examination from a medical facility of the U.S. Armed Forces and the flight does not involve a flight in air transportation service under parts 121, 125, or 135 of this chapter.
14 | § 61.29(d)(3) | Delete the requirement that a person furnish their social security number.
15 | § 61.31(d)(1) | Make minor editorial change.
15 | § 61.31(d)(2) | Delete existing paragraph (d)(2).
15 | § 61.31(d)(3) | Re-designate existing paragraph (d)(3) as paragraph (d)(2).
16 | § 61.31(l) | Establish training for operating with night vision goggles.
17 | § 61.35(a)(2)(iv) | Clarify when a person must show their current residential address when making application for a knowledge test.
18 | § 61.39(b)(2) | Delete the word “scheduled” in front of the phrase “U.S. military air transport operations.”
3 | § 61.39(c)(1) | Add the qualifier “valid.”
19 | § 61.39(c)(2) | Delete the exception that an applicant does not have to receive an instructor endorsement for an additional aircraft class rating. Sections 61.39(a)(6) and 61.63(c) require an instructor endorsement.
20 | § 61.39(d) & (e) | Change the phrase “60 calendar days” to read “2 calendar months” for the training required prior to the practical test.
21 | § 61.43(a) and (b) | Clarify when single pilot performance is required on the practical test vs. permitting issuance of the “second in command” limitation.
22 | § 61.45(a)(2)(iii) | Define a military aircraft for the purpose of using it for a practical test.
23 | § 61.45(c) | Except gliders from the requirement that aircraft used for a practical test must have engine power controls and flight controls that are easily reached and operable in a conventional manner by both pilots.
24 | § 61.51(b)(3)(iv) | Add a provision for logging night vision goggle time.
27 | § 61.51(b)(1)(iv) § 61.51(b)(2)(v) § 61.51(b)(3)(iii) | Revise the instructions for logbook entries to include personal computer aviation training device (PCATD).
25 | § 61.51(e)(1) | Correct an omission and permit airline transport pilots (ATPs) to log pilot-in-command (PIC) flight time.
26 | § 61.51(e)(1)(iv) | Permit a pilot who is performing the duties of PIC while under the supervision of a qualified PIC to log PIC time.
27 | § 61.51(g)(4) | Clarify use of flight simulator, flight training device, PCATD to conform to current practice and require that an instructor be present to observe the session and sign the person's logbook.
28 | § 61.51(j) | Establish that an aircraft must hold an airworthiness certificate, with some exceptions, for a pilot to log flight time to meet the certificate, rating, or recent flight experience requirements under part 61.
29 | § 61.51(k) | Add the criteria and standards for logging night vision goggle time.
30 | § 61.57(c)(1) | Revise the instrument recent flight experience for maintaining instrument privileges in airplanes, powered-lifts, helicopters, and airships.
30 | § 61.57(c)(2)-(5) | Permit the use of flight simulators, flight training devices, or PCATD for performing instrument recent flight experience.
30 | § 61.57(c)(6) | Revise the instrument recent flight experience for maintaining instrument privileges in gliders.
31 | § 61.57(d) | Clarify when an instrument proficiency check must be completed to serve as the PIC under IFR or in weather conditions less than the minimums prescribed for VFR.
32 | § 61.57(f) | Add a night vision goggle recent operating experience requirement to remain PIC qualified for night vision goggle operations.
33 | § 61.57(g) | Add a night vision goggle proficiency check requirement to remain PIC qualified for night vision goggle operations.
34 | § 61.59(a)-(c) | Add clarifying language to address falsification, reproduction, alteration and incorrect statements.
35 | § 61.63 | Change the title to read “Additional aircraft ratings (other than for ratings at the airline transport pilot certificate level).”
35 | § 61.63(c)(4) | Clarify what is intended for those applicants who hold only a lighter than air (LTA)-Balloon rating and who seek an LTA-Airship rating.
35 | § 61.63(d)(5) | Add a provision in subparagraph (5) to account for aircraft not capable of instrument flight. Parallels proposed § 61.157(b)(3).
35 | § 61.63(e) | Re-designate paragraph (h) as paragraph (e). Amend the requirements for permitting use of aircraft not capable of instrument flight for a rating. Parallels proposed § 61.157(g).
35 | § 61.63(f) | Clarify that an applicant for type rating in a multiengine, single seat airplane must meet the requirements in the multi-seat version of that type airplane, or the examiner must be in a position to observe the applicant during the practical test. Parallels proposed § 61.157(h).
35 | § 61.63(g) | Clarify that an applicant for type rating in a single engine, single seat airplane may meet the requirements in a multi-seat version of that type airplane, or the examiner must be in a position to observe the applicant during the practical test. Parallels proposed § 61.157(i).
36 | § 61.64 | Place the existing § 61.63(e), (f), and (g) and § 61.157(g), (h), and (i) that address the requirements for using flight simulators and flight training devices into proposed § 61.64
35 | § 61.63(h) | Re-designate paragraph (k) as paragraph (h). Clarify that certain tasks may be waived if the FAA has approved the task to be waived to parallel § 61.157(m).
36 | § 61.64(a) and (b) | Move § 61.63(e) and § 61.157(g) to proposed § 61.64. Simplify and amend the requirements and limitations for use of a flight simulator or flight training device for an airplane rating.
36 | § 61.64(a)(2)(i) & (ii) | Clarify that to use a flight simulator for training and testing for the airplane category, class, or type rating, the type rating cannot contain the supervised operating experience limitation.
36 | § 61.64(c) and (d) | Move § 61.63(f) and § 61.157(h) to proposed § 61.64. Simplify and amend the requirements and limitations for use of a flight simulator or flight training device for a helicopter rating.
36 | § 61.64(c)(2)(i) & (ii) | Clarify that to use a flight simulator for training and testing for the helicopter class or type rating, the type rating cannot contain the supervised operating experience limitation.
36 | § 61.64(e) and (f) | Move § 61.63(g) and § 61.157(i) to proposed § 61.64. Simplify and amend the requirements and limitations for use of a flight simulator or flight training device for a powered-lift rating.
36 | § 61.64(e)(2)(i) & (ii) | Clarify that to use a flight simulator for training and testing for the powered-lift category or type rating, the type rating cannot contain the supervised operating experience limitation.
37 | § 61.65(d) | Require at least 10 hours of cross-country time as PIC to be in an airplane appropriate to the instrument rating sought, so that it conforms to the ICAO requirements for instrument rating.
37 | § 61.65(e) | Require at least 10 hours of cross-country time as PIC to be in a helicopter appropriate to the instrument rating sought, so that it conforms to the ICAO requirements for instrument rating.
37 | § 61.65(f) | Require at least 10 hours of cross-country time as PIC to be in a powered-lift appropriate to the instrument rating sought, so that it conforms to the ICAO requirements for instrument rating.
37 | § 61.65(g) | Make minor changes to address the usage of flight simulator and flight training devices for the instrument rating. Re-designate paragraph (e) as paragraph (g).
38 | § 61.65(h) | Permit the use of a PCATD to be used for 10 hours of instrument time.
3 | § 61.69(a)(1) | Require tow pilots' certificates to be “current and valid.”
39 | § 61.69(a)(4) | Correct typographical error involving the word “or.”
40 | § 61.69(a)(6) | Increase the recent flight experience requirements for tow pilots from 12 months to 24 months.
41 | § 61.73(b) | Combine existing paragraphs (b), (c), and (d) into proposed paragraph (b). Delete the requirement that military pilots and former military pilots must be on active flying status within the past 12 months to qualify under these special rules. Delete the requirement that military pilots and former military pilots must have PIC status to qualify for pilot certification under these special rules. Also, minor editorial changes.
41 | § 61.73(c) | Delete paragraph (c). Propose that military pilots of an Armed Force of a foreign contracting State to ICAO qualify for U.S. Commercial Pilot Certificates and ratings provided they are assigned in an operational U.S. military unit for other than for flight training purposes.
41 | § 61.73(d) | Re-designate paragraph (e) as (d). Minor editorial changes.
41 | § 61.73(e) | Re-designate paragraph (f) as (e). Minor editorial changes.
41 | § 61.73(f) | Re-designate paragraph (g) as (f). Delete the phrase “as pilot in command during the 12 calendar months before the month of application.” Minor editorial changes.
42 | § 61.73(g) | Allow issuing flight instructor certificates and ratings to military instructor pilots who graduate from a U.S. military instructor pilot school with an instructor pilot qualification.
43 | § 61.73(h) | Clarify the evidentiary documents required to qualify military pilots for a pilot certificate and ratings under the special rules of § 61.73 for military pilots.
44 | § 61.75(a) | Require foreign pilot license to be at the level of private pilot certificate or higher to be issued a U.S. private pilot certificate. Change the requirement for the foreign pilot certificate from being “current” to “valid.”
44 | § 61.75(b) | Require foreign pilot license to be at the level of private pilot certificate or higher to be issued a U.S. private pilot certificate. Change the requirement for the foreign pilot certificate from being “current” to “valid.”
3 | § 61.75(b)(2) | Require foreign pilot certificates to be “valid.”
45 | § 61.75(b)(3) | Add “other than a U.S. student pilot certificate.”
46 | § 61.75(c) | Add the qualifier “for private pilot privileges only” to clarify issuance of U.S. private pilot certificates based on foreign pilot licenses.
3 | § 61.75(d) | Add the qualifier “valid.”
47 | § 61.75(e) | Correct an error: where the rule states “U.S. private pilot certificate,” it should state “U.S. pilot certificate.”
47 | § 61.75(e)(1) | Correct an error: where the rule states “private pilot privilege,” it should state “pilot privileges authorized by this part and the limitations placed on that U.S. pilot certificate.”
47 | § 61.75(e)(4) | Correct an error: where the rule states “U.S. private pilot certificate,” it should state “U.S. pilot certificate.”
47 | § 61.75(f) | Correct an error: where the rule states “U.S. private pilot certificate,” it should state “U.S. pilot certificate” in 2 places.
47 | § 61.75(g) | Correct an error: where the rule states “U.S. private pilot certificate,” it should state “U.S. pilot certificate” in 2 places.
48 | § 61.77(a)(2) | Clarify who can be issued a special purpose pilot authorization.
48 | § 61.77(b)(1) | Clarify the requirements for issuance of a special purpose pilot authorization.
3 | § 61.77(b)(1) | Require foreign pilot licenses to be “current” and “valid.”
48 | § 61.77(b)(5) | Delete a requirement that an applicant have documentation of meeting the recent flight experience requirements of part 61 to be issued a special purpose pilot authorization.
49 | § 61.96(b)(9) | Require an applicant for a recreational pilot certificate to hold a student pilot certificate.
50 | § 61.101(e)(1)(iii) | Exclude aircraft that are certificated as rotorcraft from the 180 horsepower powerplant limitation.
51 | § 61.103(j) | Require a private pilot certificate applicant to hold a valid student pilot certificate, or a recreational pilot certificate.
52 | § 61.109(a)(5)(ii) | Change the distance on a cross-country flight for private pilot certification—single-engine airplane rating from “at least 50 nautical miles” to “more than 50 nautical miles.”
52 | § 61.109(b)(5)(ii) | Change the distance on a cross-country flight for private pilot certification—multi-engine airplane rating from “at least 50 nautical miles” to “more than 50 nautical miles.”
53 | § 61.109(c)(4)(ii) | Change the distance on the solo cross-country flight for private pilot certification—helicopter rating to conform to ICAO requirements. Change the distance on a cross-country flight for private pilot certification—helicopter rating from “at least 25 nautical miles” to read “more than 25 nautical miles.”
54 | § 61.109(d)(5)(ii) | Change the distance on the solo cross-country flight for private pilot certification—gyroplane rating to conform to ICAO requirements. Change the distance on a cross-country flight for private pilot certification—gyroplane rating from “at least 25 nautical miles” to read “more than 25 nautical miles.”
52 | § 61.109(e)(5)(ii) | Change the distance on a cross-country flight for private pilot certification—powered-lift rating from “at least 50 nautical miles” to “more than 50 nautical miles.”
55 | § 61.127(b)(4)(vi) | Add “ground reference maneuvers” as an area of operation for commercial pilot certification—gyroplane rating.
56 | § 61.127(b)(5)(vii) | Delete “ground reference maneuvers” for commercial pilot certification powered lift rating.
57 | § 61.129(a)(3)(i) | Clarify the instrument training tasks required for commercial pilot certification—airplane single-engine rating by requiring training using a view-limiting device.
62 | § 61.129(a)(3)(iii) | Allow the day cross-country flight for commercial pilot certification single-engine airplane rating to be performed under visual flight rules (VFR) or instrument flight rules (IFR).
62 | § 61.129(a)(3)(iv) | Allow the cross-country flight at night time for commercial pilot certification airplane single-engine rating to be performed under VFR or IFR.
64 | § 61.129(a)(4) | Permit training to be performed solo or with an instructor onboard for commercial pilot certification—airplane single-engine rating.
58 | § 61.129(b)(3)(i) | Require instrument training tasks for commercial pilot certification airplane multiengine rating to include training using a view-limiting device.
62 | § 61.129(b)(3)(iii) | Allow the day cross-country flight for commercial pilot certification multiengine airplane rating to be performed under VFR or IFR.
62 | § 61.129(b)(3)(iv) | Allow the cross-country flight at night time for commercial pilot certification multiengine airplane rating to be performed under VFR or IFR.
62 | § 61.129(c)(3)(i) | Reduce the hour requirements on the control and maneuvering of a helicopter solely by reference to instruments from 10 hours to 5 hours for commercial pilot certification-helicopter rating and permit it to be performed in an aircraft, flight simulator, or flight training device. Clarify the control and maneuvering of a helicopter solely by reference to instruments required for commercial pilot certification for the helicopter rating must include training using a view-limiting device.
62 | § 61.129(c)(3)(ii) | Permit the day cross-country flight for commercial pilot certification—helicopter rating to be performed under VFR or IFR.
62 | § 61.129(c)(3)(iii) | Permit the cross-country flight at night time for commercial pilot certification—helicopter rating to be performed under VFR or IFR.
64 | § 61.129(c)(4) | Permit training for commercial pilot certification helicopter rating to be performed solo or with an instructor onboard.
60 | § 61.129(d)(3)(i) | Reduce the instrument training for commercial pilot certification—gyroplane rating to 2.5 hours on the control and maneuvering of a gyroplane solely by reference to instrument and permit it to be conducted in an aircraft, flight simulator, or flight training device. Clarify the control and maneuvering of a gyroplane solely by reference to instrument required for commercial pilot certification gyroplane rating must include training using a view-limiting device.
62 | § 61.129(d)(3)(ii) | Allow the day cross-country flight for commercial pilot certification gyroplane rating to be performed under VFR or IFR.
63 | § 61.129(d)(3)(iii) | Delete the requirement for a cross-country flight at night time for commercial pilot certification—gyroplane rating and establish it as “At least two hours of flight training during night-time conditions in a gyroplane at an airport, that includes 10 takeoffs and 10 landings to a full stop (with each landing involving a flight in the traffic pattern).”
64 | § 61.129(d)(4) | Permit training for commercial pilot certification—gyroplane rating to be performed solo or with an instructor onboard.
61 | § 61.129(e)(3)(i) | Require that instrument training tasks for commercial pilot certification—powered-lift rating must include training using a view-limiting device.
61 | § 61.129(e)(3)(ii) | Permit the cross-country flight at night time for commercial pilot certification—powered-lift rating to be performed under VFR or IFR.
62 | § 61.129(e)(3)(iii) | Permit the cross-country flight at night time for commercial pilot certification—powered-lift rating to be performed under VFR or IFR.
64 | § 61.129(e)(4) | Permit training for commercial pilot certification—powered-lift rating to be performed solo or with an instructor onboard.
64 | § 61.129(g)(2) | Permit training for commercial pilot certification—airship rating to be performed either solo or while performing the duties of PIC with an instructor onboard.
65 | § 61.129(g)(3) | Reformat paragraph (3) into subparagraphs (i) and (ii). Clarify the instrument training tasks for commercial pilot certification—airship rating require instrument training using a view-limiting device.
62 | § 61.129(g)(4)(ii) & (iii) | Permit the cross-country training for commercial pilot certification—airship rating to be performed under VFR or IFR.
3 | § 61.133(a)(1) | Require commercial pilot certificates to be “current and valid.”
3 | § 61.153(d) | Require pilot certificate and instrument rating to be “valid.”
66 | § 61.153(d)(3)(i), (ii) | Further clarify the additional condition to qualify for a U.S. ATP certificate on the basis of a foreign pilot certificate.
67 | § 61.157 | Reprint this section in its entirety due to many changes.
67 | § 61.157(b) | Add the language “or a type rating that is completed concurrently with an airline transport pilot certificate” so the rule more clearly states what is intended. Reformat this section so as to establish a paragraph (g) that permits the use of an aircraft not capable of instrument flight for a type rating to be added to an existing ATP certificate. Parallels proposed § 61.63(e).
36 & 67 | § 61.157(g) | Use of flight simulators and flight training devices and applicant qualifications for the airplane rating at the ATP certification level. Move to proposed § 61.64 as paragraph (a) and (b).
36 & 67 | § 61.157(h) | Use of flight simulators and flight training devices and applicant qualifications for the helicopter rating at the ATP certification level. Move to proposed § 61.64 as paragraph (c) and (d).
36 & 67 | § 61.157(i) | Use of flight simulators and flight training devices and applicant qualifications for the powered-lift rating at the ATP certification level. Move to proposed § 61.64 as paragraph (e) and (f).
67 | § 61.157(g) | Re-designate paragraph (j) as paragraph (g). Amends the requirements for permitting use of aircraft not capable of instrument flight for a rating to permit the issuance of a “VFR Only” limitation for ATP certification. Parallels proposed § 61.63(e).
68 | § 61.157(h) | Adds a provision to permit an applicant for type rating in a multiengine, single seat airplane to be performed in a multi-seat version of that type airplane, or the examiner must be in a position to observe the applicant during the practical test. Parallels proposed § 61.63(f).
69 | § 61.157(i) | Adds a provision to permit an applicant for type rating in a single engine, single seat airplane to be performed in a multi-seat version of that type airplane, or the examiner must be in a position to observe the applicant during the practical test. Parallels proposed § 61.63(g).
70 | § 61.159(c)(3) | Add a provision to accommodate the crediting of flight engineer time for U.S. military flight engineers for qualifying for an ATP certificate that is similar to what is provided for crediting flight engineer time under part 121.
71 | § 61.159(d) | Clarify when an applicant may be issued an ATP certificate with the ICAO endorsement.
71 | § 61.159(e) | Clarify a holder of an ATP certificate with the ICAO endorsement may have the endorsement removed after meeting the aeronautical experience of proposed § 61.159(d).
3 | § 61.167(a) | Require an ATP certificate to be “valid.”
3 | § 61.167(b)(3) | Require ATP certificates be “current and valid.”
72 | § 61.187(b)(6)(vii) | Delete the “go around maneuver” for flight instructor certification for the glider rating.
3 | § 61.193 | Require flight instructor certificate be “current and valid.”
73 | § 61.195(c)(1) & (2) | Establish the flight instructor qualifications for providing instrument training in flight to be a CFII in the appropriate category and class of aircraft.
74 | § 61.195(d)(3) | Delete requirement that a flight instructor must sign a student's certificate for authorizing solo flight in Class B airspace.
75 | § 61.195(k) | Add flight instructor qualifications for giving the PIC night vision goggle qualification and currency training.
3 | § 61.197(a) | Require flight instructor certificate to be “current.”
7 | § 61.197(a)(2) | Establish flight instructor renewal procedures without requiring re-issuance of the actual certificate.
7 | § 61.199(a) | Establish flight instructor reinstatement procedures without requiring re-issuance of the actual certificate. Additionally, clarify the reinstatement requirements for a single practical test for renewal of the other ratings held.
3 | § 61.215(a), (c), (d) | Require ground instructor certificates to be “current and valid.”
76 | § 61.215(b) | Delete the privilege of AGIs to provide training and endorsement for instrument training.
3 | § 61.215(b) | Require AGI certificates to be “current and valid.”
77 | § 61.217(a)—(d) | Establish new currency requirements for ground instructors.
78 | § 91.205(i) | Establish the required instruments & equipment for night vision goggle operations.
79 | § 141.5(a)—(e) | Clarify that the “counters” for the pass rate must be 10 different people and that no one graduate can be counted more than once.
80 | § 141.9 | Correct the rule language for issuing examining authority.
81 | § 141.33(d)(2) | Reduce the number of student enrollments to 10 students to qualify for a check instructor position.
82 | § 141.39 | Permit the use of foreign registered aircraft for those part 141 training facilities that are located outside of the United States and where the training is conducted outside of the United States.
83 | § 141.53(c)(1) | Delete subparagraph (c)(1) to remove an obsolete date.
84 | § 141.55(e)(2)(ii) | Correct the phrase “the practical or knowledge test, or any combination thereof” because it should state “the practical or knowledge test, as appropriate.”
85 | § 141.77(c)(1), (2), & (3) | Make a technical correction to the language in the rules about the proficiency and knowledge test required for transfer students to a part 141 pilot school.
86 | § 141.85(a)(1) & (d) | Clarify duties and responsibilities that chief instructor may delegate to an assistant chief instructor and recommending instructor.
87 | B. 2. | Change the eligibility requirement for enrollment into the flight portion of the private pilot certification course to only require a recreational or student pilot certificate prior to entry into the solo phase of the flight portion.
88 | B. 4(b)(1)(i) | In the private pilot certification—single-engine airplane course, change the training required to “on the control and maneuvering of a single-engine airplane solely by reference to instruments” instead of calling it “instrument training.”
88 | B. 4(b)(2)(i) | In the private pilot certification—multiengine airplane course, change the training required to “on the control and maneuvering of a multiengine airplane solely by reference to instruments.”
88 | B. 4(b)(5)(i) | In the private pilot certification—powered-lift course, change the training required to “on the control and maneuvering of a powered-lift solely by reference to instruments.”
89 | B. 5(a)(1) | Change the distance on a cross-country flight in the private pilot certification—airplane single-engine course from “at least 50 nautical miles” to “more than 50 nautical miles.”
90 | B. 5(b)(1) | Change the distance on a cross-country flight in the private pilot certification—airplane multiengine course from “at least 50 nautical miles” to “more than 50 nautical miles.”
91 | B. 5(c)(1) | Change the distance on a cross-country flight in the private pilot certification—helicopter course to conform to ICAO requirements which require a cross-country flight of at least 100 nautical miles. Change the phrase “at least 25 nautical miles” to “more than 25 nautical miles.”
92 | B. 5(d)(1) | Change the distance on a cross-country flight in the private pilot certification—gyroplane course from “at least 25 nautical miles” to “more than 25 nautical miles.”
93 | B. 5(e)(1) | Change the distance on a cross-country flight in the private pilot certification—powered lift course from “at least 50 nautical miles” to” more than 50 nautical miles.”
94 | C. 4(b)(5) & (6) | Allow approval of instrument rating courses that give credit for instrument training on a PCATD.
100 | D. 4(b)(1)(i) | Require that the instrument training tasks for the commercial pilot certification—airplane single-engine course include training using a view-limiting device.
99 | D. 4(b)(1)(ii) | Allow the complex airplane training in the commercial pilot certificate—single-engine airplane course to be performed in either in a single-engine complex airplane or multiengine complex airplane.
96 | D. 4(b)(1)(iii) | Allow the day cross-country flight for the commercial pilot certificate airplane course to be performed under VFR or IFR.
96 | D. 4(b)(1)(iv)
96 | D. 4(b)(2)(i)
96 | D. 4(b)(2)(iii)
96 | D. 4(b)(2)(iv)
100 | D. 4(b)(3)(i) | Require that the instrument training tasks for the commercial pilot certification—helicopter course include using a view-limiting device.
96 | D. 4(b)(3)(ii) | Allow the day cross-country flight in the commercial pilot certificate helicopter course to be performed under VFR or IFR.
96 | D. 4(b)(3)(iii)
100 | D. 4(b)(4)(i) | Require that the instrument training tasks for the commercial pilot certification—gyroplane course include using a view-limiting device.
96 | D. 4(b)(4)(ii) | Allow the day cross-country flight in the commercial pilot certificate gyroplane course to be performed under VFR or IFR.
97 | D. 4(b)(4)(iii) | Require a night time cross-country flight in the commercial pilot certificate—gyroplane course to include at least two hours of flight training during night-time conditions at an airport, that includes 10 takeoffs and 10 landings to a full stop (with each landing involving a flight in the traffic pattern).
100 | D. 4(b)(5)(i) | Require that the instrument training tasks for the commercial pilot certification—powered-lift course include using a view-limiting device.
96 | D. 4(b)(5)(ii) | Allow the day cross-country flight in the commercial pilot certificate powered-lift course to be performed under VFR or IFR.
96 | D. 4(b)(5)(iii)
100 | D. 4(b)(7)(i) | Require that the instrument training tasks for the commercial pilot certification—airship course include using a view-limiting device.
96 | D. 4(b)(7)(ii) | Allow the day cross-country flight in the commercial pilot certificate—airship rating course to be performed under VFR or IFR.
96 | D. 4(b)(7)(iii)
98 | D. 4(d)(4)(vi) | Add “ground reference maneuvers” as an area of operation for the gyroplane rating in the commercial pilot certificate course.
95 | D. 5(a), (c ), (d), & (e) | Allow training to be performed solo or with an instructor onboard for the commercial pilot certificate courses.
101 | E. 2 | Requires a person prior to having completed the flight portion of the ATP course to have met the ATP aeronautical experience requirements of part 61, subpart G.
102 | I. 3 & 4 | Clarify the amount and content of ground and flight training for the add-on aircraft category and/or class rating courses in the recreational, private, commercial, and ATP certification courses.

VII. Description of Proposed Changes

The numbered paragraphs in this section describe the substantive changes we are proposing. Readers should note we are also making many editorial changes to the text of parts 61 and 141 for the purpose of clarity.

(1) Proposal to define “night vision goggles.”

The FAA proposes to define “night vision goggles” (NVG) under § 61.1(b)(13) as “an appliance worn by a pilot that enhances the pilot's ability to maintain visual surface reference at night.”

(2) Proposal to define “night vision goggle operation.”

The FAA proposes to define “night vision goggle operation” under § 61.1(b)(14) as “a flight at night where the pilot maintains visual surface reference utilizing NVGs in an aircraft that is approved for NVG operations.”

(3) Proposal to require airman certificates, ratings, and authorizations to be “valid” and/or “current,” where and when appropriate.

The FAA has received inquiries as to the meaning and application of the terms “valid” and “current” as they appear in part 61. Neither term is defined under the rules. The terms are used in some sections of part 61, but not consistently or universally. In this proposal, the FAA proposes definitions for the terms “current” and “valid” under proposed § 61.1(b)(4) and (20). We have also attempted to qualify when a person must hold a “valid,” “current,” or a “valid and current” pilot, flight instructor, and ground instructor certificate, rating, or authorization under part 61 to exercise the privileges of that certificate.

The FAA encourages comments as to whether our review of inserting the terms “current” and “valid” throughout part 61 has been sufficiently exhaustive and whether the approach is even needed. One could conclude that including the terms may lead to greater ambiguity since they are arguably implicit. That is, all certificates, ratings, or authorizations must be both “current” and “valid,” or else they may not be relied upon. Based on the comments received on this proposal and further analysis, we may decide to withdraw the proposed definitions, and we may even eliminate the use of these terms “current” and “valid” throughout part 61.

Under proposed § 61.1(b)(20), a “valid” pilot, flight instructor, or ground instructor certificate, rating, or authorization would mean the certificate has not been surrendered, suspended, revoked, or expired. Under proposed § 61.1(b)(4), the term “current” as it relates to a pilot certificate, rating, or authorization would mean the pilot has met the appropriate recent flight experience requirements under part 61 for the flight operation being conducted. The term “current” as it relates to a flight instructor certificate would mean the flight instructor meets the flight instructor recent experience required under § 61.197. The term “current” as it relates to a ground instructor certificate would mean the ground instructor meets the recent experience required under § 61.217.

We are proposing to add either “valid” or “current,” or both, in: §§ 61.1(b)(2)(i) and (ii), (4), and (20); 61.3(a)(1), (c), (f)(2)(i) and (ii), and (g)(2)(i) and (ii); 61.39(c)(1), 61.69(a)(1); 61.75(b)(2) and (d); 61.77(b)(1); 61.103(j); 61.133(a)(1); 61.153(d)(1) and (3); 61.167(a) and (b)(3); the introductory language of 61.193; 61.197(a); and 61.215(a), (b), (c), and (d).

(4) Proposal to delete an obsolete date in § 61.3(j)(3).

Under existing § 61.3(j)(3), the rule makes reference to some obsolete dates and the rule is no longer needed. The rule states “Until December 20, 1999, a person may serve as a pilot in operations covered by this paragraph after that person has reached his or her 60th birthday if, on March 20, 1997, that person was employed as a pilot in operations covered by this paragraph.” December 20, 1999 has now passed, and the FAA is proposing to delete § 61.3(j)(3) in its entirety. Subsequently, it is necessary to delete the phrase “Except as provided in paragraph (j)(3) of this section” under § 61.3(j)(1).

(5) Proposal to revise the duration of the student pilot certificate.

The FAA proposes to amend § 61.19(b) so that the duration period for the student pilot certificate coincides with the medical duration provisions under § 61.23(c)(3). Since the FAA adopted a new duration period for the 3rd class medical certificate for persons who have not reached their 40th birthday, there has been a conflict between the duration period for the student pilot portion of the certificate under § 61.19(b) (i.e., “expires 24 calendar months from the month in which it is issued”) and the duration period for the medical portion of the certificate for persons who have not reached their 40th birthday under § 61.23(c)(3) (i.e., “The 36th calendar month after the month of the date of the examination shown on the certificate). Without the proposed change, persons under the age of 40 years would have the student pilot portion of their certificate expire, but the medical portion of that certificate would remain current. Therefore, the FAA proposes to amend § 61.19(b) so that it parallels the 3rd class medical duration provisions under § 61.23(c)(3).

(6) Proposal to extend the duration period to 36 calendar months for the student pilot certificate for persons seeking a balloon or glider rating.

Proposed § 61.19(b)(3) would extend the duration period of a student pilot certificate for persons seeking a balloon or glider rating to 36 calendar months. Since persons who seek a balloon and glider rating are not required to hold a medical certificate, it is reasonable to extend the student pilot certificate to 36 calendar months as discussed in the previous paragraph. Under this proposal, however, the duration period would be 36 calendar months regardless of the age of the applicant.

(7) Proposal to issue flight instructor certificate without an expiration date and to clarify reinstatement requirements.

The FAA proposes to amend §§ 61.19(d), 61.197(a), and 61.199 to allow the issuance of flight instructor certificates without an expiration date. This proposal responds to a petition for rulemaking from the Aircraft Owners and Pilots Association (AOPA) Safety Foundation. By letter, dated September 14, 1999, AOPA petitioned the FAA to revise § 61.19(d), § 61.195(a), (b), and (c), § 61.197(a) and (b), and § 61.199(a). The FAA was already working on this proposed rule; therefore we responded to AOPA's petition by acknowledging receipt of the petition and informing them their petition would be considered under this rulemaking.

The AOPA Safety Foundation's petition states that it believes the flight instructor renewal process results in burdening flight instructor renewal applicants and the operators of flight instructor refresher clinics (FIRCs) with unnecessary paperwork. The FAA would still require that flight instructors renew their privileges every 24 calendar months to exercise the privileges of their flight instructor certificate, but it would be done without requiring the re-issuance of the flight instructor certificate. The FAA envisions that flight instructor renewal applicants would continue to send a completed FAA Form 8710-1, “Airman Certificate and/or Rating Application,” to the FAA's Airman Certification Branch in Oklahoma City, OK, but the applicants would then only be required to have their logbooks endorsed by a FIRC operator or by the FAA. In lieu of the logbook endorsement, the flight instructor renewal applicant could simply receive a completion certificate or a stamp in their logbook from a FIRC operator or from the FAA. The FAA is tailoring this proposal to similar procedures established for pilots who accomplish their § 61.57 flight review or § 61.58 PIC proficiency check. However, the FAA wants to maintain the procedure of requiring flight instructor renewal applicants to send a completed FAA Form 8710-1 to the FAA's Airman Certification Branch because the FAA believes this procedure is important for maintaining order on flight instructor renewals and also for being able to retain statistical data on flight instructors.

Under this proposal, § 61.197(a)(2) would state that a person who holds a flight instructor certificate may renew the certificate by “receiving an endorsement in his or her logbook or on another suitable document that is acceptable to the FAA * * * ,” to provide flight instructor renewal applicants significant leeway to show compliance with § 61.197. Additionally, for the same reasons, this language would be included in proposed § 61.199(a)(2) for flight instructor reinstatement applicants. Those instructors who hold flight instructor certificates with expiration dates would be permitted to continue to hold those certificates indefinitely and would just have to comply with the renewal procedures of § 61.197 or reinstatement procedures of § 61.199, as appropriate, to maintain their flight instructor “privileges.” Regardless of what method is used to show compliance with § 61.197 (i.e., logbook entry, completion certification, or a stamp inserted in the applicant's logbook, etc.), the FAA expects the flight instructor renewal/reinstatement applicant's record to show the completion date and expiration date of the renewal/reinstatement.

Additionally, the FAA has received several inquires concerning whether an applicant who holds an expired flight instructor certificate may reinstate that certificate by satisfactorily completing an additional flight instructor rating practical test. As an example, the person holds an expired flight instructor certificate with an Airplane Single-Engine and a Multiengine rating. The person then makes application for an Instrument-Airplane additional flight instructor rating and wishes to reinstate his or her flight instructor certificate by satisfactorily accomplishing the Instrument-Airplane additional flight instructor rating practical test. In accordance with FAA Order 8700.1, page 11-3, paragraph 13, “the holder of an expired flight instructor certificate issued after November 1, 1975, may have all ratings on the certificate reinstated by satisfactorily completing a single practical test.” Therefore, the FAA proposes to amend § 61.199(a) to read:

(a) Flight instructor certificates. The holder of a flight instructor certificate who has not complied with the recent flight instructor experience requirements under § 61.197 may reinstate flight instructor privileges by:

(1) Completing and passing a flight instructor practical test, as prescribed under § 61.183(h); and

(2) Receiving an endorsement in his or her logbook or on another document that is acceptable to the FAA that shows the applicant completed and passed a flight instructor practical test, as prescribed under § 61.183(h).

This proposed amendment removes the current provision that states that a holder of an expired flight instructor certificate may obtain a new one by passing a practical test “for one of the ratings listed on the expired flight instructor certificate.”

The proposed amendment would permit the reinstatement of a flight instructor certificate, either by satisfactorily accomplishing an additional flight instructor rating practical test or by satisfactorily accomplishing a practical test on one of the ratings listed on the expired flight instructor certificate.

(8) Proposal to standardize the recent experience requirements for ground instructor certificates.

The FAA proposes to amend § 61.19(e) by linking the currency requirements for the ground instructor certificate with the duration period requirements. The purpose is to further clarify the currency requirements for ground instructors. Since the issuance of § 61.19(e), there have been some questions about how a ground instructor remains current. Therefore, the FAA proposes to amend § 61.19(e) by linking this provision with the recent experience requirements under proposed § 61.217.

(9) Proposal to require Examiners to hold only a 3rd class medical certificate.

The FAA proposes to amend § 61.23(a)(3)(vii) to require Examiners to hold only a 3rd class medical certificate. The FAA wants to parallel the medical certificate requirements for Examiners with the medical certificate requirements that are contained in FAA Order 8710.3D. FAA Order 8710.3D requires that an Examiner hold only a 3rd class medical certificate when performing practical tests in an aircraft (with an exception for Examiners administering practical tests in a glider or balloon).

(10) Proposal to clarify that persons exercising the privileges of a glider or balloon rating are not required to hold a medical certificate.

The FAA proposes to amend § 61.23(b)(3) to clarify that persons exercising the privileges of a glider or balloon rating are not required to hold a medical certificate. The FAA has received questions about the wording of § 61.23(b)(3). Some have asked whether the no medical certificate requirement for operating a balloon or a glider applies only when a person is taking a practical test for a glider or balloon rating, or whether it applies when a person is exercising the privileges of a glider or balloon rating. The rule is intended to apply in both situations. The FAA is proposing to amend § 61.23(b)(3) to clarify that persons exercising the privileges of their glider or balloon rating in a glider or a balloon, as appropriate, are not required to hold a medical certificate. As further discussed in proposed § 61.23(b)(8), a person also is not required to hold a medical certificate when taking a practical test for a balloon or glider rating.

(11) Proposal to add situations where an Examiner need not hold a medical certificate.

The FAA proposes to amend § 61.23(b)(7) to establish that when an Examiner or a Check Airman is administering a test or check for an airman certificate, rating, or authorization in a glider, balloon, flight simulator, or flight training device, he or she would not be required to hold a medical certificate. Existing § 61.23(b)(7) states that an Examiner or Check Airman is not required to hold a medical certificate when administering a test or check for a certificate, rating, or authorization in a flight simulator or flight training device. The words “glider” and “balloon” were inadvertently left out when the rule was last revised.

(12) Proposal to add situations where an applicant need not hold a medical certificate.

The FAA proposes to amend § 61.23(b)(8) to establish that when an applicant is receiving a test or check for a certificate, rating, or authorization in a glider, balloon, flight simulator, or flight training device, the applicant is not required to hold a medical certificate.

Existing § 61.23(b)(8) states that an applicant is not required to hold a medical certificate when receiving a test or check for a certificate, rating, or authorization in a flight simulator or flight training device. The words “glider” and “balloon” were inadvertently left out when the rule was last revised.

(13) Proposal to excuse military pilots of the U.S. Armed Forces from having to obtain an FAA medical certificate.

The FAA proposes to add a new § 61.23(b)(9) to excuse military pilots from having to hold an FAA medical certificate. Military pilots would be required to complete a medical examination for flight status as a military pilot from a flight surgeon at a military medical facility of the United States. The examination would have to be current.

In accordance with existing § 61.39(a)(4), for a military pilot to be eligible for a practical test for an airman certificate or rating issued under part 61, an applicant must “hold at least a current third-class medical certificate.” The FAA has determined that the medical examinations provided by a U.S. Armed Forces medical facility to military pilots equals or exceeds the content and quality of a medical certification required by the FAA. Therefore, the FAA proposes to amend § 61.23 by adding paragraph (b)(9) and excuse pilots of the U.S. Armed Forces from having to hold an FAA medical certificate provided that: (1) The pilot completed a medical examination for flight status as a military pilot from a flight surgeon at a U.S. military medical facility; (2) The examination is current; and (3) The flight does not involve a flight in air transportation service under parts 121, 125, or 135 of this chapter.

(14) Proposal to delete the requirement for a person to furnish their social security number.

The FAA proposes to delete the requirement under § 61.29(d)(3) that a person who requests replacement of a lost or destroyed airman certificate, medical certificate, or knowledge test report must furnish their social security number. By law, the FAA cannot require a person to furnish his or her social security number. A person, however, may voluntarily provide his or her social security number as a means to establish his or her identity.

(15) Proposal to delete § 61.31(d)(2).

The FAA proposes to delete § 61.31(d)(2), which requires a PIC of an aircraft to receive “training for the purpose of obtaining an additional pilot certificate and rating that are appropriate to that aircraft, and be under the supervision of an authorized instructor.” The FAA has received inquiries about the difference between subparagraphs (d)(2) and (d)(3), and the FAA determined that these subparagraphs conflict with one another. Furthermore, subparagraph (d)(2) conflicts with § 61.51(e)(1)(i).

When the FAA initially proposed § 61.31(d), it was considering coining a new phrase that was to be known as “supervised PIC flight” that would allow a PIC who was in training to act as PIC of an aircraft if properly supervised by the person's flight instructor. (See 60 FR 41160, 41227, August 11, 1995). The “supervised PIC flight” concept was not adopted in the final rule, but subparagraph (d)(2) erroneously remained in the final rule. (See 62 FR 16220.) Subparagraph (d)(3) of § 61.31 covers what the FAA currently requires in order to act as PIC and for logging PIC time under § 61.51(e)(1)(i).

(16) Proposal to add training and qualification requirements for pilots who want to operate with night vision goggles.

Proposed § 61.31(k) would require ground and flight training and a one-time instructor endorsement for a pilot to act as a PIC during NVG operations. Also, the FAA proposes to “grandfather” those PICs who previously qualified as a PIC for NVG operations under § 61.31(k). Under proposed subparagraph (3), a pilot would not need the “one-time” NVG training and endorsement, provided the pilot can document satisfactory accomplishment of any of the following pilot checks for using NVGs in an aircraft:

• Completion of an official pilot proficiency check for using NVGs and that check was conducted by the U.S. Armed Forces; or

• Completion of a pilot proficiency check for using NVGs under part 135 of this chapter and that check was conducted by an Examiner or a Check Airman.

(17) Proposal to require proof of current residential address at the time of application for a knowledge test.

Proposed § 61.35(a)(2)(iv) would clarify that when a person's permanent mailing address is a P.O. Box, the person must show proof of their current residential address at the time of application for a knowledge test. The purpose of this change is to conform the instructions in proposed § 61.35(a)(2)(iv) with the instructions in existing § 61.60.

(18) Proposal to delete the word “scheduled” in front of the phrase “U.S. military air transport operations.”

The purpose for this proposal is to delete the word “scheduled” that appears in front of the phrase “U.S. military air transport operations” under § 61.39(b)(2) because there is no such thing as “scheduled” U.S. military transport operations.

(19) Proposal to delete the phrase “or a class rating with an associated type rating” in reference to the endorsement exception for applying for an additional aircraft class rating.

The FAA proposes to delete the phrase “or a class rating with an associated type rating” under § 61.39(c)(2) for applying for an additional aircraft class rating. Existing §§ 61.39(a)(6) and 61.63(c) require an applicant for a practical test for an additional aircraft class rating to have received a logbook or training record endorsement from an authorized instructor. Existing § 61.39(c)(2) incorrectly suggests that an endorsement is not required for an applicant for an aircraft class rating. Thus, the FAA is proposing to amend § 61.39(c)(2) by removing the phrase “or a class rating with an associated type rating” to clarify that we are not excepting applicants for an aircraft type rating from obtaining an endorsement from an authorized instructor.

(20) Proposal to clarify the time frame for completing a practical test.

The FAA proposes to change the phrase “60 calendar days” in § 61.39(d) and (e) to read “2 calendar months.” The purpose is to make it simpler to calculate the time for when a segmented practical test must be completed. An applicant who accomplishes a segmented practical test would be required to complete the entire practical test within 2 calendar months after the applicant began the test. For example, an applicant who began the oral portion of the practical test on July 2, 2006, would have to complete the remaining portions of the practical test (i.e., simulator/training device check and aircraft flight check) before the end of September 2006.

(21) Proposal to clarify when an applicant has the choice to perform the practical test as a single pilot or use a second in command.

The FAA is proposing to revise § 61.43(b) to clarify when an applicant can perform the practical test as a single pilot or use a second in command. If a second in command pilot is used under proposed § 61.43(b)(3), the limitation “Second in Command Required” would be placed on the applicant's pilot certificate. Also, we are proposing to revise § 61.43(a) by moving existing § 61.43(a)(5) into proposed § 61.43(b).

Under proposed § 61.43(b)(1), if the aircraft's FAA-approved aircraft flight manual requires the pilot flight crew complement be a single pilot, then the applicant would be required to demonstrate single pilot proficiency on the practical test.

Under proposed § 61.43(b)(2), if the aircraft's type certification data sheet requires the pilot flight crew complement be a single pilot, then the applicant would be required to demonstrate single pilot proficiency on the practical test.

The Cessna 172, Cessna 310, Piper Malibu (PA-44), and Beech Baron (BE-58) are examples of aircraft whose flight manuals and/or type certification data sheets require the pilot flight crew complement be a single pilot.

Under proposed § 61.43(b)(3), if the FAA Flight Standardization Board report, FAA-approved aircraft flight manual, or aircraft type certification data sheet allows the pilot flight crew complement to be either a single pilot, or a pilot and a copilot, then the applicant may perform the practical test as a single pilot or with a copilot. If the applicant performs the practical test with a copilot, the limitation of “Second in Command Required” will be placed on the applicant's pilot certificate. Under proposed § 61.43(b)(3), the “Second in Command Required” limitation may be removed if and when the applicant passes the practical test by demonstrating single-pilot proficiency in the aircraft in which single-pilot privileges are sought.

Examples of aircraft for which a FAA Flight Standardization Board has approved the minimum pilot flight crew compliment to be either a single pilot, or a pilot with a copilot, are certain models of the Beech 300, Beech 1900C, and Beech 1900D airplanes that received certification under SFAR 41; certain models of the Empresa Brasileira de Aeronautica EMB 110 airplanes that received certification under SFAR 41, and certain models of the Fairchild Aircraft Corporation SA227-CC, SA227-DC, and other Fairchild commuter category airplanes on that same type certificate that received certification under SFAR 41 and that have a passenger seating configuration, excluding pilot seats, of nine seats or less and the airplane's type certificate authorizes single pilot operations.

The Cessna 501, Cessna 525, Cessna 551, Raytheon 390, and Beech 2000 are examples of aircraft whose flight manuals and/or type certification data sheets allow the minimum pilot flight crew compliment to be either a single pilot, or a pilot with a copilot.

(22) Proposal to define what is a military aircraft for the purpose of a practical test.

Proposed § 61.45(a)(2)(iii) would clarify what is a “military aircraft” when used on a practical test. Recently, there has been some confusion as whether it is permissible to use a surplus military aircraft that has no civilian aircraft type designation for a practical test for an airman certificate and rating. For example, some applicants have requested to use a surplus military OH-58 Army helicopter for a practical test. These surplus military helicopters are not Bell BH-206 helicopters, and they do not have a civilian type designation. The FAA has determined it is not permissible to use these surplus former military aircraft for completing a practical test.

To clarify this issue, proposed § 61.45(a)(2)(iii) would define a “military aircraft” as an aircraft that is under the direct operational control of the U.S. Armed Forces. Under this definition, surplus military aircraft are not military aircraft because they are not under the direct operational control of the U.S. military.

(23) Proposal to except gliders from the requirement that aircraft used for a practical test must have engine power controls and flight controls that are easily reached and operable in a conventional manner by both pilots.

The FAA proposes to amend § 61.45(c) by excepting gliders from the requirement that aircraft used for a practical test must have engine power controls and flight controls that are easily reached and operable in a conventional manner by both pilots. Gliders do not have engine power controls.

(24) Proposal to provide for logging night vision goggle time.

Proposed § 61.51(b)(3)(iv) would add a provision for logging “night vision goggle time” to show compliance with the training time and aeronautical experience required for acting as a PIC for NVG operations. The logging of NVG time would be permitted when performed in an aircraft in flight, in a flight simulator, or in a flight training device.

(25) Proposal to correct an omission of the words “airline transport pilot” regarding logging of pilot in command time.

Because existing § 61.51(e)(1) does not include “airline transport pilots,” it may appear that holders of airline transport pilot certificates do not have the same PIC logging privileges as recreational pilots, private pilots, and commercial pilots. To avoid any confusion, the FAA proposes to add the words “airline transport pilot” to § 61.51(e)(1).

(26) Proposal to permit a pilot performing the duties of pilot in command while under the supervision of a qualified pilot in command to log pilot in command time.

Proposed § 61.51(e)(1)(iv) would allow a pilot who is performing the duties of pilot in command while under the supervision of a qualified PIC to log PIC time. The purpose for this proposal is to provide another way for holders of a commercial pilot certificate or airline transport pilot certificate to log PIC time.

Section 61.51(e)(1)(iv) would permit a pilot who is performing the duties of PIC to log PIC flight time. The pilot who is performing the duties of PIC would be required to hold a current and valid commercial pilot certificate or a current and valid airline transport pilot certificate, with the aircraft rating that is appropriate to the category and class of aircraft being flown, if a class rating is appropriate. The pilot would be required to be under the supervision of an appropriately qualified PIC. Additionally, the pilot who is performing the duties of PIC would be required to undergo an approved PIC training program consisting of ground and flight training on the following areas of operation: pre-flight preparation, preflight procedures, takeoff and departure phase, in-flight maneuvers, instrument procedures, landings and approaches to landings, normal and abnormal procedures, emergency procedures, and post-flight procedures.

The supervising PIC would be required to hold either a current and valid commercial pilot certificate and a current and valid flight instructor certificate with an aircraft rating that is appropriate to the category, class, and type of aircraft being flown, if a class or type rating is required, or the supervising PIC would be required to hold a current and valid airline transport pilot certificate and aircraft rating that is appropriate to the category, class, and type of aircraft being flown, if a class or type rating is required. The supervising PIC would be required to log the PIC training given in the pilot's logbook, certify having given the PIC training in the pilot's logbook, and attest that certification with his or her signature, flight instructor certificate number and expiration date, or ATP certificate number, as appropriate. This proposal would parallel and clarify the provisions in proposed § 61.129 and existing §§ 61.31(d), 61.159(a)(4), 61.161(a)(3), and 61.163(a)(3) for PIC aeronautical experience.

(27) Proposal to conform the rule for logging of instrument time in a flight simulator, flight training device, and PCATD to existing policy.

The FAA proposes to amend § 61.51(g)(4) so the logging of instrument time in a flight simulator, flight training device, or PCATD conforms to existing policy. An authorized instructor (See § 61.1(b)(2)) must be present in the flight simulator, flight training device, or PCATD when instrument time is logged for training and aeronautical experience used to meet the requirements for a certificate, rating, or flight review (See § 61.51(a)). The instructor must sign the person's logbook to verify the training time and the content of the session.

Examples of situations in which an authorized instructor would be considered present in the flight simulator, flight training device, or PCATD include where an authorized instructor is seated at a center control panel in a flight simulation lab and is monitoring each student's performance from the control panel display; where an instructor assigns a student to perform several instrument tasks and then leaves the room, if the flight training device has a monitoring and tracking system that allows the authorized instructor to review the entire training session; and where one authorized instructor monitors several students simultaneously in the same room at a flight simulation lab.

The instructions for making logbook entries also would be amended to reflect the proposal that PCATDs could be used to meet the instrument time and recent flight experience requirements under part 61.

(28) Proposal to establish the aircraft requirements for when a pilot logs flight time.

Proposed § 61.51(j) would establish the aircraft and aircraft airworthiness requirements for when a pilot logs flight time. To log flight time to meet the aeronautical experience requirements for a certificate, rating, or recent flight experience under part 61, the aircraft must hold an airworthiness certificate (except in the case of U.S. military aircraft flown by U.S. military pilots and under the direct operational control of the U.S. Armed Forces or public aircraft flown by pilots of a Federal, State, county, or municipal law enforcement agency).

This proposal would, in essence, codify existing FAA policy under FAA Order 8700.1, Volume 2, Chapter 1, pages 1-46 and 1-47, paragraph 9.B, which states:

“Logging Time. Unless the vehicle is type certificated as an aircraft in a category listed in (14 CFR) § 61.5(b)(1) or as an experimental aircraft, or otherwise holds an airworthiness certificate, flight time acquired in such a vehicle may not be used to meet requirements of (14 CFR) part 61 for a certificate or rating or to meet the recent flight experience requirements.”

The FAA has received several inquiries about whether it is permissible to use surplus military aircraft that do not hold a civilian type designation as an aircraft or an airworthiness certificate for logging flight time to meet the requirements for a certificate, rating, or recent flight experience under part 61. The FAA's response has been that the aircraft must be of the category, class (if class is applicable), and type (if type is applicable) listed under § 61.5(b)(1) through (7), or the aircraft must hold an experimental airworthiness certificate.

With the issuance of Public Law 106-424, dated November 1, 2000, pilots for a Federal, State, county, or municipal law enforcement agency can log flight time for the purposes of meeting the aeronautical experience requirements for a certificate, rating or recent flight experience under part 61 in limited cases. The stipulation is that the pilot must be operating a public aircraft, as defined under 49 U.S.C. 40102, and the aircraft must be identifiable as a category and class of aircraft, as listed under § 61.5(b), and being used in law enforcement activities of a Federal, State, county, or municipal law enforcement agency.

(29) Proposal to establish the criteria and standards for logging NVG time.

Proposed § 61.51(k) would establish the criteria and standards for logging NVG time. This proposal would establish the minimum information required to be entered when logging time in a pilot's logbook. Per proposed § 61.51(k)(3), the required information that is required to be logged for logging NVG time are the logbook entries covered under § 61.51(b).

Under the proposal, a pilot may log NVG time using NVGs as the sole visual reference of the surface in an operation conducted in an aircraft at night (during the period beginning 1 hour after sunset and ending 1 hour before sunrise) in flight. Alternatively, a pilot may log NVG time in a flight simulator or in a flight training device provided the flight simulator or flight training device's lighting system has been adjusted to replicate the period beginning 1 hour after sunset and ending 1 hour before sunrise.

Under proposed § 61.51(k)(2), the rule would establish when an authorized instructor may log NVG time. The instructor must be conducting NVG training and must be using NVGs as the sole visual reference of the surface. The time must be in an aircraft operated at night in flight, or in a flight simulator or flight training device with the lighting system adjusted to represent the period beginning 1 hour after sunset and ending 1 hour before sunrise.

(30) Proposal to amend the instrument recent flight experience tasks and iterations and to allow use of personal computer aviation training devices, flight simulators, and flight training devices for maintaining instrument recent flight experience.

In § 61.57(c), the FAA proposes to amend the instrument flight experience tasks and iterations and to allow use of PCATD, flight simulators (FS), and flight training devices (FTD) for maintaining instrument recent flight experience.

The proposed change to § 61.57(c) would clarify that a person who acts as pilot in command under IFR or weather conditions less than the minimums prescribed for VFR is required to look back 6 calendar months from the date of the flight to determine whether the instrument flight experience requirements were met. For example, if a pilot intends to act as pilot in command under IFR (or in weather conditions less than the minimums prescribed for VFR) on a flight that is to occur on February 24, 2007, the pilot would count backwards 6 calendar months from the date of the flight to August 2006. The pilot would have to have performed and logged the instrument recent flight experience requirements between August 1, 2006 and February 24, 2007.

For maintaining instrument flight experience in airplanes, powered-lifts, helicopters, and airships, the proposal would require the pilot to perform and log the instrument flight experience in an airplane, powered-lift, helicopter, or airship that is appropriate to the category of aircraft for the instrument rating privileges that the pilot desires to maintain. This instrument flight experience could be completed in either actual instrument meteorological conditions or under simulated instrument conditions with the use of a view-limiting device. The instrument flight experience and iterations must include at least:

• Six instrument approaches consisting of both precision and non-precision approaches;

• One complete holding pattern at a radio station and one complete holding pattern at an intersection or waypoint; and

• One hour of simulated cross-country practice operation that involves intercepting and tracking courses through the use of navigation systems while performing a takeoff phase, area departure phase, enroute phase, area arrival phase, approach phase, and a missed approach phase of flight.

Subject to certain limitations, a pilot could choose to either complete the instrument experience requirements in an aircraft and/or through use of an FS, FTD, or PCATD. The simulation devices would have to be representative of the category of aircraft for the instrument rating privileges that the pilot desires to maintain.

Under proposed § 61.57(c)(2), a person could use an FS or FTD exclusively by performing and logging at least 3 hours of instrument recent flight experience within the 6 calendar months before the date of the flight.

Under proposed § 61.57(c)(3), a person could use a PCATD exclusively by having performed and logged at least 3 hours of instrument recent experience within the 2 calendar months before the date of the flight. We have deliberately proposed differences between the use of a PCATD and an FS or FTD because use of a PCATD to maintain instrument recent experience is a relatively new concept, and the FAA wants to further evaluate its use before we allow use of PCATDs equal to that of FSs and FTDs.

Under proposed § 61.57(c)(4), a person could combine use of the aircraft and an FS, FTD, or PCATD to obtain instrument experience. When a pilot elects to combine use of an aircraft and a simulation device, we would require, under proposed § 61.57(c)(4), completion of one hour of instrument flight time in the aircraft and 3 hours in the FS, FTD, or PCATD within the preceding 6 calendar months.

Under proposed § 61.57(c)(5), a person could combine use of an FS or FTD, and a PCATD to obtain instrument recent experience. When a pilot elects this combination, we would require one hour in an FS or FTD, and 3 hours in a PCATD within the preceding 6 calendar months.

Under proposed § 61.57(c)(6), the instrument tasks and iterations for maintaining instrument flight experience in a glider would be amended and require the pilot to have:

• Performed and logged at least 1 hour of instrument time in flight in a glider or in a single-engine airplane performing cross-country practice operations that involved intercepting and tracking courses through the use of navigation systems while performing an area departure phase, enroute phase, and area arrival phase of flight; and

• At least 2 hours of instrument flight time in a glider or in a single-engine airplane performing straight glides, turns to specific headings, steep turns, flight at various airspeeds, navigation, and slow flight and stalls. However, if the pilot were to carry passenger(s) in a glider under IFR or in weather conditions less than the minimums prescribed for VFR, the 2 hours of instrument recent flight experience would have to be performed in a glider performing performance maneuvers, performance airspeeds, navigation, and slow flight and stalls.

The person would be required to log this instrument recent flight experience, tasks, and iterations in their logbook to show accomplishment of this instrument training. The person would be required to use a view-limiting device when performing this instrument recent flight experience or be in actual instrument meteorological conditions.

(31) Proposal to clarify when a person must perform an instrument proficiency check to act as the PIC under IFR or in weather conditions less than minimums prescribed for VFR.

The FAA proposes to amend § 61.57(d) to clarify when a person, who has not met the instrument recent flight experience of § 61.57(c), must perform an instrument proficiency check to act as the PIC under IFR or in weather conditions less than the minimums prescribed for VFR. The proposal would require a pilot who has not complied with the instrument recent experience requirement of § 61.57(c) within the preceding 12 calendar months to complete an instrument proficiency check to regain PIC instrument qualifications. The proficiency check would have to be performed in the same aircraft category that is appropriate to the instrument privileges desired. The proficiency check would consist of the tasks listed in the practical test standards for the instrument rating appropriate to the aircraft category.

As explained in the discussion of proposed § 61.57(c), this proposal would require a pilot to perform and log the instrument recent flight experience within the preceding six calendar months from the date of the flight to act as the PIC under IFR or in weather conditions less than the minimums prescribed for VFR. Under proposed § 61.57(d), if the pilot has not performed and logged the required instrument recent flight experience within the preceding six calendar months from the date of the flight, the pilot is given an additional 6 calendar months to perform and log the required instrument recent flight experience. However, during this 6-month period, the pilot may not act as the PIC under IFR or in weather conditions less than the minimums prescribed for VFR until the pilot performs and logs the required instrument recent flight experience of proposed § 61.57(c). If during this 6-month period, the pilot does not accomplish the required instrument recent flight experience, then the pilot would have to perform an instrument proficiency check to regain his or her instrument currency.

For example, if a pilot is intending to act as pilot in command under IFR (or in weather conditions less than the minimums prescribed for VFR) on a flight on February 24, 2007, and the pilot has not completed the required instrument recent flight experience of proposed § 61.57(c), then the pilot would count backwards 12 calendar months from the date of the flight. Thus, the pilot would have to have performed and logged the instrument recent flight experience requirements at sometime between February 24, 2007, and February 1, 2006, to avoid being required to submit to an instrument proficiency check.

(32) Proposal to establish a recent flight experience requirement for acting as a PIC in a night vision goggle operation.

Proposed § 61.57(f) would establish a recent flight experience requirement to remain PIC qualified for “NVG operations.” To understand the term, “NVG operations,” it is necessary to further clarify the term “flight.” The term “flight” means a takeoff and landing, with each landing involving a flight in the traffic pattern. Thus, a person who performs six takeoffs and landings, with each landing involving a flight in the traffic pattern, and uses NVGs to maintain visual reference may log six “NVG operations.”

For a pilot to act as a PIC using NVGs with passengers on board, the pilot, within the preceding 2 calendar months, would have to perform and document the tasks under proposed § 61.57(f) as the sole manipulator of the controls during the time period that begins 1 hour after sunset and ends 1 hour before sunrise. If the pilot had not performed and logged the tasks under § 61.57(f), then the FAA would allow the pilot an additional 2 calendar months to perform and log the tasks under § 61.57(f). However, the pilot would not be allowed to carry passengers during this second 2-month period. If the pilot had still not performed and logged the NVG tasks in proposed § 61.57(f) during those additional 2 calendar months, then the pilot would be required to pass a NVG proficiency check to act as a PIC using night vision goggles.

To explain this “2 calendar month” currency criteria in proposed § 61.57(f)(1), lets say for the sake of explaining this that the proposal becomes a final rule effective December 1, 2006. In this example, today is now February 24, 2007 and the pilot intends to act as pilot in command using NVGs with passengers on board a flight. The pilot would count backwards 2 calendar months from the date of the flight which means the pilot would count backwards from February 24, 2007, the month of January, 2007, and through the month of December, 2006 to December 1, 2006). Therefore, the pilot would have to have performed and logged the required NVG operating experience between December 1, 2006 and February 24, 2007.

Under proposed § 61.57(f)(2), if a pilot has not performed and logged the required NVG recent flight experience between December 1, 2006 and February 24, 2007, then that pilot would have to perform and log the required NVG operating experience by April 30, 2007 to act as the pilot in command during March 2007 through April 2007 using NVGs, but could not carry passengers on board. Otherwise, per proposed § 61.57(f)(2), the pilot is given 2 additional months to perform and log the required NVG operating experience, but during that period cannot carry passengers until he/she has performed and logged the required NVG operating experience.

(33) Proposal to establish a NVG proficiency check requirement to act as a PIC of a night vision goggle operation.

Proposed § 61.57(g) would establish a proficiency check to be PIC qualified for NVG operations. Also, this proposal would establish a proficiency check to regain PIC qualifications for NVG operations when the pilot's NVG privileges have lapsed.

Proposed § 61.57(g) would require a pilot who has not complied with the NVG operating experience requirement of proposed § 61.57(f) to complete a NVG proficiency check to regain PIC NVG qualifications. The proficiency check would have to be performed in the same aircraft category that is appropriate to the NVG operation desired. The proficiency check would consist of the tasks listed in proposed § 61.31(l) and would be administered by an individual listed under § 61.31(l).

(34) Proposal to amend § 61.59 to parallel § 67.403 to standardize the language between the rules.

The FAA proposes to amend § 61.59(a) and (b) and add (c), in part, to parallel the provisions under existing § 67.403. This proposal would standardize the language in this chapter on falsification, reproduction, and alteration of applications, certificates, logbooks, reports, and records for the purposes of simplicity and clarity.

(35) Proposal to amend the format and re-structure of § 61.63.

The FAA proposes to amend § 61.63 to simplify its format, structure, and move paragraphs (e), (f), and (g), which address the usage and limitations of the flight simulator and flight training device, to proposed § 61.64.

The FAA proposes to revise existing § 61.63(c)(3) to clarify its applicability to those applicants who hold only a lighter-than-air (LTA)-Balloon rating and who seek an LTA-Airship rating. Currently, the word “only” does not appear in § 61.63(c)(3).

The FAA proposes minor amendments to § 61.63(d) to clarify the requirements for an additional type rating and a type rating sought concurrently with an additional aircraft category and class rating.

The FAA proposes to revise existing § 61.63(h) (and re-designate it to proposed § 61.63(e)) to clarify the use of an aircraft on a practical test for a type rating that is not capable of instrument maneuvers and procedures and the issuance of a type rating with a VFR limitation under these circumstances.

The FAA proposes to revise existing § 61.63(i) (and re-designate it to proposed § 61.63(f)) to clarify that an applicant for a type rating in a multiengine airplane with single-pilot station must perform the practical test in the multi-pilot seat version of that multiengine airplane. Or, the practical test may be performed in the single-seat version of that airplane if the Examiner is in a position to observe the applicant during the practical test in the case where there is no multi-seat version of that multiengine airplane. This proposal parallels the same requirements under proposed § 61.157(h) (existing § 61.157(k)) for a type rating in a multiengine airplane with single-pilot station.

The FAA proposes to amend existing § 61.63(j) (and re-designate it to proposed § 61.63(g)) to clarify that an applicant for a type rating at other than ATP certification level for a single engine airplane with a single-pilot station must perform the practical test in the multi-pilot seat version of that single engine airplane. Or, the practical test may be performed in the single-seat version of that airplane if the Examiner is in a position to observe the applicant during the practical test in the case where there is no multi-seat version of that single engine airplane. This proposal would parallel the requirements under proposed § 61.157(i) (existing § 61.157(l)) for a type rating in a single engine airplane with single-pilot station at the ATP certification level.

Proposed § 61.63(i) would permit an Examiner who conducts a practical test for an additional aircraft rating under this section to waive any of the tasks that the FAA has approved waiver authority. This proposal would parallel the proposed requirements under proposed § 61.157(j) (existing § 61.157(m)) at the ATP certification level.

(36) Proposal to address the use and limitations of flight simulators and flight training devices.

The FAA proposes to add § 61.64 that would address the use and limitations of flight simulators and flight training devices for additional aircraft ratings and for aircraft ratings at the ATP certification level. These requirements currently are found under § 61.63(e), (f), and (g). Additionally, proposed § 61.64 would incorporate the parallel requirements for flight simulators and flight training devices that currently are found under § 61.157(g), (h), and (i) at the ATP certification level. The purpose of these changes is to clarify and simplify § 61.63 and § 61.157 and place the use and limitation requirements for flight simulators and flight training devices in one section.

Proposed § 61.64(a) through (f) would clarify when an applicant may use a flight simulator or flight training device for all training, when an applicant may use a flight simulator for all of the required practical test, when the supervising operating experience (SOE) limitation on an applicant's pilot certificate is required, and when the SOE limitation may be removed.

Proposed 61.64(a) would allow an applicant to use a flight simulator for all of the training and the practical test for the airplane category, class, or type rating, provided the flight simulator and the applicant meet specific qualifications under proposed § 61.64(a)(1) through (3).

Proposed § 61.64(b) would allow an applicant for the airplane category, class, or type rating to use a flight training device for training only if the flight training device meets the specific qualifications under proposed § 61.64(b)(1) through (4). The rule would further make clear that a flight training device may not be used for any portion of the practical test. This is not a change to the existing requirements, but a clarification.

Proposed § 61.64(c) would allow an applicant to use a flight simulator for all of the training and the practical test for the helicopter class or type rating, provided the flight simulator and the applicant meet the specific qualifications under proposed § 61.64(c)(1) and (2).

Proposed § 61.64(d) would allow an applicant for the helicopter class or type rating to use a flight training device for training only if the flight training device meets specific qualifications under proposed § 61.64(d)(1) through (4). The rule would further make clear that a flight training device may not be used for any portion of the practical test. This is not a change to the existing requirements but a clarification.

Proposed § 61.64 (e) would state that an applicant may use a flight simulator for all of the training and the practical test for the powered-lift category or type rating, provided the flight simulator and the applicant meet specific qualifications under proposed § 61.64(e)(1) and (2).

Proposed § 61.64(f) would allow an applicant for the powered-lift category or type rating to use a flight training device for training only if the flight training device meets specific qualifications under proposed § 61.64(f)(1) through (4). The rule would further clarify that a flight training device may not be used for any portion of the practical test. This is not a change to the existing requirements but a clarification.

As a result of current language in existing paragraphs (e), (f), and (g) of § 61.63 and paragraphs (g), (h), and (i) of § 61.157, there is confusion as to whether an applicant could complete all training and testing for a type rating in a simulator when there is a supervised operating experience limitation on the applicant's pilot certificate for that aircraft type rating. Proposed § 61.64(a)(2)(i), (c)(2)(i), and (e)(2)(i) would specify that a type rating cannot contain the supervised operating experience limitation (i.e., “This certificate is subject to pilot in command limitations for the additional rating”) for an applicant to use a flight simulator for all (emphasis added) training and testing for a type rating. A flight simulator may be used for some of the required training and testing for a type rating, but not “all” the required training and testing. The kinds and amount of training and testing that would be permitted to be performed in a flight simulator is what the flight simulator is approved for and in accordance with proposed § 61.64(a)(4)(i) and (b), (c)(3)(i) and (d), or (e)(3)(i) or (f), as appropriate for the category of aircraft and type rating sought.

Proposed § 61.64(a)(1)(iii), (c)(1)(iii), and (e)(1)(iii) would establish that at minimum a Level C flight simulator is required if an applicant wishes to use a flight simulator on a practical test for an aircraft rating. Proposed § 61.64(a)(1)(iv), (c)(1)(iv), and (e)(1)(iv) would establish that at minimum a Level A flight simulator is required for an applicant to use a flight simulator for training.

(37) Proposal to require at least 10 hours of cross-country time as pilot in command to be in the category of aircraft appropriate to the instrument rating sought.

The FAA proposes to amend § 61.65 to conform the FAA's instrument rating cross-country time requirements as PIC with the corresponding International Civil Aviation Organization (ICAO) requirements. Proposed § 61.65(d) would address the aeronautical experience and training for the instrument-airplane rating. Proposed § 61.65(e) would address the aeronautical experience and training for the instrument-helicopter rating. Proposed § 61.65(f) would address the aeronautical experience and training for the instrument-powered-lift rating. As an example, ICAO Annex 1, paragraph 2.10.1.2.2 requires that an applicant for an instrument-helicopter rating log at least of 10 hours of cross-country time as pilot in command in a helicopter. Currently, § 61.65(d)(1) merely states “At least 50 hours of cross-country flight time as pilot in command, of which at least 10 hours must be in airplanes for an instrument-airplane rating.” It does not account for the instrument-helicopter rating or the instrument-powered-lift rating.

(38) Proposal to allow 10 hours of the instrument training to be performed on a personal computer aviation training device (PCATD).

The FAA proposes to amend § 61.65 by adding paragraph (h), which would allow 10 hours of instrument training for the instrument rating to be performed on a PCATD. The instrument training may be given by the holder of a ground instructor certificate with an instrument rating or by a holder of a flight instructor certificate with an instrument rating appropriate to the instrument rating sought. The 10 hours of instrument training given in a PCATD would be included in the 20 hours of instrument training allowed to be performed in a flight simulator or a flight training device under proposed § 61.65(e).

For a PCATD to be used for instrument training under proposed § 61.65, the PCATD, instrument training, and instrument tasks would have to be approved by the FAA. The instrument training on a PCATD would have to be provided by an authorized instructor. For a person to receive the maximum 10 hours of credit in a PCATD, the person may not have logged and be credited for more than 10 hours of instrument training in a flight simulator or flight training device. A view-limiting device would have to be worn by the applicant when logging instrument training in the PCATD. The instrument training and instrument tasks that may be approved for performance on a PCATD would be listed in proposed § 61.65(f). The FAA specifically requests comments on whether, and to what extent, we should allow use of a PCATD for providing instrument training for the instrument rating.

(39) Proposal to correct a typographical error in § 61.69(a)(4).

The FAA is proposing to correct a typographical error in which the word “or” was erroneously deleted from § 61.69(a)(4) during the writing of the “Certification of Aircraft and Airmen for the Operation of Light-Sport Aircraft” Final Rule (See 69 FR 44866; July 27, 2004). With the issuance of that rule, paragraph (a)(4) was revised to read: “Except as provided in paragraph (b) of this section, [the pilot] has logged at least three flights as the sole manipulator of the controls of an aircraft towing a glider or unpowered ultralight vehicle simulating towing flight procedures while accompanied by a pilot who meets the requirements of paragraphs (c) and (d) of this section.” The word “or” was erroneously deleted between the words “vehicle” and “simulating.”

This correction proposes to re-insert the word “or” and to make a minor grammatical revision to paragraph (a)(4) so that the rule will read: “(4) Except as provided in paragraph (b) of this section, [the pilot] has logged at least three flights as the sole manipulator of the controls of an aircraft while towing a glider or unpowered ultralight vehicle, or that person simulates towing flight procedures in an aircraft while accompanied by a pilot who meets the requirements of paragraphs (c) and (d) of this section.”

(40) Proposal to amend the recent flight experience for tow pilots by increasing the time allowed for achieving the required currency to 24 calendar months.

The FAA is proposing to amend § 61.69(a)(6) for persons who serve as tow pilots for glider towing operations by increasing the time limits for when a pilot must have completed the required recent flight experience from 12 to 24 calendar months. This proposal responds favorably to a recommendation from the Soaring Safety Foundation that the existing time limits for recent flight experience may be unnecessarily onerous and cannot be supported by any accident statistics.

(41) Proposal to amend certain special rules affecting U.S. military pilots and former U.S. military pilots who apply for FAA pilot certification.

The FAA proposes to amend § 61.73 by deleting the requirement under § 61.73(b) that current and former pilots of the U.S. Armed Forces must be on active flying status within the past 12 months to qualify for a pilot certificate and rating under these special rules. Under this proposal, U.S. military pilots and former U.S. military pilots would qualify for their civilian pilot certificate and ratings on the basis of their past qualifications as a U.S. military pilot, completion of the military competency aeronautical knowledge test, and accomplishment of a flight review under existing § 61.57.

The FAA proposes new § 61.73(b)(2) to clarify that the aeronautical knowledge test that military pilots are required to take is the “military competency” aeronautical knowledge test.

The FAA proposes new paragraph § 61.73(b)(3) that would change the pilot status for qualifying for a pilot certificate and ratings under these special rules from “pilot in command” to “pilot” in the U.S. Armed Forces. The U.S. military's pilot qualification and flight time recording documents and procedures have changed since the initial establishment of § 61.73. The U.S. Armed Forces no longer issues pilot in command orders to its graduates who complete its Undergraduate Pilot Training Course. Pilot in command status occurs when military pilots report to their permanent duty assignment and complete additional unit checkouts. However, the FAA has determined that the end-of-course test for graduation from a current U.S. military Undergraduate Pilot Training Course is similar in scope and content as it was for military pilots when § 61.73 was initially established.

The FAA proposes new paragraph § 61.73(c) that would establish that a military pilot of the Armed Forces of a foreign contracting State to the Convention on International Civil Aviation who has been assigned pilot duties (for other than for flight training) with the U.S. Armed Forces would not be required to first hold a current civil pilot license from that contracting State's civil aviation authority. The FAA finds there is no safety reason for the existing requirement. Thus, foreign military pilots who are assigned to U.S. military units would be afforded the opportunity to be issued U.S. commercial pilot certificates and ratings appropriate to their military pilot qualifications.

The FAA proposes to amend existing § 61.73(f) and re-designate it as paragraph (e). The purpose of this proposal is to further clarify that a military pilot may qualify for a type rating to be added to a pilot certificate provided there is a comparable civilian type designation of that military aircraft.

(42) Proposal to establish a new privilege and procedures for issuing flight instructor certificates and ratings to U.S. military instructor pilots.

The FAA proposes to add § 61.73(g) to establish a new privilege and procedure for issuing flight instructor certificates and ratings to U.S. military instructor pilots who graduate from an U.S. military instructor pilot school with an instructor pilot qualification.

The FAA has been participating in a U.S. Department of Labor program that encourages governmental agencies to recognize U.S. military training and qualification. For years, the FAA has recognized the training and qualifications of U.S. military pilots and has issued FAA commercial pilot and instrument rating certification to military rated pilots who graduate from a U.S. Armed Forces undergraduate pilot training school. The FAA now proposes to issue flight instructor certificates and ratings to rated military instructor pilots who graduate from an instructor pilot course of the U.S. Armed Forces. To be issued a flight instructor certificate and rating, a military instructor pilot would have to pass a knowledge test that covers the aeronautical knowledge areas listed under § 61.185(a) of this part that are appropriate to the military instructor pilot ratings and privileges held. This would mean that the applicant would have to pass the appropriate knowledge tests that cover the aeronautical knowledge areas on:

• Fundamentals of instructing, including the learning process, elements of effective teaching, student evaluation and testing, course development, lesson planning, and classroom training techniques;

• Recreational, private, and commercial pilot certification, applicable to the aircraft category for which flight instructor privileges are sought; and

• The aeronautical knowledge areas for the instrument rating applicable to the category for which instrument flight instructor privileges are sought.

Additionally, a U.S. military instructor pilot would be required to show the documentation described in proposed § 61.73(g)(3) to an FAA Aviation Safety Inspector, FAA Aviation Safety Technician, or an authorized Examiner (this would mean, authorized to issue the flight instructor certificate and rating(s) to a U.S. military instructor pilot).

(43) Proposal to clarify, simplify, and list the documents required for proving rated U.S. military pilot status to qualify for FAA pilot certification.

Proposed § 61.73(h) would clarify, simplify, and list the documents required for proving a current or former rated military pilot is qualified for FAA pilot certification. The purpose is to respond to inquiries received by the FAA on what documents are required to show proof as a rated military pilot in the U.S. Armed Forces.

(44) Proposal to require that a foreign pilot who applies for an U.S. private pilot certificate on the basis of the person's foreign pilot license must hold at least a foreign private pilot license.

Proposed § 61.75(a) and (b) would require that a foreign pilot who applies for an U.S. private pilot certificate on the basis of that person's foreign pilot license hold at least a foreign private pilot license. Additionally, the proposal would require the foreign pilot license to be “valid,” which means it has not been surrendered, suspended, revoked, or expired.

Before the August 4, 1997, amendments to part 61 (hereinafter to be referred to as the “1997 Amendments”), § 61.75 provided that to apply for a U.S. pilot certificate on the basis of a foreign pilot license, the pilot had to hold a foreign pilot license at the level of private pilot certificate or higher. The foreign pilot license also had to be issued by a member State to the Convention on International Civil Aviation. Under the 1997 Amendments, the requirement that the foreign pilot license to be at the level of private pilot certificate or higher was deleted without considering that there are some foreign countries that issue pilot certificates below the private pilot license (i.e., recreational pilot licenses, sport pilot licenses, or private pilot licenses with a limitation that restricts the exercising of the foreign pilot license to a particular foreign country). (See 62 FR 16257 and 16321). Therefore, the FAA proposes to amend § 61.77 (a) and (b) to clarify that the foreign pilot license used to apply for the U.S. private pilot certificate under the provisions of this section must be at a private pilot license level or higher, without geographical restrictions, or otherwise meets at least the private pilot licensing requirements of Annex 1 of the International Civil Aviation Organization.

(45) Proposal to permit the issuance of a U.S. private pilot certificate to foreign pilots who hold a U.S. student pilot certificate.

The FAA proposes to amend § 61.75(b)(3) to clarify that a foreign person may apply for a U.S. private pilot certificate if that person holds a U.S. student pilot certificate.

Prior to the 1997 Amendments, § 61.75(b)(3) allowed a U.S. pilot certificate to be issued to the holder of a foreign pilot certificate if “he [did] not hold a U.S. pilot certificate of private pilot grade or higher.” When the FAA amended § 61.75(b)(3), it deleted the words “of private pilot grade or higher” to accommodate the recreational pilot certificate without considering that this change would seem to eliminate foreign persons from being able to hold U.S. student pilot certificates. This was unintentional. Thus, under this proposal, we want to clarify that a foreign person may hold a U.S. student pilot certificate and apply for a § 61.75 U.S. private pilot certificate. Furthermore, it should be understood that foreign persons may apply for and receive U.S. pilot certificates through the standard part 61 pilot certification process or under the special provisions and procedures of § 61.75.

(46) Proposal to clarify that an aircraft rating on a pilot certificate based on a foreign pilot license is issued for private pilot certificate privileges only.

The FAA proposes to amend § 61.75(c) to clarify that an aircraft rating on a U.S. pilot certificate that was issued on the basis of rating(s) held on the person's foreign pilot license is issued for private pilot privileges only.

Before the 1997 Amendments, a person who held a current commercial pilot license or higher level foreign pilot license issued by a contracting State to the Convention on International Civil Aviation (ICAO) could apply for and be issued U.S. commercial pilot certificate with the appropriate ratings. When § 61.75 was amended, the rule provided for the issuance of a U.S. pilot certificate at the private pilot certification level only. Specifically, § 61.75(a) permits a holder of a current foreign pilot license issued by a contracting State to ICAO to “apply for and be issued a private pilot certificate with the appropriate ratings when the application is based on the foreign pilot license * * *.” However, there is some confusion as to whether § 61.75(c) applies to additional ratings for those foreign pilots who were issued U.S. pilot certificates under § 61.75. Therefore, to further clarify § 61.75(c) so that it conforms to the existing requirements of § 61.75(a), which limits the issuance of the U.S. pilot certificate to the private pilot certificate, the FAA proposes to add the phrase “for private pilot privileges only” to § 61.75(c).

(47) Proposal to correct an error under § 61.75 that states “U.S. private pilot certificate” when it should state “U.S. pilot certificate”.

Before the 1997 Amendments, the FAA had issued U.S. commercial pilot certificates to holders of foreign commercial pilot licenses or higher who applied for our U.S. commercial pilot certificate and ratings on the basis of § 61.75. When the FAA amended paragraph (e) under § 61.75, the rule was changed to read a person who receives a “U.S. private pilot certificate.” The rule, however, needs to account for those outstanding foreign pilots who hold U.S. commercial pilot certificates. Accordingly, the FAA proposes to amend:

• Paragraph (e) by changing the phrase “U.S. private pilot certificate” to “U.S. pilot certificate.”

• Paragraph (e)(1) by amending the phrase “U.S. private pilot privileges” to “with the pilot privileges authorized by this part and the limitations placed on that U.S. pilot certificate.”

• Paragraph (e)(4) by changing the phrase “U.S. private pilot certificate” to read “U.S. pilot certificate.”

• Paragraph (f) of § 61.75 in two places by changing the phrase “may be used as basis for issuing a U.S. private pilot certificate” to read “may be used as basis for issuing a U.S. pilot certificate.” And in the second sentence change the phrase “used as a basis for issuing a U.S. private pilot certificate” to “used as a basis for issuing a U.S. pilot certificate.”

• The title phrase of paragraph (g) under § 61.75; where it states “Limitation placed on a U.S. private pilot certificate,” it would read “Limitation placed on a U.S. pilot certificate.” The FAA proposes to amend paragraph (g) in two other places by revising the phrase that reads “A U.S. private pilot certificate issued under this section” to read “A U.S. pilot certificate issued under this section.” And, where it reads “upon which the issuance of the U.S. private pilot certificate,” it would be changed to read “upon which the issuance of the U.S. pilot certificate.”

(48) Proposal to clarify the requirements for issuance of Special Purpose Pilot Authorizations.

The FAA proposes to amend various paragraphs under § 61.77 to address some confusion about the special purpose pilot authorizations and correct some inconsistencies. The special purpose pilot authorization is a letter issued by the FAA to a foreign pilot for the purpose of performing pilot duties on a civil aircraft of U.S. registry that is leased to a person who is not a citizen of the United States and for carrying persons or property for compensation or hire.

Ever since § 61.77 was last revised under the 1997 Amendments, there has been confusion as to who could be issued a special purpose pilot authorization and what kind of operations are permitted under a special purpose pilot authorization. See 62 FR 16220. For example, the FAA discovered that a foreign corporate operator had been issued special purpose pilot authorizations in error. The FAA never intended that special purpose pilot authorizations be issued to foreign corporate operators that are not performing the carriage of persons or property for compensation or hire. Foreign pilots involved in part 91 operations have the ability to apply for and receive U.S. pilot certificates in accordance with § 61.75 or through the standard part 61 pilot certification process. Therefore, the FAA proposes to add § 61.77(a)(2)(i) through (iv) to clarify what kind of operations foreign pilots are required to be performing to be eligible for a special purpose pilot authorization.

Additionally, the FAA determined that the citizenship or resident status requirement under existing § 61.77(b)(1) conflicts with the policy authorizing holders of foreign pilot licenses to serve as pilots in U.S. registered aircraft for the kinds of flight operations covered by special purpose pilot authorizations. Thus, the citizenship or resident status requirement is unnecessary. The proposal would delete the phrase “from which the person holds citizenship or resident status” under § 61.77(b)(1) because some pilots of foreign air carriers do not even hold citizenship or resident status in the country from which they hold their pilot licenses, as is the case of U. S. citizens who serve as flight crewmembers aboard U.S. registered aircraft for foreign air carriers. Therefore, we have determined this requirement in § 61.77(b)(1) is burdensome and unnecessary.

Furthermore, the FAA proposes to delete § 61.77(b)(5) (i.e., a recent flight experience requirement under § 61.57 to be issued a special purpose pilot authorization) because the normal procedure for issuing special purpose pilot authorizations requires the foreign air carriers only to send the application and copies of the person's foreign pilot and medical licenses to the FAA and does not require the airman to appear in person to the FAA. The FAA has no way of determining whether the pilot has complied with § 61.57 currency requirements. Therefore, the FAA proposes to delete existing § 61.77(b)(5).

(49) Proposal to require a student pilot certificate to apply for a recreational pilot certificate.

Proposed § 61.96(b)(9) would require a person to hold a student pilot certificate to apply for a recreational pilot certificate. The FAA believes the rules implicitly require a person to hold a student pilot certificate before making application for a recreational pilot certificate. To apply for a recreational pilot certificate, an applicant must log at least 3 hours of solo flight time. See 14 CFR § 61.99(b). To operate an aircraft in solo flight, the person must hold at least a student pilot certificate. See 14 CFR § 61.87(l)(1). However, to avoid confusion, we are proposing to explicitly require a person to hold a student pilot certificate before applying for a recreational pilot certificate.

(50) Proposal to allow recreational pilot certificate holders to act as PIC in rotorcraft with more than a 180 horsepower powerplant.

Currently, holders of recreational pilot certificates are limited from acting as PIC of an aircraft that is certificated “with a powerplant of more than 180 horsepower.” The purpose for the more than 180 horsepower powerplant limitation is to keep recreational pilot certificate holders in slower, less complex aircraft. The FAA has determined that the 180 horsepower powerplant limitation is not appropriate for helicopters or gyroplanes. For example, the Bell 47 is a 1950-era helicopter that is simple in design and quite easy to fly. However, because some Bell 47 helicopters' engines exceed the 180 horsepower rating, holders of recreational pilot certificates are restricted from acting as PIC of those helicopters. Therefore, the FAA proposes to amend § 61.101(e)(1)(iii) to exclude aircraft that are certificated in the rotorcraft category from the 180 horsepower powerplant limitation. The 180 horsepower powerplant limitation would only apply to aircraft certificated in the airplane category.

(51) Proposal that a person must hold either a student pilot certificate or a recreational pilot certificate to apply for a private pilot certificate.

Proposed § 61.103(j) would require a person to hold either a student pilot certificate or a recreational pilot certificate to apply for a private pilot certificate.

The rules implicitly require a person to either hold a student pilot or recreational pilot certificate before making application for a private pilot certificate. To apply for a private pilot certificate, an applicant must log at least 10 hours of solo flight time. See 14 CFR § 61.109. To operate an aircraft in solo flight, the person must hold at least a student pilot certificate. See 14 CFR § 61.87(l)(1). However, to address any possible confusion, the proposed change would explicitly require that a person hold either a student pilot certificate or a recreational pilot certificate to apply for a private pilot certificate.

(52) Proposal to amend the solo cross-country mileage requirements for consistency with the mileage requirements under the definition of “cross-country.”

The FAA proposes to amend § 61.109(a)(5)(ii), (b)(5)(ii), and (e)(5)(ii) to standardize use of the term “cross-country” throughout part 61. Under § 61.1(b)(3)(ii), the FAA defines the distance of a cross-country flight, in pertinent part, as “more than 50 nautical miles.” Under § 61.109(a)(5)(ii), (b)(5)(ii), and (e)(5)(ii), the regulations erroneously state, “of at least 50 nautical miles” (emphasis added). The proposal amends all definitions of “cross-country” to read “more than 50 nautical miles.”

(53) Proposal to amend the solo cross-country mileage requirement for the private pilot-helicopter rating.

The FAA proposes to amend § 61.109(c)(4)(ii) so the cross-country distance requirement for the helicopter rating at the private pilot certification level conforms to the ICAO requirements for the helicopter rating and also conforms to the definition of cross-country distance under § 61.1(b)(3)(v).

The existing solo cross-country distance requirement under § 61.109(c)(4)(ii) for the private pilot-helicopter rating states that the solo cross-country flight must be “at least 75 nautical miles total distance.” The ICAO requirements, set forth under Annex I, paragraph 2.7.1.3.2 require that the total distance be at least 100 nautical miles total distance. Therefore, the FAA proposes to amend the private pilot-helicopter rating requirement to conform to the ICAO requirement.

Additionally, the helicopter rating for private pilot certification under § 61.109(c)(4)(ii) erroneously states “of at least 25 nautical miles.” The FAA proposes to amend the rules to read “more than 25 nautical miles” to conform to the definition of “cross-country” under § 61.1(b)(3)(v).

(54) Proposal to amend the solo cross-country mileage requirement for the private pilot-gyroplane rating.

The FAA proposes to amend § 61.109(d)(4)(ii) to conform the cross-country distance for the gyroplane rating at the private pilot certification level to the ICAO requirements for the gyroplane rating and to § 61.1(b)(3)(v).

The existing solo cross-country distance requirement for the private pilot-gyroplane rating states that the solo cross-country flight must be “at least 75 nautical miles total distance.” The ICAO requirements, set forth under Annex I, paragraph 2.7.1.3.2, require that the total distance be at least 100 nautical miles total distance. Therefore, the FAA proposes to amend the cross-country distance for the private pilot-gyroplane rating to conform to the ICAO cross-country distance requirement for the gyroplane rating at the private pilot certification level.

Additionally, the gyroplane rating for private pilot certification under § 61.109(d)(4)(ii) erroneously states “of at least 25 nautical miles.” The proposal would amend the rules to read “more than 25 nautical miles” in conformance with the definition of “cross-country” under § 61.1(b)(3)(v).

(55) Proposal to add requirements for ground reference maneuvers for commercial pilot certification—gyroplane rating.

Proposed § 61.127(b)(4)(vi) would require training in “ground reference maneuvers” for the gyroplane rating at the commercial pilot certification level. When the FAA amended the area of operations under § 61.127 for the gyroplane rating at the commercial pilot certification level, the reference to “ground reference maneuvers” was deleted. After further review of that decision, the FAA proposes to re-instate “ground reference maneuvers” as an area of operation for the gyroplane rating at the commercial pilot certification level because it is believed by both the agency and training providers to be an important training and certification task. The ground reference maneuvers must include at least “eights around a pylon,” “eights along a road,” “rectangular course,” “S-turns,” and “turns around a point.”

(56) Proposal to delete the requirement for the “ground reference maneuver” in the area of operation for commercial pilot certification—powered-lift rating.

The FAA proposes to delete the requirement for the “ground reference maneuver” area of operation under § 61.127(b)(5)(vii) for the powered-lift rating at the commercial pilot certification level. An FAA Flight Standardization Board determined the “ground reference maneuver” is not appropriate for the powered-lift rating at the commercial pilot certification level.

(57) Proposal to clarify the tasks required for “instrument training” for commercial pilot certification—airplane single-engine rating.

Ever since the instrument aeronautical experience requirement was adopted under § 61.129 by the 1997 Amendments, we have received questions about what is the appropriate training for instrument aeronautical experience. Therefore, we are proposing § 61.129(a)(3)(i) to clarify the tasks required for “instrument aeronautical experience” for the airplane single-engine rating at the commercial pilot certification level. Under this proposal, “instrument aeronautical experience” would include at least “10 hours of instrument training, of which at least five hours must be in a single-engine airplane and must include training using a view-limiting device for attitude instrument flying, partial panel skills, recovery from unusual flight attitudes, and intercepting and tracking navigational systems.”

(58) Proposal to clarify the tasks required for “instrument training” for commercial pilot certification—airplane multiengine rating.

As discussed above in paragraph 57, the regulated community has asked the FAA to clarify what is considered appropriate training to cover instrument aeronautical experience. Therefore, we are proposing § 61.129(b)(3)(i) to clarify the tasks required for “instrument training” for the airplane multiengine rating at the commercial pilot certification level. This proposal would include at least “10 hours of instrument training, of which at least five hours must be in a multiengine airplane and must include training using a view-limiting device for attitude instrument flying, partial panel skills, recovery from unusual flight attitudes, and intercepting and tracking navigational systems.”

(59) Proposal to allow use of a flight simulator, flight training device, or PCATD for some of the instrument training required for commercial pilot certification—helicopter rating.

Proposed § 61.129(c)(3)(i) would allow the instrument training that is required for the helicopter rating at the commercial pilot certification level to be performed in an aircraft, flight simulator, flight training device, or PCATD.

Additionally, the FAA proposes to clarify, in response to questions raised by the regulated community, the training required to satisfy instrument training for the helicopter rating at the commercial pilot certification level. The instrument training would include at least “5 hours of instrument training and must include training using a view-limiting device for attitude instrument flying, partial panel skills, recovery from unusual flight attitudes, and intercepting and tracking navigational systems.”

(60) Proposal to allow use of a flight simulator, flight training device, or PCATD for some of the instrument training required for commercial pilot certification—gyroplane rating.

Proposed § 61.129(d)(3)(i) would reduce the number of hours of instrument training required from 5 to 2.5 hours, and allow the instrument training required for the gyroplane rating at the commercial pilot certification level to be performed in an aircraft, flight simulator, flight training device, or PCATD. The FAA believes that the training for the commercial pilot—gyroplane rating would be more useful if the training focused on other tasks. We recognize that gyroplanes are normally not sufficiently equipped for instrument flight operations and are flown mostly in day-VMC conditions.

Additionally, the FAA proposes to clarify, because of the number of questions we have received, the instrument training required to satisfy the “instrument training” required for the gyroplane rating at the commercial pilot certification level. The instrument training would have to include at least 2.5 hours of instrument training, including training using a view-limiting device for attitude instrument flying, partial panel skills, recovery from unusual flight attitudes, and intercepting and tracking navigational systems.

(61) Proposal to clarify the tasks required for “instrument training” for commercial pilot certification—powered-lift rating.

To respond to questions we have received regarding what tasks are required to constitute “instrument training,” we are proposing § 61.129(e)(3)(i) for the powered-lift rating at the commercial pilot certification level. This proposal would require at least “10 hours of instrument training, of which at least five hours must be in a powered-lift and must include training using a view-limiting device for attitude instrument flying, partial panel skills, recovery from unusual flight attitudes, and intercepting and tracking navigational systems.”

(62) Proposal to allow cross-country training flights to be performed under VFR or IFR.

The FAA proposes to amend § 61.129(a)(3)(iii) and (iv), (b)(3)(iii) and (iv), (c)(3)(ii) and (iii), (d)(3)(ii), (e)(3)(ii) and (iii), (g)(4)(ii) and (iii) to allow the required cross-country flights for commercial pilot certification to be performed under VFR or IFR.

Currently, § 61.129 requires one cross-country flight in day VFR conditions and one cross-country flight in night VFR conditions. Since establishing these cross-country training requirements, the FAA has received comments from training schools requesting that we allow flights to be performed under IFR. According to the schools, most applicants for commercial pilot certification—airplane rating and some applicants for the helicopter rating are enrolled in an instrument rating course at the same time they are undergoing their commercial pilot certification training. Thus, it would make sense to allow the cross-country training requirements under § 61.129 to be performed under IFR. The FAA agrees and is proposing to allow the cross-country training requirements under § 61.129 for commercial pilot certification for the airplane, rotorcraft, powered-lift, and airship ratings to be performed under VFR or IFR.

(63) Proposal to delete the night training requirement for commercial pilot certification—gyroplane rating.

The FAA proposes to delete the night cross-country aeronautical experience requirement under § 61.129(d)(3)(iii) for the gyroplane rating at the commercial pilot certification level. The FAA is proposing to replace the night cross-country aeronautical experience requirement with 2 hours of flight training at night that consists of ten takeoffs and ten landings at an airport. The reason for this proposal is that night-time training for the gyroplane rating at the commercial pilot certification level would be more useful and more safely conducted in the vicinity of an airport. Gyroplanes have limited equipment and systems for night-time operations, and a cross country flight raises some added safety concerns in gyroplanes with their limited instrument flight and navigation capabilities.

(64) Proposal to amend the commercial pilot certification solo aeronautical experience requirements to allow the aeronautical experience to be performed either solo or while performing the duties of PIC with an instructor on board.

The FAA proposes to amend § 61.129(a)(4), (c)(4), (d)(4), (e)(4), and (g)(2) to allow the commercial pilot certification aeronautical experience to be conducted either solo or while performing the duties of PIC with an instructor on board. Even though the commercial pilot certification aeronautical experience requirements for a multiengine airplane rating allow the aeronautical experience requirements to be conducted either solo or with an authorized instructor on board (see § 61.129(b)(4)), the solo aeronautical experience requirements were purposely written differently for other aircraft categories. This is because comments received in response to Notice No. 95-11 (60 FR 41160, August 11, 1995) indicated that some insurance policies prohibit persons who do not already hold the multiengine airplane category and class rating on their pilot certificate from flying solo in multiengine airplanes.

Since the adoption of § 61.129, the FAA has learned that some operators of the other categories and classes of aircraft also have the same insurance policy restrictions. Many of these aircraft operators also believe the solo provisions for commercial pilot certification—multiengine airplane rating that permit the training to be performed solo or with an instructor to be on board while the applicant is performing the duties of PIC in a multiengine airplane is beneficial in teaching crew resource management. Some operators have said that they would be agreeable to their commercial pilot applicants practicing abnormal and emergency procedures if the applicant's instructor was on board. Therefore, the FAA proposes to allow commercial pilot certification for the single-engine airplane, helicopter, gyroplane, powered-lift, and airship ratings to be performed either solo or while performing the duties of PIC with an authorized instructor aboard.

(65) Proposal to clarify the tasks required for the “instrument training” for commercial pilot certification—airship rating.

Ever since the instrument aeronautical experience requirement was adopted under § 61.129 by the 1997 Amendments, we have received questions about what is considered appropriate training to cover instrument aeronautical experience. Proposed § 61.129(g)(3)(i) would clarify the tasks required for “instrument training” for the airship rating at the commercial pilot certification level to include the use of a view-limiting device for attitude instrument flying, partial panel skills, recovery from unusual flight attitudes, and intercepting and tracking navigational systems.

(66) Proposal to revise the ATP eligibility requirements for persons holding foreign commercial or ATP pilot licenses.

The FAA proposes to make minor revisions to § 61.153(d)(3), the ATP eligibility requirements for persons holding foreign commercial or ATP pilot licenses, by including the requirement that the foreign commercial or ATP pilot license must contain no geographical limitations. The FAA has determined that a foreign applicant for the U.S. ATP certificate should not be qualified if the foreign ATP license has a geographical limitation.

(67) Proposal to move the provisions for use and limitations of a flight simulator and flight training device from the ATP flight proficiency requirements of § 61.157 to the new proposed § 61.64 and to make other clarifying revisions.

The FAA proposes to reword proposed § 61.157(g) (existing paragraph (j)) to clarify the use of an aircraft on a practical test for a type rating that is not capable of instrument maneuvers and procedures and the issuance of a type rating with a VFR limitation under those circumstances. This proposal parallels the proposed change under § 61.63(e).

Additionally, this proposal would remove paragraphs (g), (h), and (i) that address the use and limitations of a flight simulator and flight training device and move those requirements under proposed § 61.64.

(68) Proposal to allow an applicant for a type rating at the ATP certification level in a multiengine, single-pilot station airplane to meet the requirements of this part in a multi-seat version of a multiengine airplane.

Proposed § 61.157(h) would require an applicant for a type rating at the ATP certification level for a multiengine airplane with single-pilot station to perform the practical test in the multi-pilot seat version of that multiengine airplane. Or, the practical test may be performed in the single-seat version of that airplane if the Examiner is in a position to observe the applicant during the practical test in the case where there is no multi-seat version of that multiengine airplane. This proposal parallels proposed § 61.63(f) for a type rating in a multi-engine airplane with single-pilot station at other than the ATP certification level.

(69) Proposal to allow an applicant for a type rating at the ATP certification level in a single-engine, single-pilot station airplane to meet the requirements of this part in a multi-seat version of a single-engine airplane.

Proposed § 61.157(i) would require an applicant for a type rating at the ATP certification level for a single engine airplane with single-pilot station to perform the practical test in the multi-pilot seat version of that single engine airplane. Or, the practical test may be performed in the single-seat version of that airplane if the Examiner is in a position to observe the applicant during the practical test in the case where there is no multi-seat version of that single engine airplane. This proposal parallels proposed § 61.63(g) for a type rating in a single engine airplane with single-pilot station at other than the ATP certification level.

(70) Proposal to allow U.S. military flight engineers to credit flight engineer time when applying for an ATP pilot certificate.

Proposed § 61.159(c)(3) would allow a U.S. military flight engineer to credit flight engineer time toward the aeronautical experience requirements for an ATP certificate. Under existing § 61.159(c)(2), a flight engineer who is employed by part 121 operator is allowed to credit flight engineer time toward an ATP certificate. Thus, the proposed change would give military flight engineers the same opportunity.

(71) Proposal to conform ATP aeronautical experience requirements to ICAO requirements.

The FAA proposes to amend § 61.159(d) and (e) to conform to current ICAO requirements for the ATP aeronautical experience requirements for the airplane category as stated in paragraphs 2.1.9.2 and 2.5.1.3 of the Personnel Licensing, ICAO Annex 1, to the Convention on International Civil Aviation.

For the past few years, the FAA has received inquiries as to whether applicants for an ATP certificate with the ICAO limitation “Holder does not meet the pilot in command aeronautical experience requirements of ICAO” must have 1,500 hours of total time as a pilot or 1,200 hours of flight time as a pilot as stated in existing § 61.159(d)(2). The current FAA regulation applies an obsolete ICAO ATP airplane aeronautical experience rule. Before 1974, ICAO only required 1,200 hours of total flight time to qualify for an ATP certificate in the airplane category. In 1974, ICAO amended its ATP aeronautical experience requirements for the airplane category to require 1,500 hours of flight time as a pilot and retained the additional qualifying aeronautical experience requirements of only permitting 50 percent of an applicant's second-in-command time to be credited and none of an applicant's flight-engineer time could be credited (see paragraphs 2.1.9 and 2.5.1.3 of ICAO Annex 1, Personnel Licensing). This proposed change would conform the FAA regulations to the existing ICAO standard.

(72) Proposal to delete the flight instructor-glider flight proficiency maneuver known as the “go around” task.

The FAA proposes to delete the flight instructor-glider flight proficiency maneuver known as the “go around” under § 61.187(b)(6)(vii) because non-powered gliders are not capable of a go-around maneuver.

(73) Proposal to establish flight instructor qualifications for providing instrument training in flight at the commercial pilot and ATP certification levels.

It is necessary to clarify the flight instructor qualifications for those who give instrument training at the commercial pilot and ATP certification levels. For example, existing § 61.129 requires 10 hours of instrument training for the airplane-single-engine, airplane-multiengine, helicopter, gyroplane, powered-lift, and airship ratings at the commercial pilot certification levels. Yet, under existing § 61.195(c), the FAA established flight instructor instrument qualification requirements only for flight instructors who give instrument training for “the issuance of an instrument rating or a type rating not limited to VFR.” The existing regulation does not specifically address the flight instructor qualifications for providing instrument training for the commercial pilot and ATP certification levels. Therefore, the FAA proposes to amend § 61.195(c) to establish that a flight instructor who provides instrument training required at the commercial pilot and airline transport pilot certification levels must hold an instrument rating on both his or her pilot and flight instructor certificates that are appropriate to the category and class of aircraft in which instrument training is being provided.

(74) Proposal to delete an endorsement requirement on a student pilot certificate for solo flight into Class B airspace.

The FAA proposes to delete the requirement under § 61.195(d)(3) that a flight instructor must endorse a student pilot's certificate to authorize a solo flight in a Class B airspace area or at an airport within Class B airspace. Under existing § 61.95(a)(2) and (b)(2), a student pilot is required only to have his or her logbook endorsed when seeking authorization to perform solo flight in Class B airspace or at an airport within Class B airspace. This change would make the flight instructor endorsement requirement parallel the student pilot endorsement requirements of existing § 61.95(a)(2) and (b)(2).

(75) Proposal to establish flight instructor night vision goggle qualification requirements for a flight instructor.

The FAA proposes to add paragraph (k) to § 61.195 to establish qualification requirements for a flight instructor to give PIC qualification and recent training for NVG operations. The FAA proposes that an instructor who gives PIC qualification and recent training for NVG operations must meet the following eligibility requirements:

• Has a pilot and flight instructor certificate with the applicable category and class rating for the training.

• If appropriate, has a type rating on his or her pilot certificate for the aircraft.

• Is pilot-in-command qualified for NVG operations, in accordance with § 61.31(l).

• Has logged 100 NVG operations as the sole manipulator of the controls.

• Has logged 20 NVG operations as sole manipulator of the controls in the category and class, and type, if class and type is appropriate, of aircraft that the will be given in.

• Is qualified and current to act as a pilot in command in NVG operations under § 61.57(f) or (g).

• Has a logbook endorsement from an FAA Aviation Safety Inspector or a person who is authorized by the FAA to provide that logbook endorsement that states the flight instructor is authorized to perform the NVG pilot in command qualification and recent flight experience requirements under § 61.31(l) and § 61.57(f) and (g).

The FAA has developed these requirements in consultation with industry representatives.

(76) Proposal to allow only a ground instructor with an instrument rating to give ground training for the issuance of an instrument rating and instrument proficiency check and a recommendation for the knowledge test required for an instrument rating.

The FAA proposes to amend § 61.215(b) to provide that only a certified ground instructor with an instrument rating may give ground training for the issuance of an instrument rating and instrument proficiency check and a recommendation for the knowledge test required for an instrument rating. Existing § 61.215(b) mistakenly permits a person who holds only an advanced ground instructor (AGI) certificate to give instrument training. The aeronautical knowledge subject areas for the AGI certificate do not cover instrument subjects on the knowledge test. Only the aeronautical knowledge subject areas for the instrument ground instructor (IGI) certificate cover instrument subjects. Authorizing instrument privileges to a holder of only an AGI certificate is not appropriate.

(77) Proposal to clarify the recent experience requirements for ground instructors.

The FAA proposes to revise § 61.217(a) to clarify the recent experience requirements for ground instructors, particularly the meaning of the phrase “served for at least three months as a ground instructor.” This proposal would delete this phrase and establish more general criteria for recent experience requirements. The intent is to recognize a person's employment or activity as a ground instructor without that person being expected to maintain some kind of a time sheet or log to show that he or she “served for at least three months as a ground instructor.”

Furthermore, under this proposal, the FAA would amend § 61.19(e) so that the flight instructor certificate's duration period is linked to these currency requirements.

(78) Proposal to establish night vision goggle instrument and equipment requirements for night vision goggle operations.

The FAA proposes to add § 91.205(h) to establish NVG instruments and equipment requirements for NVG operations. This proposal is similar to how the FAA requires certain instruments and equipment for VFR (day), VFR (night), and IFR operations under existing § 91.205. This proposal would state that for NVG flight operations, the following instruments and equipment are required to be installed in the aircraft, are required to be functioning in a normal manner, and must be approved for use by the FAA:

• Instruments and equipment specified in § 91.205(b), and, for night flight, instruments and equipment specified in § 91.205(c).

• NVGs.

• Interior and exterior aircraft lighting system required for use for NVG flight operations.

• Two-way radio communications system.

• Gyroscopic pitch and bank indicator (artificial horizon).

• Generator or alternator of adequate capacity for the required instruments and equipment.

(79) Proposal to clarify that the “counters” for a pilot school's or provisional pilot school's 80 percent or higher pass rate must be 10 different people.

The FAA proposes to amend § 141.5 to clarify the meaning of the phrase “a quality of training pass rate of at least 80 percent.” The purpose is to establish that the “counters” for the required 80 percent or higher school pass rate must be taken from 10 different graduates, meaning 10 different people.

A graduate can only be counted once in computing the 80 percent pass rate on the first attempt. The wording of existing § 141.5 has raised questions concerning how many graduates have to have graduated. Some have argued that one person could be counted as all 10 graduates. The FAA disagrees and proposes to amend § 141.5 to clarify that the 10 graduates must be 10 different people. The FAA believes that requiring the pass rate to be calculated from 10 different graduates is a better measure of the school's quality of training and provides a more realistic view of the school's pass rate.

(80) Proposal to clarify pilot school examining authority.

The FAA has found it necessary to revise the language under § 141.9 because some have misunderstood the rule and believe that when the FAA issues examining authority to a pilot school, it authorizes examining authority for all the training courses of that school. This is not true. The FAA provides examining authority on a course-by-course basis. This would mean, if the pilot school makes specific application for a course, the FAA will issue examining authority if it meets the qualification requirements of § 141.63.

Furthermore, the FAA only issues examining authority to a pilot school that meets the requirements of subpart D of part 141, as opposed to a provisional pilot school. Under § 141.63, a provisional pilot school is not qualified to receive examining authority.

(81) Proposal to reduce the number of student enrollments to qualify for a check instructor position.

The FAA proposes to amend § 141.33(d)(2) to reduce the number of student enrollments from 50 students to 10 students in a part 141 pilot school to qualify for check instructor positions. The FAA is responding positively to recommendations it has received from the pilot school industry to authorize the use of check instructors in some of the smaller pilot schools.

The FAA initially established the figure of 50 student enrollments when it promulgated § 141.33(d)(2) to provide for those flight schools that train large numbers of students. (See 62 FR 16350, April 4, 1997) The position of check instructor was established because the FAA understands it is nearly impossible to expect chief instructors and assistant chief instructors to perform all the required stage checks, end-of-course tests, and instructor proficiency checks in large pilot schools. However, since the adoption of § 141.33(d)(2), a number of moderate sized flight schools have informed the FAA that they have sufficient student activity to justify check instructors. For example, one chief instructor commented that his school has 15 student enrollments and each student requires six stage checks and one end-of-course test. Thus, he is required to perform 105 tests on his school's 15 student enrollments. Another chief instructor commented that he has 15 stage and end-of-course tests per student in his part 141 approved course. This computes to a total of 300 tests he must perform.

The FAA has made it clear that it did not expect the chief and assistant chief instructors to delegate all their duties and responsibilities to the check instructors See 62 FR 16350, April 4, 1997. The FAA encourages and expects chief and assistant chief instructors to continue to have direct experience with monitoring the quality of instruction and student performance in their schools. The FAA expects the school's chief and assistant chief instructors to continue checking their instructors' quality of training and their students' performance. However, the FAA recognizes that this can be done by sampling instructor proficiency and student performance. The FAA does not believe it is necessary to establish a regulatory requirement on the numbers of stage checks, end-of-course tests, and instructor proficiency checks that each chief instructor or assistant chief instructor must perform. That decision should be left to the school's management. Therefore, the FAA proposes to reduce the number of student enrollments to qualify for the creation of a check instructor position to ten students. A minimum of ten student enrollments would allow for check instructor positions to be designated for the medium-sized and the smaller pilot schools.

(82) Proposal to accommodate the use of foreign registered aircraft for part 141 training facilities that are located outside of the United States.

The FAA proposes to amend § 141.39(b) to allow the use of foreign registered aircraft for part 141 training facilities that are located outside of the U.S. and conduct training outside of the U.S.

Under Amendment No. 141-11 (63 FR 53532, October 5, 1998) , the FAA allowed part 141 schools to establish training facilities outside the United States. The FAA has received several inquiries as to whether it is permissible to use foreign registered aircraft when the schools' training facilities are located outside of the United States. Further, questions have arisen whether it is permissible for these pilot schools' training facilities to adhere to maintenance and inspection standards established by a foreign aviation authority and still be in compliance with § 141.39.

Pilot schools are currently required to use civil aircraft of U.S. registry. Existing § 141.39 only allows a pilot school's maintenance and inspection standards to be maintained under part 91, subpart E. The FAA, however, wants to accommodate the use of foreign registered aircraft and foreign maintenance and inspection standards established by a foreign aviation authority in pilot schools located outside of the United States when the training is conducted outside the United States. The FAA does not believe there are any potential adverse effects on aviation safety by proposing these changes.

(83) Proposal to delete § 141.53(c)(1) because the requirement is no longer needed.

The FAA proposes to delete the provision under § 141.53(c)(1) that states “A training course submitted for approval prior to August 4, 1997 may, if approved, retain that approval until 1 year after August 4, 1997” because the requirement is no longer needed. All courses under part 141 had to receive their re-approval as of August 4, 1998, so the provision is obsolete.

(84) Proposal to clarify the requirement for approval of a training course.

For clarification purposes, the FAA proposes to change the phrase “the practical or knowledge test, or any combination thereof” under § 141.55(e)(2)(ii) to read “the practical or knowledge test, as appropriate.” When a pilot school requests final approval for a knowledge training course, at least 80 percent of their students must have passed the knowledge test on the first attempt (knowledge test means “a test on the aeronautical knowledge areas required for an airman certificate or rating that can be administered in written form or by a computer”). When a pilot school requests final approval for a flight training course, at least 80 percent of their students must have passed the practical test on the first attempt (practical test means “a test on the areas of operations for an airman certificate, rating, or authorization that is conducted by having the applicant respond to questions and demonstrate maneuvers in flight, in a flight simulator, or in a flight training device”). The current language is confusing and the testing requirements have been misapplied.

(85) Proposal to clarify the rules for crediting previous training when transferring to a part 141 pilot school.

The FAA proposes to clarify § 141.77(c) for crediting previous training based on a proficiency test or a knowledge test. Existing § 141.77(c) provides that, for students who transfer to a part 141 pilot school, crediting for previous training must be based on “a proficiency test or knowledge test, or both.” This language has generated questions about whether it is possible to credit previous flight training strictly on the basis of knowledge test results. The answer is no. The FAA never intended to allow a transfer student to be awarded flight training credit purely on the basis of completing a knowledge test. Nor did the FAA intend to allow a transfer student to be awarded ground training credit on the basis of completing a proficiency test.

A student who transfers to a part 141 pilot school and requests credit for previous flight training must complete a proficiency test that is given by the receiving pilot school's chief instructor or delegated check instructor. A student who transfers to a part 141 pilot school and requests credit for previous ground training, must complete a knowledge test that is given by the receiving pilot school's chief instructor or delegated check instructor.

(86) Proposal to allow the chief instructor to delegate certain tasks to a recommending instructor.

Under this proposed change, the FAA would allow a chief instructor to delegate certification of a student's training record, graduation certificate, stage check, end-of-course test report, and recommendation for course completion to an assistant chief instructor or recommending instructor. The reason for this proposed change is to allow pilot schools to make better use of chief instructors' time and management responsibilities.

(87) Proposal to amend the eligibility requirement for enrollment in the flight portion of a private pilot certification course.

Under the current rules, the FAA requires a person hold at least a recreational or student pilot certificate before enrolling in the flight portion of the private pilot certification course. This means that a person must complete his or her medical licensing before beginning flight training. Many pilot schools have indicated that they would like the rule changed because (1) it affects their ability to credit orientation flights towards overall training requirements (it is common practice when a person inquires about flight training to provide that person a local orientation flight); and (2) for those pilot schools that are located in remote areas, it may take a week or two for a student to get an appointment for a flight physical.

The FAA has evaluated the request made by the pilot schools, and we do not believe there are any safety concerns with accommodating the recommendation. Thus, the FAA is proposing that under part 141, appendix B, paragraph 2, a person is required to hold a recreational or student pilot certificate to begin the solo phase of the private pilot certification course but not for the flight portion of the certification course.

(88) Proposal to conform references to instrument training in the private pilot courses to instrument training for private pilot certification for the airplane and powered-lift ratings.

The FAA proposes to amend part 141, appendix B, 4(b)(1)(iii), 4(b)(2)(iii), and 4(b)(5)(iii) of the private pilot certification courses for the airplane single-engine, airplane multiengine, and powered-lift ratings, to mirror the requirements for private pilot certification for the single-engine airplane, multiengine airplane, or powered-lift ratings under existing § 61.109.

(89) Proposal to conform the solo cross-country mileage requirement in a private pilot-airplane single-engine rating course to the definition of “cross-country.”

The FAA proposes to amend the solo cross-country distance requirement in paragraph 5(a)(1) of appendix B to part 141 for the private pilot certification—airplane single-engine rating course from requiring a flight of “at least 50 nautical miles” to “more than 50 nautical miles.” This proposal is to conform the distance requirement under this provision to the definition of “cross-country” under § 61.1(b)(3)(ii).

(90) Proposal to conform the solo cross-country mileage requirement in an approved private pilot-airplane multiengine rating course to the definition of “cross-country.”

The FAA proposes to amend the solo cross-country distance requirement in paragraph 5(b)(1) of appendix B to part 141 for the private pilot certification—airplane multiengine rating course from requiring a flight of “at least 50 nautical miles” to “more than 50 nautical miles.” The purpose of this proposal is to conform the distance requirement under this provision to the definition of “cross-country” under § 61.1(b)(3)(ii).

(91) Proposal to conform the solo cross-country mileage requirement in an approved private pilot-helicopter rating course to ICAO requirements and the definition of “cross-country.”

The FAA proposes to amend paragraph 5(c)(1) of appendix B to part 141 to change the solo cross-country distance requirement for the private pilot certification—helicopter rating course from “at least 75 nautical miles total distance” to “at least 100 nautical miles total distance.” The purpose of this proposal is to conform this provision to the ICAO requirements for the cross-country distance, as set forth in ICAO Annex I, paragraph 2.7.1.3.2, which requires that the total distance for a cross-country flight be at least 100 nautical miles.

Also, the FAA proposes to amend the solo cross-country flight requirement in paragraph 5(c)(1) of appendix B to part 141 for the private pilot certification—helicopter rating course from “at least 25 nautical miles” to “ more than 25 nautical miles.” The purpose of this proposal is to conform the distance requirement of this provision to the definition of “cross-country” under § 61.1(b)(3)(v).

(92) Proposal to conform the solo cross-country mileage requirement in an approved private pilot-gyroplane rating course to the definition of “cross-country.”

The FAA proposes to amend paragraph 5(d)(1) of appendix B to part 141 to change the solo cross-country distance requirement for the private pilot certification—gyroplane rating course from “at least 75 nautical miles total distance” to “at least 100 nautical miles total distance.” The purpose of this proposal is to conform to the ICAO requirements for cross-country distance, as set forth in ICAO Annex I, paragraph 2.7.1.3.2, which requires that the total distance for a cross-country flight be at least 100 nautical miles. Also, the FAA proposes to amend the solo cross-country flight requirement in paragraph 5(d)(1) of appendix B to part 141 for the private pilot certification—gyroplane rating course from “ at least 25 nautical miles” to “ more than 25 nautical miles.” The purpose of this proposal is to conform the distance requirement under this provision to the definition of “cross-country” under § 61.1(b)(3)(v).

(93) Proposal to conform the solo cross-country mileage requirement in an approved private pilot-powered-lift rating course to the definition of “cross-country.”

The FAA proposes to amend the solo cross-country distance requirement in paragraph 5(e)(1) of part 141, appendix B for the private pilot certification—powered-lift rating course from “ at least 50 nautical miles” to “more than 50 nautical miles.” The purpose of this proposal is to conform the distance requirement under this provision to definition of “cross-country” under § 61.1(b)(3)(ii).

(94) Proposal to allow instrument training to be performed in a personal computer aviation training device.

The FAA proposes to amend paragraph 4(b) of part 141, appendix C, by adding a paragraph (5). This would allow 10 percent of the instrument training for the instrument rating course to be performed in a PCATD.

Under this proposal, the instrument training that would be performed in a PCATD would be given by the holder of a ground instructor certificate with an instrument rating or by a holder of a flight instructor certificate with an instrument rating appropriate to the instrument rating sought. The instrument training given in a PCATD would contribute to the maximum 50 percent of the instrument training permitted to be performed in a flight simulator or a flight training device in accordance with existing paragraph 4(c) of appendix C to part 141. For a PCATD to be used for instrument training under paragraph 4(d) of part 141, appendix C, the PCATD, instrument training, and instrument tasks would have to be approved by the FAA. The instrument training in a PCATD would have to be provided by an authorized instructor. For a person to receive the maximum 10 percent credit in a PCATD, the person could not have logged more than 40 percent of instrument training course required hours in a flight simulator or flight training device. A view-limiting device (e.g., a hood device or fogged glasses) would have to be worn by the applicant when logging instrument training in the PCATD.

(95) Proposal to allow the solo training requirements for the approved commercial pilot certification courses to be performed solo or with an instructor on board.

The FAA proposes to amend paragraph 5 of appendix D to part 141 for a commercial pilot certification course to be performed either solo or with a flight instructor on board. The purpose is to conform paragraph 5 of appendix D to part 141 to what is being proposed under §§ 61.129(a)(4), (c)(4), (d)(4), and (e)(4) for the single-engine airplane, helicopter, gyroplane, and powered-lift ratings at the commercial pilot certification level.

(96) Proposal to allow the cross-country training flights for the approved commercial pilot certification courses to be performed under VFR or IFR.

The FAA proposes to amend paragraph 4 of part 141, appendix D to allow the cross-country training flights in the commercial pilot certification courses to be performed under VFR or IFR. This proposal responds positively to recommended changes to part 141 from some pilot schools.

From the time that the cross-country training requirements under part 141, appendix D, paragraph 4 of were promulgated, the FAA has received recommendations from several pilot schools and companies that prepare training courses to amend the requirements to allow cross-country flights to be performed under IFR. The basis for their recommendation is that most commercial pilot training applicants for airplane ratings and some for helicopter ratings are concurrently enrolled in an instrument rating course. The FAA agrees that it makes sense to allow these cross-country training requirements to be performed under IFR or VFR. The FAA proposes to amend the requirements for the daytime cross-country training flight (see subparagraphs (b)(1)(iii), (b)(2)(iii), (b)(3)(ii), (b)(4)(ii), (b)(5)(ii), (b)(7)(ii)) to read “One cross-country flight during daytime conditions * * * .” This, in effect, would permit the daytime cross-country training flight to be performed under IFR or VFR.

The FAA also proposes the night-time cross-country training flight requirements (See subparagraphs (b)(1)(iv), (b)(2)(iv), (b)(3)(iii), (b)(5)(iii), and (b)(7)(iii)) in the commercial pilot certification courses to merely read “One cross-country flight during night-time conditions * * * .” This, in effect, would permit the night-time cross-country training flight to be performed under IFR or under VFR.

(97) Proposal to delete the cross-country training at night time requirement for the commercial pilot certification course for the gyroplane rating.

The FAA proposes to delete the cross-country training at night time requirement in paragraph 4(b)(4)(iii) of part 141, appendix D for the commercial pilot certification course for the gyroplane rating. The FAA determined that night-time training for the gyroplane rating for the commercial pilot certification course would be more useful and more safely conducted near an airport, because gyroplanes have very limited equipment and systems for nighttime cross country operations.

(98) Proposal to require ground reference maneuvers as an area of operation for the gyroplane rating in the commercial pilot certificate course.

The FAA proposes to amend paragraph 4(d)(4)(vi) of appendix D to part 141 to require ground reference maneuvers as an area of operation for the gyroplane rating in the commercial pilot certificate course. This would conform paragraph 4(d)(4)(vi) of part 141, appendix D with proposed § 61.127(b)(4)(vi) that would require flight proficiency in “ground reference maneuvers” for the gyroplane rating in the commercial pilot certificate course. The ground reference maneuvers must include at least “eights around a pylon,” “eights along a road,” “rectangular course,” “S-turns,” and “turns around a point.”

(99) Proposal to allow the complex airplane training for the approved commercial pilot certification course—airplane single-engine rating to be performed in either a single or multiengine complex airplane.

In response to the Aircraft Owners and Pilots Association's (AOPA) petition for rulemaking of February 11, 1999, the FAA proposes to amend the complex airplane training requirement for the commercial pilot certification course for the single-engine airplane rating under paragraph 4.(b)(1)(ii) of appendix D to part 141. The FAA would allow the commercial pilot certification course for the single-engine airplane rating to be approved with use of either a complex single-engine airplane or a complex multiengine airplane. The use of either a complex single-engine airplane or a complex multiengine airplane to meet the single-engine airplane training requirements is permitted under existing § 61.129(a)(3)(ii) for those training organizations that have chosen not to be approved under part 141. The FAA has determined that the current provision under part 141 may create an unfair financial burden on applicants at a part 141 pilot school versus those applicants who receive their training other than through a part 141 pilot school.

Therefore, the FAA proposes to delete the word “single-engine” from paragraph 4.(b)(1)(ii) of part 141, appendix D, so the rule would merely read as “10 hours of training in an airplane that has retractable landing gear, flaps, and a controllable pitch propeller, or is turbine-powered.”

(100) Proposal to clarify the instrument training for the commercial pilot certification courses for the airplane single-engine, airplane multiengine, helicopter, gyroplane, powered-lift, and airship ratings.

The FAA proposes to amend paragraphs 4(b)(1)(i), (2)(i), (3)(i), (4)(i), (5)(i), and (7)(i) of part 141, appendix D to clarify that the tasks required for “instrument training” in the commercial pilot certification courses for the airplane single-engine, airplane multiengine, rotorcraft helicopter, rotorcraft gyroplane, powered-lift, and airship ratings require the use of a view-limiting device (e.g. use of a hood device, fogged goggles, etc.). This proposal is in response to inquiries about what tasks are required to satisfy “instrument training” for commercial pilot certification courses.

This proposal would parallel the proposed changes to instrument training under § 61.129 for the airplane single-engine, airplane multiengine, rotorcraft helicopter, rotorcraft gyroplane, powered-lift, and airship ratings at the commercial pilot certification level.

(101) Proposal to require pilots enrolled in an ATP certification course to have met the ATP aeronautical experience requirements of part 61, subpart G prior to completion of the course.

The FAA proposes to amend paragraph 2 of part 141, appendix E to establish that a person must first meet the aeronautical experience requirements under part 61, subpart G, for an ATP certificate before completing the flight portion of an ATP certification course. The purpose of this proposal is to clarify that a person who completes the ATP certification course must also have met the appropriate ATP aeronautical experience of part 61, subpart G before applying for the ATP certificate.

The existing language in paragraph 2 of part 141, appendix E has been interpreted by some to mean that a person could apply for an ATP certificate after meeting either existing paragraph 2.(a), (b), (c), or (d) of part 141, appendix E. This is not correct, because an applicant for an ATP certificate must also meet the appropriate aeronautical experience requirements under part 61, subpart G. The proposed introductory language in paragraph 2 in part 141, appendix E will clarify that an applicant for an ATP certificate must also meet the appropriate aeronautical experience requirements under part 61, subpart G prior to completion of the flight portion of the ATP certification course.

(102) Proposal to clarify the ground and flight training required for the approved additional category and/or class rating course.

The FAA proposes to amend paragraphs 3 and 4 of appendix I to part 141 to clarify the ground and flight training required for the additional category and/or class rating course. This proposal is in response to questions about what is the amount of ground and flight training required for an add-on aircraft category and/or class rating course.

The confusion arises because the language of existing paragraphs 3 and 4 of part 141, appendix I to part 141 that states that training must be in the areas “that are specific to that aircraft category and class rating and pilot certificate level for which the course applies.” Many believe this language does not clearly state what are the required ground and flight training amounts and content for “add-on” category/class courses. Therefore, the FAA proposes to expand the content of paragraphs 3 and 4 of part 141, appendix I for these additional category and/or class rating courses to specify the required amount of ground and flight training and their content for an add-on aircraft category and/or class rating course at the recreational pilot, private pilot, commercial pilot, and ATP certification levels. Proposed paragraphs 3 and 4 also would establish the required amount of ground and flight training and their content for just an “add-on” class rating (i.e., where the applicant already holds a rating in that aircraft category, and the course at issue is only for an added class rating within that aircraft category) at the various pilot certification levels.

VIII. Regulatory Notices and Analyses

Paperwork Reduction Act

Information collection requirements associated with this NPRM have been approved previously by the Office of Management and Budget (OMB) under the provisions of the Paperwork Reduction Act of 1995 (44 U.S.C. 3507(d)) and have been assigned OMB Control Numbers 2120-0009 and 0021.

International Compatibility

In keeping with U.S. obligations under the Convention on International Civil Aviation, it is FAA policy to comply with International Civil Aviation Organization (ICAO) Standards and Recommended Practices to the maximum extent practicable. There is one proposal in this notice (See proposal No. 71) where the FAA is proposing to amend § 61.159(d) and (e) to conform our ATP certification requirements to ICAO Standards and Recommended Practices.

Executive Order 12866 and DOT Regulatory Policies and Procedures

Pilot, Flight Instructor, and Pilot School Certification: Economic Assessment, Initial Regulatory Flexibility Determination, Trade Impact Assessment, and Unfunded Mandates Assessment

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule. We suggest readers seeking greater detail read the full regulatory evaluation, a copy of which we have placed in the docket for this rulemaking.

In conducting these analyses, FAA has determined that this proposed rule: (1) Has benefits that justify its costs, (2) is not an economically “significant regulatory action” as defined in section 3(f) of Executive Order 12866, (3) is not “significant” as defined in DOT's Regulatory Policies and Procedures; (4) would not have a significant economic impact on a substantial number of small entities; (5) would not create unnecessary obstacles to the foreign commerce of the United States; and (6) would not impose an unfunded mandate on state, local, or tribal governments, or on the private sector by exceeding the threshold identified above. These analyses are summarized below.

The FAA proposes to amend the training, qualification, certification, and operating requirements for pilots, flight instructors, ground instructors, and pilot schools. These changes are needed to clarify, update, and correct our existing regulations.

For the proposed revisions, for which we were able to quantify the cost savings, we estimate this proposal to generate cost savings of $31.6 million ($22.0 million, discounted) and $4.0 million ($3.0 million, discounted) of costs over the 2007-2016 time period. Therefore, this proposal is estimated to generate a net cost savings of $27.6 million ($19.1 million, discounted) over the same ten-year period and is cost-beneficial.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The cost of the additional training for the night vision goggle requirement is about $1,800 per pilot ($1,800 ≉ $1,167,138 (undiscounted cost of night vision goggle training in year 1) ÷ 650 (estimated population that would receive night vision goggle training in year 1)). Since the training is optional these small costs would not impose a burden on any small entity. Also, this proposal could result in annual cost savings of about $625 per rotorcraft pilot and a maximum cost savings of about $430 per GA pilot by allowing the use of alternate methods to maintain instrument currency. We do not consider the costs or cost-savings of this rule to be significant. Therefore, the FAA certifies that this proposed rule would not have a significant economic impact on a substantial number of small entities. The FAA solicits comments regarding this determination.

International Trade Impact Assessment

The Trade Agreements Act of 1979 (Pub. L. 96-39) prohibits Federal agencies from establishing any standards or engaging in related activities that create unnecessary obstacles to the foreign commerce of the United States. Legitimate domestic objectives, such as safety, are not considered unnecessary obstacles. The statute also requires consideration of international standards and, where appropriate, that they be the basis for U.S. standards. The FAA has assessed the potential effect of this proposed rule and has determined that it would have only a domestic impact and therefore no affect on international trade.

Unfunded Mandates Assessment

Title II of the Unfunded Mandates Reform Act of 1995 (Pub. L. 104-4) requires each Federal agency to prepare a written statement assessing the effects of any Federal mandate in a proposed or final agency rule that may result in an expenditure of $100 million or more (adjusted annually for inflation with the base year 1995) in any one year by State, local, and tribal governments, in the aggregate, or by the private sector; such a mandate is deemed to be a “significant regulatory action.” The FAA currently uses an inflation-adjusted value of $128.1 million in lieu of $100 million. This proposed rule does not contain such a mandate.

Executive Order 13132, Federalism

The FAA has analyzed this proposed rule under the principles and criteria of Executive Order 13132, Federalism. We determined that this action would not have a substantial direct effect on the States, on the relationship between the national Government and the States, or on the distribution of power and responsibilities among the various levels of government, and therefore would not have federalism implications.

Plain English

Executive Order 12866 (58 FR 51735, Oct. 4, 1993) requires each agency to write regulations that are simple and easy to understand. We invite your comments on how to make these proposed regulations easier to understand, including answers to questions such as the following:

• Are the requirements in the proposed regulations clearly stated?

• Do the proposed regulations contain unnecessary technical language or jargon that interferes with their clarity?

• Would the regulations be easier to understand if they were divided into more (but shorter) sections?

• Is the description in the preamble helpful in understanding the proposed regulations?

• Please send your comments to the address specified in the ADDRESSES section.

Environmental Analysis

FAA Order 1050.1E identifies FAA actions that are categorically excluded from preparation of an environmental assessment or environmental impact statement under the National Environmental Policy Act in the absence of extraordinary circumstances. The FAA has determined this proposed rulemaking action qualifies for the categorical exclusion identified in paragraph 307(k) and involves no extraordinary circumstances.

Regulations That Significantly Affect Energy Supply, Distribution, or Use

The FAA has analyzed this NPRM under Executive Order 13211, Actions Concerning Regulations that Significantly Affect Energy Supply, Distribution, or Use (May 18, 2001). We have determined that it is not a “significant energy action” under the executive order because it is not a “significant regulatory action” under Executive Order 12866, and it is not likely to have a significant adverse effect on the supply, distribution, or use of energy.

List of Subjects

14 CFR Part 61

Aircraft, Airmen, Alcohol abuse, Aviation safety, Drug abuse, Recreation and recreation areas, Reporting and recordkeeping requirements, Security measures, Teachers.

14 CFR Part 91

Afghanistan, Agriculture, Air traffic control, Aircraft, Airmen, Airports, Aviation safety, Canada, Cuba, Ethiopia, Freight, Mexico, Noise control, Political candidates, Reporting and recordkeeping requirements, Yugoslavia.

14 CFR Part 141

Airmen, Educational facilities, Reporting and recordkeeping requirements, Schools.

The Proposed Amendment

In consideration of the foregoing, the Federal Aviation Administration proposes to amend Chapter I of Title 14, Code of Federal Regulations, as follows:

PART 61—CERTIFICATION: PILOTS AND FLIGHT INSTRUCTORS

1. The authority citation for part 61 continues to read as follows:

Authority: 49 U.S.C. 106(g), 40113, 44701-44703, 44707, 44709-44711, 45102-45103, 45301-45302.

2. Amend § 61.1 by:

A. Revising paragraph (b)(2)(i) and (ii);

B. Re-designating existing paragraphs (b)(12) through (16) as paragraphs (b)(15) through (19);

C. Re-designating existing paragraphs (b)(4) through (11) as paragraphs (b)(5) through (12); and

D. Adding new paragraphs (b)(4), (13), (14), and (20) to read as follows:

§ 61.1 Applicability and definitions.

* * * * *

(b) * * *

(2) * * *

(i) A person who holds a valid ground instructor certificate issued under part 61 of this chapter, and is current, as specified in § 61.217, when conducting ground training in accordance with the privileges and limitations of his or her ground instructor certificate;

(ii) A person who holds a valid flight instructor certificate issued under part 61 of this chapter, and is current, as specified in § 61.197, when conducting ground training or flight training in accordance with the privileges and limitations of his or her flight instructor certificate; or

* * * * *

(4) Current as it relates to a pilot certificate, rating, or authorization means the pilot meets the appropriate recent flight experience requirements of this part for the flight operation being conducted; current as it relates to a flight instructor certificate means the flight instructor meets the flight instructor recent experience as specified in § 61.197; and current as it relates to a ground instructor certificate means the ground instructor meets the recent experience as specified in § 61.217.

* * * * *

(13) Night vision goggles means an appliance worn by a pilot that enhances the pilot's ability to maintain visual surface reference at night.

(14) Night vision goggle operation means the portion of a flight that occurs during the time period from 1 hour after sunset to 1 hour before sunrise where the pilot maintains visual surface reference using night vision goggles in an aircraft that is approved for such an operation.

* * * * *

(20) Valid airman certificate, rating or authorization means it has not been surrendered, suspended, revoked, or expired.

3. Amend § 61.3 by revising paragraphs (a) introductory text, (a)(1), (b) introductory text, (c)(1), (f)(2)(i), (f)(2)(ii), (g)(2)(i), (g)(2)(ii), and (j)(1) introductory text and by removing paragraph (j)(3) to read as follows:

§ 61.3 Requirement for certificates, ratings, and authorizations.

(a) Pilot certificate. A person may not serve as a required pilot flight crewmember of a civil aircraft of the United States, unless that person—

(1) Has a current and valid pilot certificate or special purpose pilot authorization issued under this part in that person's physical possession or readily accessible in the aircraft when exercising the privileges of that pilot certificate or authorization. However, when the aircraft is operated within a foreign country, a current and valid pilot license issued by that country may be used; and

* * * * *

(b) Required pilot certificate for operating a foreign-registered aircraft. A person may not serve as a required pilot flight crewmember of a civil aircraft of foreign registry within the United States, unless that person's pilot certificate—

* * * * *

(c) Medical certificate. (1) Except as provided under paragraph (c)(2) of this section, a person may not serve as a required pilot flight crewmember of an aircraft, unless that person has a valid and appropriate medical certificate issued under part 67 of this chapter or other documentation acceptable to the FAA that is in that person's physical possession or readily accessible in the aircraft.

* * * * *

(f) * * *

(2) * * *

(i) Holds a current and valid pilot certificate with category and class ratings for that aircraft and a current instrument rating for that category aircraft;

(ii) Holds a current and valid airline transport pilot certificate with category and class ratings for that aircraft; or

* * * * *

(g) * * *

(2) * * *

(i) Holds a current and valid pilot certificate with category and class ratings for that aircraft and a current instrument rating for that category aircraft;

(ii) Holds a current and valid airline transport pilot certificate with category and class ratings for that aircraft; or

* * * * *

(j) * * *

(1) Age limitation. No person who holds a pilot certificate issued under this part may serve as a pilot on a civil aircraft of the United States in the following operations if the person has reached his or her 60th birthday—

* * * * *

4. Amend § 61.19 by revising paragraphs (b), (d), and (e) to read as follows:

§ 61.19 Duration of pilot and instructor certificates.

* * * * *

(b) Student pilot certificate. (1) For student pilots who have not reached their 40th birthday, if the medical portion of the certificate is current, the student pilot certificate remains current for 36 calendar months from the month issued.

(2) For student pilots who have reached their 40th birthday, if the medical portion of the certificate is current, the student pilot certificate remains current for 24 calendar months from the month issued.

(3) For student pilots seeking a glider or balloon rating only, the student pilot certificate remains current for 36 calendar months from the month issued, regardless of the student pilot's age.

* * * * *

(d) Flight instructor certificate. A flight instructor certificate:

(1) Is issued without a specific expiration date;

(2) Remains current as long as the holder complies with § 61.197 of this part (recent flight instructor experience) every 24 calendar months or § 61.199 of this part (reinstatement); and

(3) Is valid only as long as the holder of the certificate maintains a valid U.S. pilot certificate.

(e) Ground instructor certificate. A ground instructor certificate:

(1) Is issued without a specific expiration date; and

(2) Remains current as long as the holder complies with the requirements under § 61.217 of this part.

* * * * *

5. Amend § 61.23 by:

A. Revising paragraph (a)(3)(iv);

B. Redesignating paragraph (a)(3)(v) as (a)(3)(vi);

C. Adding new paragraphs (a)(3)(v) and (vii);

D. Revising newly designated paragraph (vi);

E. Revising paragraphs (b)(3), (7), and (8); and

F. Adding a new paragraph (b)(9) to read as follows:

§ 61.23 Medical certificates: Requirement and duration.

(a) * * *

(3) * * *

(iv) When exercising the privileges of a flight instructor certificate and acting as the pilot in command;

(v) When exercising the privileges of a flight instructor certificate and serving as a required pilot flight crewmember;

(vi) When taking a practical test in an aircraft for a recreational pilot, private pilot, commercial pilot, or airline transport pilot certificate, or for a flight instructor certificate; or

(vii) When performing the duties as an Examiner in an aircraft when administering a practical test or proficiency check for an airman certificate, rating, or authorization.

(b) * * *

(3) When exercising the privileges of a pilot certificate with a glider category rating or balloon class rating in a glider or a balloon, as appropriate;

* * * * *

(7) When serving as an Examiner or check airman and administering a practical test or proficiency check for an airman certificate, rating, or authorization conducted in a glider, balloon, flight simulator, or flight training device;

(8) When taking a practical test or a proficiency check for a certificate, rating, authorization or operating privilege conducted in a glider, balloon, flight simulator, or flight training device; or

(9) When a pilot of the U.S. Armed Forces can show a current medical examination for pilot flight status from a medical facility of the U.S. Armed Forces and the flight does not involve air transportation services under parts 121, 125, or 135 of this chapter.

* * * * *

6. Amend § 61.29 by:

A. Removing paragraph (d)(3);

B. Re-designating existing paragraphs (d)(4) and (d)(5) as paragraphs (d)(3) and (d)(4); and

C. Revising newly re-designated paragraph (d)(4) to read as follows:

§ 61.29 Replacement of a lost or destroyed airman or medical certificate or knowledge test report.

* * * * *

(d) * * *

(4) Any information regarding the—

(i) Grade, number, and date of issuance of the airman certificate and ratings, if appropriate;

(ii) Class of medical certificate, the place and date of the medical exam, name of the Airman Medical Examiner (AME), and the circumstances concerning the loss of the original medical certificate, as appropriate; and

(iii) Date the knowledge test was taken, if appropriate.

* * * * *

7. Amend § 61.31 by:

A. Revising paragraph (d);

B. Re-designating existing paragraph (k) as (l); and

C. Adding new paragraph (k) to read as follows:

§ 61.31 Type rating requirements, additional training, and authorization requirements.

* * * * *

(d) Aircraft category, class, and type ratings: Limitations on operating an aircraft as the pilot in command. To serve as the pilot in command of an aircraft, a person must—

(1) Hold the appropriate category, class, and type rating (if a class or type rating is required) for the aircraft to be flown; or

(2) Have received training required by this part that is appropriate to the pilot certification level, aircraft category, class, and type rating (if a class or type rating is required) for the aircraft to be flown, and have received an endorsement for solo flight in that aircraft from an authorized instructor.

* * * * *

(k) Additional training required for night vision goggle operations. (1) Except as provided under paragraph (k)(3) of this section, no person may act as a pilot in command of an aircraft using night vision goggles unless that person receives and logs ground training from an authorized instructor and obtains a logbook or training record endorsement from an authorized instructor who certifies the person completed the ground training. The ground training must include the following subjects:

(i) Applicable portions of this chapter that relate to night vision goggle limitations and flight operations;

(ii) Aeromedical factors relating to the use of night vision goggles, including how to protect night vision, how the eyes adapt to night, self-imposed stresses that affect night vision, effects of lighting on night vision, cues used to estimate distance and depth perception at night, and visual illusions;

(iii) Normal, abnormal, and emergency operations of night vision goggle equipment;

(iv) Night vision goggle performance and scene interpretation; and

(v) Night vision goggle operation flight planning, including night terrain interpretation and factors affecting terrain interpretation.

(2) Except as provided under paragraph (k)(3) of this section, no person may act as a pilot in command of an aircraft using night vision goggles unless that person receives and logs flight training from an authorized instructor and obtains a logbook or training record endorsement from an authorized instructor who found the person proficient in the use of night vision goggles. The flight training must include the following tasks:

(i) Preparation and use of internal and external aircraft lighting systems for night vision goggle operations;

(ii) Preflight preparation of night vision goggles for night vision goggle operations;

(iii) Proper piloting techniques when using night vision goggles during the takeoff, climb, enroute, descent, and landing phases of flight; and

(iv) Normal, abnormal, and emergency flight operations using night vision goggles.

(3) The requirements under paragraphs (k)(1) and (2) of this section do not apply if a person can document satisfactory completion of any of the following pilot proficiency checks using night vision goggles in an aircraft:

(i) A pilot proficiency check for using night vision goggles conducted by the U.S. Armed Forces; or

(ii) A pilot proficiency check for using night vision goggles under part 135 of this chapter conducted by an Examiner or check airman.

* * * * *

8. Amend § 61.35 by revising paragraph (a)(2)(iv) to read as follows:

§ 61.35 Knowledge test: Prerequisites and passing grades.

(a) * * *

(2) * * *

(iv) Permanent mailing address. If the permanent mailing address includes a post office box number, then provide a current residential address.

* * * * *

9. Amend § 61.39 by revising paragraphs (b)(2), (c)(1) , (c)(2), (d), and (e) to read as follows:

§ 61.39 Prerequisites for practical tests.

* * * * *

(b) * * *

(2) Is employed by the U.S. Armed Forces as a flight crewmember in U.S. military air transport operations at the time of the practical test and has completed the pilot in command aircraft qualification training program that is appropriate to the pilot certificate and rating sought.

(c) * * *

(1) Holds a valid foreign pilot license issued by a contracting State to the Convention on International Civil Aviation that authorizes at least the privileges of the pilot certificate sought;

(2) Is only applying for a type rating; or

* * * * *

(d) If all increments of the practical test are not completed in 1 day, all remaining increments of the test must be completed within 2 calendar months after the month the applicant began the test.

(e) If all increments of the practical test are not completed within 2 calendar months after the month the applicant began the test, the applicant must retake the entire practical test.

10. Amend § 61.43 by revising paragraphs (a) and (b) to read as follows:

§ 61.43 Practical tests: General procedures.

(a) Completion of the practical test for a certificate or rating consists of—

(1) Performing the tasks specified in the areas of operation for the airman certificate or rating sought within the approved practical test standards;

(2) Demonstrating mastery of the aircraft by performing each task successfully;

(3) Demonstrating proficiency and competency within the approved standards; and

(4) Demonstrating sound judgment.

(b) The pilot flight crew complement required during the practical test is based on one of the following requirements that applies to the aircraft being used on the practical test:

(1) If the aircraft's FAA-approved flight manual requires the pilot flight crew complement be a single pilot, then the applicant must demonstrate single pilot proficiency on the practical test.

(2) If the aircraft's type certification data sheet requires the pilot flight crew complement be a single pilot, then the applicant must demonstrate single pilot proficiency on the practical test.

(3) If the FAA Flight Standardization Board report, FAA-approved aircraft flight manual, or aircraft type certification data sheet allows the pilot flight crew complement to be either a single pilot, or a pilot and a copilot, then the applicant may demonstrate single pilot proficiency or have a copilot on the practical test. If the applicant performs the practical test with a copilot, the limitation of “Second in Command Required” will be placed on the applicant's pilot certificate. The limitation may be removed if the applicant passes the practical test by demonstrating single-pilot proficiency in the aircraft in which single-pilot privileges are sought.

* * * * *

11. Amend § 61.45 by revising paragraphs (a)(2)(iii) and (c) to read as follows:

§ 61.45 Practical tests: Required aircraft and equipment.

(a) * * *

(2) * * *

(iii) A military aircraft of the same category, class, and type, if class and type are applicable, for which the applicant is applying for a certificate or rating, and provided—

(A) The aircraft is under the direct operational control of the U.S. Armed Forces;

(B) The aircraft is airworthy under the maintenance standards of the U.S. Armed Forces; and

(C) The applicant has a letter from his or her commanding officer authorizing the use of the aircraft for the practical test.

* * * * *

(c) Required controls. Except for lighter-than-air aircraft and gliders, an aircraft used for a practical test must have engine power controls and flight controls that are easily reached and operable in a conventional manner by both pilots, unless the Examiner determines that the practical test can be conducted safely in the aircraft without the controls easily reached by the Examiner.

* * * * *

12. Amend § 61.51 by:

A. Adding new paragraph (b)(3)(iv);

B. Revising paragraph (b)(1)(iv), (b)(2)(v), (b)(3)(iii), (e), the heading of paragraph (g) and paragraph (g)(4); and

C. Adding new paragraphs (j) and (k) to read as follows:

§ 61.51 Pilot logbooks.

* * * * *

(b) * * *

(1) * * *

(iv) Type and identification of aircraft, flight simulator, flight training device, or personal computer aviation training device, as appropriate.

(2) * * *

(v) Training received in a flight simulator, flight training device, or personal computer aviation training device from an authorized instructor.

(3) * * *

(iii) Simulated instrument conditions in flight, a flight simulator, flight training device, or personal computer aviation training device.

(iv) Use of night vision goggles in an aircraft in flight, in a flight simulator, or in a flight training device.

* * * * *

(e) Logging pilot in command flight time. (1) A recreational, private, commercial, or airline transport pilot may log pilot in command flight time for flights—

(i) When the pilot is the sole manipulator of the controls of an aircraft for which the pilot is rated, or has sport pilot privileges;

(ii) When the pilot is the sole occupant in the aircraft;

(iii) When the pilot, except for a recreational pilot, acts as pilot in command of an aircraft for which more than one pilot is required under the type certification of the aircraft or the regulations under which the flight is conducted; or

(iv) When the pilot performs the duties of pilot in command while under the supervision of a qualified pilot in command provided—

(A) The pilot performing the duties of pilot in command holds a current and valid commercial or airline transport pilot certificate and aircraft rating that is appropriate to the category and class of aircraft being flown, if a class rating is appropriate;

(B) The pilot performing the duties of pilot in command is undergoing an approved pilot in command training program that includes ground and flight training on the following areas of operation—

(1) Preflight preparation;

(2) Preflight procedures;

(3) Takeoff and departure;

(4) In-flight maneuvers;

(5) Instrument procedures;

(6) Landings and approaches to landings;

(7) Normal and abnormal procedures;

(8) Emergency procedures; and

(9) Postflight procedures;

(C) The supervising pilot in command holds a—

(1) Current and valid commercial pilot certificate and flight instructor certificate, and aircraft rating that is appropriate to the category, class, and type of aircraft being flown, if a class or type rating is required; or

(2) Current and valid airline transport pilot certificate and aircraft rating that is appropriate to the category, class, and type of aircraft being flown, if a class or type rating is required; and

(D) The supervising pilot in command logs the pilot in command training in the pilot's logbook, certifies the pilot in command training in the pilot's logbook, and attests to that certification with his or her signature, and flight instructor certificate number.

(2) If rated to act as pilot in command of the aircraft, an airline transport pilot may log all flight time while acting as pilot in command of an operation requiring an airline transport pilot certificate.

(3) A certificated flight instructor may log pilot in command time for all flight time while serving as the authorized instructor in an operation if the instructor is rated to act as pilot in command of that aircraft.

* * * * *

(g) Logging instrument time.

* * * * *

(4) A person can use time in a flight simulator, flight training device, or personal computer aviation training device for acquiring instrument aeronautical experience for a pilot certificate, rating, or instrument recency experience, provided an authorized instructor is present to observe that time and signs the person's logbook to verify the time and the content of the training session.

* * * * *

(j) Aircraft requirements for logging flight time. For a person to log flight time, the time must be acquired in an aircraft that is identified as an aircraft under § 61.5(b), and is—

(1) An aircraft of U.S. registry with a current standard, limited, restricted, experimental, or primary airworthiness certificate;

(2) A light sport aircraft for a sport pilot rating or privilege;

(3) An aircraft of foreign registry with an airworthiness certificate that is approved by the aviation authority of a foreign country that is a member state to the Convention on International Civil Aviation Organization;

(4) A military aircraft under the direct operational control of the U.S. Armed Forces; or

(5) A public aircraft under the direct operational control of a Federal, State, County, or Municipal law enforcement agency, if the flight time was acquired by the pilot while engaged on an official law enforcement flight for a Federal, State, County, or Municipal law enforcement agency.

(k) Logging night vision goggle time. (1) A person may log night vision goggle time only for the time the person uses night vision goggles as the primary visual reference of the surface and operates:

(i) An aircraft during a night vision goggle operation; or

(ii) A flight simulator or flight training device with the lighting system adjusted to represent the period beginning 1 hour after sunset and ending 1 hour before sunrise.

(2) An authorized instructor may log night vision goggle time when that person conducts training using night vision goggles as the primary visual reference of the surface and operates:

(i) An aircraft during a night goggle operation; or

(ii) A flight simulator or flight training device with the lighting system adjusted to represent the period beginning 1 hour after sunset and ending 1 hour before sunrise.

(3) To log night vision goggle time to meet the recent night vision goggle experience requirements under § 61.57(f), a person must log the information required under § 61.51(b).

13. Amend § 61.57 by revising paragraph (c) and (d); and adding new paragraphs (f) and (g) to read as follows:

§ 61.57 Recent flight experience: Pilot in command.

* * * * *

(c) Instrument experience. Except as provided in paragraph (e) of this section, no person may act as pilot in command under IFR or weather conditions less than the minimums prescribed for VFR unless:

(1) Use of an airplane, powered-lift, helicopter, or airship for maintaining instrument experience. Within the 6 calendar months preceding a flight, that person performed and logged at least the following tasks, iterations, and flight time in an airplane, powered-lift, helicopter, or airship, as appropriate, for the instrument rating privileges to be maintained in actual weather conditions, or under simulated conditions using a view-limiting device that involves performing the following—

(i) Six instrument approaches consisting of both precision and non-precision approaches.

(ii) One complete holding pattern at a radio station and one complete holding pattern at an intersection or at a waypoint.

(iii) One hour of cross-country flying that involves intercepting and tracking courses through the use of navigation systems, performing a takeoff, area departure, enroute, area arrival, approach, and missed approach phase of flight.

(2) Use of a flight simulator or flight training device for maintaining instrument experience. Within the 6 calendar months preceding the flight, that person performed and logged at least the following tasks, iterations, and simulation time in a flight simulator or flight training device, provided the flight simulator or flight training device represents the category of aircraft for the instrument rating privileges to be maintained and the person uses a view-limiting device that involves performing the following—

(i) Three hours of instrument experience.

(ii) Two 180-degree steep turns involving turns in both directions.

(iii) One complete holding pattern at a radio station and one complete holding pattern at an intersection or at a waypoint.

(iv) Six precision approaches.

(v) Six non-precision approaches.

(vi) Two usual altitude recoveries while in a descending, Vne airspeed condition and two usual altitude recoveries while in an ascending, stall speed condition.

(vii) One hour of a simulated cross-country operation that involves intercepting and tracking courses through the use of navigation systems, performing a takeoff, area departure, enroute, area arrival, approach, and missed approach phase of flight.

(3) Use of a personal computer aviation training device for maintaining instrument experience. Within the 2 calendar months preceding the flight, that person performed and logged at least the following tasks, iterations, and simulation time in a personal computer aviation training device and the person uses a view-limiting device that involves performing the following—

(i) Three hours of instrument experience.

(ii) Two 180-degree steep turns involving turns in both directions.

(iii) One complete holding pattern at a radio station and one complete holding pattern at an intersection or at a waypoint.

(iv) Six precision approaches.

(v) Six non-precision approaches.

(vi) Two usual altitude recoveries while in a descending, Vne airspeed condition and two usual altitude recoveries while in an ascending, stall speed condition.

(vii) One hour of a simulated cross-country operation that involves intercepting and tracking courses through the use of navigation systems, performing a takeoff, area departure, enroute, area arrival, approach, and missed approach phase of flight.

(4) Combination of completing instrument experience in an aircraft and a flight simulator, flight training device, or personal computer aviation training device. A person who elects to complete the instrument experience with a combination of an aircraft, and a flight simulator, flight training device, or personal computer aviation training device must have within the 6 calendar months preceding the flight performed and logged—

(i) One hour of cross-country flying in an airplane, powered-lift, helicopter, or airship, as appropriate, for the instrument rating privileges to be maintained in actual weather conditions, or under simulated conditions using a view-limiting device and performing the tasks of intercepting and tracking courses by the use of navigation systems, performing a takeoff, area departure, enroute, area arrival, approach, and missed approach phase of flight; and

(ii) Three hours of instrument experience using a view-limiting device in a flight simulator, flight training device, or a personal computer aviation training device that represents the category of aircraft for the instrument rating privileges to be maintained and involves performing at least the following tasks—

(A) Two 180-degree steep turns involving turns in both directions.

(B) One complete holding pattern at a radio station and one complete holding pattern at an intersection or at a waypoint.

(C) Six precision approaches.

(D) Six non-precision approaches.

(E) Two usual altitude recoveries while in a descending, Vne airspeed condition and two usual altitude recoveries while in an ascending, stall speed condition.

(F) One hour of a simulated cross-country operation that involves intercepting and tracking courses through the use of navigation systems, performing a takeoff, area departure, enroute, area arrival, approach, and missed approach phase of flight.

(5) Combination of completing instrument experience in a flight simulator or flight training device, and a personal computer aviation training device. A person who elects to complete the instrument experience with a combination of a flight simulator or flight training device, and a personal computer aviation training device must have within the 6 calendar months preceding the flight performed and logged—

(i) One hour of a simulated cross-country operation using a view-limiting device in a flight simulator or flight training device that represents the category of aircraft for the instrument rating privileges to be maintained and involves performing the tasks of intercepting and tracking courses through the use of navigation systems, performing a takeoff, area departure, enroute, area arrival, approach, and missed approach phase of flight; and

(ii) Three hours of instrument experience using a view-limiting device in a personal computer aviation training device that represents the category of aircraft for the instrument rating privileges to be maintained and involves performing at least the following tasks—

(A) Two 180-degree steep turns involving turns in both directions.

(B) One complete holding pattern at a radio station and one complete holding pattern at an intersection or at a waypoint.

(C) Six precision approaches.

(D) Six non-precision approaches.

(E) Two usual altitude recoveries while in a descending, Vne airspeed condition and two usual altitude recoveries while in an ascending, stall speed condition.

(F) One hour of a simulated cross-country operation that involves intercepting and tracking courses through the use of navigation systems, performing a takeoff, area departure, enroute, area arrival, approach, and missed approach phase of flight.

(6) Maintaining instrument recent experience in a glider.

(i) Unless the person has performed and logged flight time in a glider for the instrument rating privileges to be maintained in actual weather conditions or under simulated conditions that include the following:

(A) One hour of instrument flight time in a glider or in a single-engine airplane using a view limiting device while performing cross-country practice operations that involve intercepting and tracking courses through the use of navigation systems while performing an area departure, enroute, and area arrival phase of flight; and

(B) Two hours of instrument flight time in a glider or a single-engine airplane with the use of a view limiting device while performing straight glides, turns to specific headings, steep turns, flight at various airspeeds, navigation, and slow flight and stalls.

(ii) Before a pilot is allowed to carry a passenger in a glider under IFR or in weather conditions less than the minimums prescribed for VFR, that pilot also must have logged and performed 2 hours of instrument flight time in a glider using a view limiting device while performing performance maneuvers, performance airspeeds, navigation, slow flight, and stalls.

(d) Instrument proficiency check. Except as provided in paragraph (e) of this section, a person who does not meet the instrument experience requirements of paragraph (c) of this section within the 12 calendar months before the flight may not serve as pilot in command under IFR or in weather conditions less than the minimums prescribed for VFR until having passed an instrument proficiency check that consists of the tasks required by the instrument rating practical test.

* * * * *

(f) Night vision goggle operating experience. (1) No person may act as a pilot in command in a night vision goggle operation with passengers on board unless, within 2 calendar months before the flight, that person performs and logs the following tasks as the sole manipulator of the controls on a flight during a night vision goggle operation—

(i) Three takeoffs and three landings, with each takeoff and landing including a climbout, cruise, descent, and approach phase of flight (only required if the pilot wants to use night vision goggles during the takeoff and landing phases of the flight).

(ii) Three hovering tasks (only required if the pilot wants to use night vision goggles when operating helicopters or powered-lifts during the hovering phase of flight).

(iii) Three area departure and area arrival tasks.

(iv) Three tasks of transitioning from aided night flight (aided night flight means where the pilot uses night vision goggles to maintain visual surface reference) to unaided night flight (unaided night flight means where the pilot does not use night vision goggles) and back to aided night flight.

(v) Three night vision goggle operations, or when operating helicopters or powered-lifts, six night vision goggle operations.

(2) No person may act as a pilot in command using night vision goggles unless, within 4 calendar months before the flight, that person performs and logs the tasks listed in paragraph (f)(1)(i) through (v) of this section as the sole manipulator of the controls during a night vision goggle operation.

(g) Night vision goggle proficiency check. A person must either meet the night vision goggle experience requirements of paragraphs (f)(1) or (f)(2) of this section or pass a night vision goggle proficiency check to act as pilot in command using night vision goggles. The proficiency check must be performed in the category of aircraft that is appropriate to the night vision goggle operation the person is seeking the night vision goggle privilege or in a flight simulator or flight training device that is representative of that category of aircraft. The check must consist of the tasks listed under § 61.31(l) of this part, and the check must be performed by:

(1) An Examiner who is qualified and current to perform night vision goggle operations in that same aircraft category and class;

(2) A person who is authorized by the U.S. Armed Forces to perform night vision goggle proficiency checks, provided the person being administered the check is also member of the U.S. Armed Forces;

(3) A company check pilot who is authorized to perform night vision goggle proficiency checks under parts 121, 125, or 135 of this chapter, provided that both the check pilot and the pilot being tested are employees of that operator;

(4) An authorized flight instructor who is qualified and current to perform night vision goggle operations in that same aircraft category and class;

(5) A person who is qualified and current as pilot in command for night vision goggle operations in accordance with paragraph (f) of this section; or

(6) A person approved by the FAA to perform night vision goggle proficiency checks.

14. Amend § 61.59 by revising the section heading, paragraphs (a)(1) through (4), and (b); and adding new paragraphs (c) and (d) to read as follows:

§ 61.59 Applications, certificates, logbooks, reports, and records: Falsification, reproduction, or alteration; Incorrect statements.

(a) * * *

(1) A fraudulent or intentionally false statement on any application for an airman certificate, rating, or authorization, or duplicate thereof, issued under this part;

(2) A fraudulent or intentionally false entry in any logbook, record, or report that is required to show compliance with any requirement for the issuance of or exercise of the privileges of an airman certificate, rating, or authorization;

(3) A reproduction of an airman certificate, rating, or authorization for fraudulent purposes; or

(4) An alteration of an airman certificate, rating, or authorization.

(b) The commission by any person of an act prohibited under paragraph (a) of this section is basis for—

(1) Suspending or revoking an airman certificate or ratings held by that person;

(2) Withdrawing authorizations held by that person; and

(3) Denying all applications for an airman certificate, rating, or authorization requested by that person.

(c) An incorrect statement made on an application for an airman certificate, rating, or authorization can serve as basis for suspending, revoking, or denying an airman certificate, rating, or authorization.

(d) An incorrect entry made in a logbook, record, or report to show compliance with any requirements for an airman certificate, rating, or authorization can serve as basis for suspending, revoking, or denying an airman certificate, rating, or authorization.

15. Revise § 61.63 to read as follows:

§ 61.63 Additional aircraft ratings (other than for ratings at the airline transport pilot certification level).

(a) General. For an additional aircraft rating on a pilot certificate, other than for an airline transport pilot certificate, a person must meet the requirements of this section appropriate to the additional aircraft rating sought.

(b) Additional aircraft category rating. A person who applies to add a category rating to a pilot certificate:

(1) Must complete the training and have the applicable aeronautical experience.

(2) Must have a logbook or training record endorsement from an authorized instructor attesting that the person was found competent in the appropriate aeronautical knowledge areas and proficient in the appropriate areas of operation.

(3) Must pass the practical test.

(4) Need not take an additional knowledge test if the person holds an airplane, rotorcraft, powered-lift, or airship rating at that pilot certificate level.

(c) Additional aircraft class rating. A person who applies for an additional class rating on a pilot certificate:

(1) Must have a logbook or training record endorsement from an authorized instructor attesting that the person was found competent in the appropriate aeronautical knowledge areas and proficient in the appropriate areas of operation.

(2) Must pass the practical test.

(3) Need not meet the training time and iteration requirements under this part that apply to the pilot certificate for the aircraft class rating sought. If the person holds only a lighter-than-air category rating with a balloon class rating and seeks an airship class rating, then that person must receive the required training and possess the appropriate aeronautical experience.

(4) Need not take an additional knowledge test if the person holds an airplane, rotorcraft, powered-lift, or airship rating at that pilot certificate level.

(d) Additional aircraft type rating. Except as provided under paragraph (d)(6) of this section, a person who applies for an aircraft type rating or an aircraft type rating to be completed concurrently with an aircraft category or class rating—

(1) Must hold or concurrently obtain an appropriate instrument rating, except as provided in paragraph (h) of this section.

(2) Must have a logbook or training record endorsement from an authorized instructor attesting that the person is competent in the appropriate aeronautical knowledge areas and proficient in the appropriate areas of operation at the airline transport pilot certification level.

(3) Must pass the practical test at the airline transport pilot certification level.

(4) Must perform the practical test in actual or simulated instrument conditions, except as provided in paragraph (e) of this section.

(5) Need not take an additional knowledge test if the applicant holds an airplane, rotorcraft, powered-lift, or airship rating on the pilot certificate.

(6) In the case of a pilot employee of a part 121 or part 135 certificate holder, the pilot must—

(i) Meet the appropriate requirements under paragraphs (d)(1), (d)(3), and (d)(4) of this section; and

(ii) Receive a flight training record endorsement from the certificate holder attesting that the person completed the certificate holder's approved ground and flight training program.

(e) Aircraft not capable of instrument maneuvers and procedures. (1) An applicant for a type rating or a type rating in addition to an aircraft category and/or class rating who provides an aircraft that is not capable of the instrument maneuvers and procedures required on the practical test:

(i) May apply for the type rating, but the rating would be limited to “VFR only.”

(ii) May have the “VFR only” limitation removed for that aircraft type after the applicant:

(A) Passes a practical test in that type of aircraft in actual or simulated instrument conditions;

(B) Passes a practical test in that type of aircraft on the appropriate instrument maneuvers and procedures under § 61.157 of this part; or

(C) Becomes qualified under § 61.73(d) of this part for that type of aircraft.

(2) When an instrument rating is issued to a person who holds one or more type ratings, the amended pilot certificate must bear the “VFR only” limitation for each aircraft type rating that the person did not demonstrate instrument competency.

(f) Multiengine airplane with a single-pilot station. An applicant for a type rating, at other than the ATP certification level, in a multiengine airplane with a single-pilot station must perform the practical test in the multi-seat version of that airplane, or the practical test may be performed in the single-seat version of that airplane if the Examiner is in a position to observe the applicant during the practical test in the case where there is no multi-seat version of that multiengine airplane.

(g) Single-engine airplane with a single-pilot station. An applicant for a type rating, at other than the ATP certification level, in a single engine airplane with a single-pilot station must perform the practical test in the multi-seat version of that single-engine airplane, or the practical test may be performed in the single-seat version of that airplane if the Examiner is in a position to observe the applicant during the practical test in the case where there is no multi-seat version of that single-engine airplane.

(h) Aircraft category and class ratings for the operation of aircraft with experimental certificates. A person holding a recreational, private, or commercial pilot certificate may apply for a category and class rating limited to a specific make and model of experimental aircraft, provided—

(1) The person logged 5 hours flight time while acting as pilot in command in the same category, class, make, and model of aircraft.

(2) The person received a logbook endorsement from an authorized instructor who determined the pilot's proficiency to act as pilot in command of the same category, class, make, and model of aircraft.

(3) The flight time specified under paragraph (h)(1) of this section must have been logged between September 1, 2004 and August 31, 2005.

(i) Waiver authority. An Examiner who conducts a practical test may waive any task for which the FAA has provided waiver authority.

16. Add new § 61.64 to read as follows:

§ 61.64 Use of a flight simulator and flight training device.

(a) Use of a flight simulator for the airplane rating. If an applicant uses a flight simulator for training or the practical test for an airplane category, class, or type rating—

(1) The flight simulator—

(i) Must represent the category, class, and type of airplane rating (if a type rating is applicable) for the rating sought;

(ii) Must be used in accordance with an approved course of training under part 141 or part 142 of this chapter; or under part 121 or part 135 of this chapter, provided the applicant is a pilot employee of that air carrier operator;

(iii) At a minimum, must be qualified and approved as a Level C flight simulator if the applicant performs any portion of the practical test in the flight simulator; and

(iv) At a minimum, must be qualified and approved as a Level A flight simulator if the applicant uses the flight simulator for any training;

(2) If the type rating is for a turbojet airplane, the applicant must—

(i) Hold a type rating in a turbojet airplane of the same class of airplane, and that type rating may not contain a supervised operating experience limitation;

(ii) Have 1,000 hours of flight time in two different turbojet airplanes of the same class of airplane;

(iii) Have been appointed by the U.S. Armed Forces as a pilot in command in a turbojet airplane of the same class of airplane; or

(iv) Have 500 hours of flight time in the same type of airplane.

(3) If the type rating is for a turbo propeller airplane, the applicant must—

(i) Hold a type rating in a turbo-propeller airplane of the same class of airplane, and that type rating may not contain a supervised operating experience limitation;

(ii) Have 1,000 hours of flight time in two different turbo-propeller airplanes of the same class of airplane;

(iii) Have been appointed by the U.S. Armed Forces as a pilot in command in a turbo-propeller airplane of the same class of airplane; or

(iv) Have 500 hours of flight time in the same type of airplane.

(4) If the applicant does not meet the requirements of paragraph (a)(2) or (a)(3) of this section, then—

(i) The applicant must complete the following tasks on the practical test in the airplane of the category, class, and type of airplane rating (if a type rating is applicable) for which the airplane rating applies: preflight inspection, normal takeoff, normal instrument landing system approach, missed approach, and normal landing.

(ii) After passing the practical test, the applicant's pilot certificate must state: “The [name the category, class, and type of airplane rating (if a type rating is applicable)] is subject to additional pilot in command limitations,” and the applicant is restricted from serving as a pilot in command in that category, class, and type of airplane rating (if a type rating is applicable).

(iii) The limitation described under paragraph (a)(4)(ii) of this section may be removed from the applicant's pilot certificate if the applicant—

(A) Logs 25 hours of flight time in the category and class of airplane for the rating sought, and if a type rating is being sought, the flight time must be performed in the same type of airplane for the type rating sought;

(B) Performs the 25 hours of flight time under the direct observation of a pilot in command who holds the appropriate airplane category, class, and type rating, without limitations, in the same category, class, and type of airplane rating, if a type rating is applicable;

(C) Logs each flight and the pilot in command who observed the flight attests to each flight;

(D) Obtains the flight time while in the pilot in command seat of the appropriate airplane category, class, and type, if a type rating is appropriate; and

(E) Has an Examiner review the pilot logbook and endorse that logbook, attesting to compliance with the required supervised operating experience.

(b) Use of a flight training device for the airplane rating. If an applicant uses a flight training device for training for the airplane category, class, or type rating, the applicant must meet the requirements of paragraph (a)(2), (a)(3) or (a)(4) of this section, and the flight training device—

(1) Must represent the category, class, and type of airplane rating (if a type rating is applicable) for the rating.

(2) Must be used in accordance with an approved course of training under part 141 or part 142 of this chapter, or under part 121 or part 135 of this chapter, provided the applicant is a pilot employee of that air carrier operator.

(3) Must be qualified and approved at or above a Level 2 flight training device if the applicant completes the entire practical test in the airplane.

(4) Must be qualified and approved at or above a Level 5 flight training device if the applicant uses a flight simulator for any portion of the practical test.

(c) Use of a flight simulator for the helicopter rating. If an applicant uses a flight simulator for training or the practical test for the helicopter class or type rating,

(1) The flight simulator—

(i) Must represent the class and type of helicopter rating (if a type rating is applicable) for the rating;

(ii) Must be used in accordance with an approved course of training under part 141 or part 142 of this chapter, or under part 135 of this chapter, provided the applicant is a pilot employee of that part 135 operator;

(iii) At a minimum, must be qualified and approved as a Level C flight simulator if the applicant performs any portion of the practical test in a flight simulator; and

(iv) At a minimum, must be qualified and approved as a Level A flight simulator if the applicant uses a flight simulator for any training.

(2) The applicant must meet one of the following requirements—

(i) Hold a type rating in a helicopter and that type rating may not contain the supervised operating experience limitation;

(ii) Have been appointed by the U.S. Armed Forces as a pilot in command of a helicopter;

(iii) Have 500 hours of flight time in the type of helicopter; or

(iv) Have 1,000 hours of flight time in two different types of helicopters.

(3) If the applicant does not meet any of the requirements of paragraph (c)(2) of this section, then—

(i) The applicant must complete the following tasks on the practical test in the helicopter class and type rating (if a type rating is applicable) for which the rating applies: Preflight inspection, normal takeoff, normal instrument landing system approach, missed approach, and normal landing.

(ii) After passing the practical test, the applicant's pilot certificate must state: “The [name the helicopter class, and type of helicopter rating (if a type rating is applicable)] rating is subject to additional pilot in command limitations,” and the applicant is restricted from serving as a pilot in command in that helicopter class and type of helicopter rating (if a type rating is applicable).

(iii) The limitation described under paragraph (c)(3)(ii) of this section may be removed from the pilot certificate if the applicant complies with the following—

(A) Logs 25 hours of flight time in the class of helicopter for the rating sought, and if the person applied for a type rating, the flight time must be performed in the same type of helicopter for the type rating sought;

(B) Performs the 25 hours of flight time under the direct observation of a pilot in command who holds the appropriate class and type of helicopter rating (if a type rating is applicable), without limitations, in the same class, and type of helicopter rating, if a type rating is applicable;

(C) Logs each flight and the pilot in command who observed the flight attests to each flight;

(D) Performs the flight time while in the pilot in command seat of the appropriate class and type of helicopter rating, if a type rating is appropriate; and

(E) Has an Examiner review the pilot logbook and endorse that logbook, attesting to compliance with the required supervised operating experience.

(d) Use of a flight training device for the helicopter rating. If an applicant uses a flight training device for training for the helicopter class or type rating, the applicant must meet the requirements of either paragraph (c)(2) or (3) of this section and the flight training device—

(1) Must represent the class and type of helicopter rating (if a type rating is applicable) for the rating.

(2) Must be used in accordance with an approved course of training under part 141 or part 142 of this chapter, or under part 135 of this chapter, provided the applicant is a pilot employee of that part 135 operator.

(3) Must be qualified and approved at or above a Level 2 flight training device if the applicant completes the entire practical test in the helicopter.

(4) Must be qualified and approved at or above a Level 5 flight training device if the applicant uses a flight simulator for any portion of the practical test.

(e) Use of a flight simulator for the powered-lift rating. If an applicant uses a flight simulator for training or the practical test for the powered-lift category or type rating—

(1) The flight simulator—

(i) Must represent the category and type of powered-lift rating (if a type rating is applicable) for the rating;

(ii) Must be used in accordance with an approved course of training under part 141 or part 142 of this chapter, or under part 121 or part 135 of this chapter, provided the applicant is a pilot employee of that air carrier operator;

(iii) At a minimum, must be qualified and approved as a Level C flight simulator if the applicant performs any portion of the practical test in a flight simulator; and

(iv) At a minimum, must be qualified and approved as a Level A flight simulator if the applicant uses a flight simulator for any training.

(2) The applicant must meet one of the following requirements—

(i) Hold a type rating in a powered-lift without a supervised operating experience limitation;

(ii) Have been appointed by the U.S. Armed Forces as a pilot in command of a powered-lift;

(iii) Have 500 hours of flight time in the type of powered-lift; or

(iv) Have 1,000 hours of flight time in two different types of powered-lifts.

(3) If the applicant does not meet any of the requirements of paragraph (e)(2) of this section, then—

(i) The applicant must complete the following tasks on the practical test in the powered-lift of the category and type of powered-lift rating (if a type rating is applicable) for which the rating applies: preflight inspection, normal takeoff, normal instrument landing system approach, missed approach, and normal landing.

(ii) After passing the practical test, the applicant's pilot certificate must state: “The [name of the category and type of powered-lift rating (if a type rating is applicable)] rating is subject to additional pilot in command limitations,” and that applicant is restricted from serving as a pilot in command in that category and type of powered-lift rating (if a type rating is applicable).

(iii) The limitation described under paragraph (e)(3)(ii) of this section may be removed from the pilot certificate if the applicant complies with the following—

(A) Logs 25 hours of flight time in the powered-lift category for the rating sought, and if a type rating is being sought, the flight time must be performed in the same type of powered-lift for the type rating sought;

(B) Performs the 25 hours flight time under the direct observation of a pilot in command who holds the category and type of powered-lift rating (if a type rating is applicable), without limitations, in the same category and type of powered-lift rating, if a type rating is applicable;

(C) Logs each flight and the pilot in command who observed the flight attests to each flight;

(D) Performs the flight time while in the pilot in command seat of the appropriate category and type of powered-lift rating, if a type rating is appropriate; and

(E) Has an Examiner review the pilot logbook and endorse that logbook, attesting to compliance with the required supervised operating experience.

(f) Use of a flight training device for the powered-lift rating. Whenever an applicant uses a flight training device for training for the powered-lift category or type rating, the flight training device must meet the following requirements, and the applicant must meet the requirements of either paragraph (e)(2) or (e)(3) of this section.

(1) The flight training device must represent the class and type of powered-lift rating (if a type rating is applicable) for the rating.

(2) The flight training device must be used in accordance with an approved course of training under part 141 or part 142 of this chapter; or under part 121 or part 135 of this chapter, provided the applicant is a pilot employee of that air carrier operator.

(3) If the applicant completes the entire practical test in the powered-lift, the flight training device used for training must be qualified and approved at or above a Level 2 flight training device.

(4) If an applicant uses a flight simulator for any portion of the practical test, the flight training device used for training must be qualified and approved at or above a Level 5 flight training device.

17. Amend § 61.65 by:

A. Revising paragraph (d);

B. Redesignating existing paragraph (e) as paragraph (g);

C. Adding new paragraphs (e), (f), and (h);

D. Revising newly designated paragraph (g) to read as follows:

§ 61.65 Instrument rating requirements.

* * * * *

(d) Aeronautical experience for the instrument-airplane rating. A person who applies for an instrument-airplane rating must have logged:

(1) Fifty hours of cross-country flight time as pilot in command, of which 10 hours must have been in an airplane; and

(2) Forty hours of actual or simulated instrument time in the areas of operation listed in paragraph (c) of this section, of which 15 hours must have been received from an authorized instructor who holds an instrument-airplane rating, and the instrument time includes:

(i) Three hours of instrument flight training from an authorized instructor in an airplane that is appropriate to the instrument-airplane rating within 2 calendar months before the date of the practical test; and

(ii) Instrument flight training on cross-country flight procedures, including one cross-country flight in an airplane with an authorized instructor, that is performed under instrument flight rules, and a flight plan has been filed with an air traffic control facility, and involves—

(A) A flight of 250 nautical miles along airways or by directed routing from an air traffic control facility;

(B) An instrument approach at each airport; and

(C) Three different kinds of approaches with the use of navigation systems.

(e) Aeronautical experience for the instrument-helicopter rating. A person who applies for an instrument-helicopter rating must have logged:

(1) Fifty hours of cross-country flight time as pilot in command, of which 10 hours must have been in a helicopter; and

(2) Forty hours of actual or simulated instrument time in the areas of operation listed under paragraph (c) of this section, of which 15 hours must have been with an authorized instructor who holds an instrument-helicopter rating, and the instrument time includes:

(i) Three hours of instrument flight training from an authorized instructor in a helicopter that is appropriate to the instrument-helicopter rating within 2 calendar months before the date of the practical test; and

(ii) Instrument flight training on cross-country flight procedures, including one cross-country flight in a helicopter with an authorized instructor that is performed under instrument flight rules and a flight plan has been filed with an air traffic control facility, and involves—

(A) A flight of 100 nautical miles along airways or by directed routing from an air traffic control facility;

(B) An instrument approach at each airport; and

(C) Three different kinds of approaches with the use of navigation systems.

(f) Aeronautical experience for the instrument-powered-lift rating. A person who applies for an instrument-powered-lift rating must have logged:

(1) Fifty hours of cross-country flight time as pilot in command, of which 10 hours cross-country must have been in a powered-lift; and

(2) Forty hours of actual or simulated instrument time in the areas of operation listed under paragraph (c) of this section, of which 15 hours must have been received from an authorized instructor who holds an instrument-powered-lift rating, and the instrument time includes:

(i) Three hours of instrument flight training from an authorized instructor in a powered-lift that is appropriate to the instrument-powered-lift rating within 2 calendar months before the date of the practical test; and

(ii) Instrument flight training on cross-country flight procedures, including one cross-country flight in a powered-lift with an authorized instructor that is performed under instrument flight rules and a flight plan has been filed with an air traffic control facility, and involves—

(A) A flight of 250 nautical miles along airways or by directed routing from an air traffic control facility;

(B) An instrument approach at each airport; and

(C) Three different kinds of approaches with the use of navigation systems.

(g) Use of flight simulators or flight training devices. If the instrument time was provided by an authorized instructor in a flight simulator or flight training device—

(1) A maximum of 30 hours may be performed in that flight simulator or flight training device if the instrument time was completed in accordance with part 142 of this chapter; or

(2) A maximum of 20 hours may be performed in that flight simulator or flight training device if the instrument time was not completed in accordance with part 142 of this chapter.

(h) Use of a personal computer aviation training device. A maximum of 10 hours of instrument time received in a personal computer aviation training device may be credited for the instrument time requirements of this section if—

(1) The device is approved and authorized by the FAA;

(2) An authorized instructor provides the instrument time in the device;

(3) No more than 10 hours of instrument time in a flight simulator or flight training device was credited for the instrument time requirements of this section;

(4) A view limiting device was worn by the applicant when logging instrument time in the device; and

(5) The FAA approved the instrument training and instrument tasks performed in the device.

18. Amend § 61.69 by revising paragraphs (a)(1), (4), and (6) introductory text to read as follows:

§ 61.69 Glider and unpowered ultralight vehicle towing: Experience and training requirements.

(a) * * *

(1) Holds a current and valid private, commercial or airline transport pilot certificate with a category rating for powered aircraft;

* * * * *

(4) Except as provided in paragraph (b) of this section, has logged at least three flights as the sole manipulator of the controls of an aircraft while towing a glider or unpowered ultralight vehicle, or has simulated towing flight procedures in an aircraft while accompanied by a pilot who meets the requirements of paragraphs (c) and (d) of this section.

* * * * *

(6) Within 24 calendar months before the flight has—

* * * * *

19. Revise § 61.73 to read as follows:

§ 61.73 Military pilots or former military pilots: Special rules.

(a) General. Except for a person who has been removed from flying status for lack of proficiency or because of a disciplinary action involving aircraft operations, a U.S. military pilot or former military pilot who meets the requirements of this section may apply, on the basis of his or her military pilot qualifications, for:

(1) A commercial pilot certificate with the appropriate aircraft category and class rating.

(2) An instrument rating with the appropriate aircraft rating.

(3) A type rating.

(b) Military pilots and former military pilots in an Armed Force of the United States. A person who qualifies as a military pilot or former military pilot in the U.S. Armed Forces may apply for a pilot certificate and ratings under paragraph (a) of this section if that person—

(1) Presents evidentiary documents described under paragraphs (h)(1), (2), and (3) of this section that show the person's status in the U.S. Armed Forces.

(2) Has passed the military competency aeronautical knowledge test on the appropriate parts of this chapter for commercial pilot privileges and limitations, air traffic and general operating rules, and accident reporting rules.

(3) Presents official U.S. military records that shows compliance with one of the following requirements—

(i) Prior to the date of the application, passing an official U.S. military pilot and instrument proficiency check in a military aircraft of the kind of aircraft category, class, and type, if class or type of aircraft is applicable, for the ratings sought; or

(ii) Prior to the date of application, logging 10 hours of pilot time as a military pilot in a U.S. military aircraft in the kind of aircraft category, class, and type, if a class rating or type rating is applicable, for the aircraft rating sought.

(c) A military pilot of an Armed Force of a foreign contracting State to the Convention on International Civil Aviation. A person who is a military pilot of an Armed Force of a foreign contracting State to the Convention on International Civil Aviation and is assigned to pilot duties in the U.S. Armed Forces, for purposes other than receiving flight training, may apply for a commercial pilot certificate and ratings under paragraph (a) of this section, provided that person—

(1) Presents evidentiary documents described under paragraph (h)(4) of this section that shows the person is a military pilot of an Armed Force of a foreign contracting State to the Convention on International Civil Aviation, and is assigned to pilot duties in an Armed Force of the United States, for purposes other than receiving flight training.

(2) Has passed the military competency aeronautical knowledge test on the appropriate parts of this chapter for commercial pilot privileges and limitations, air traffic and general operating rules, and accident reporting rules.

(3) Presents official U.S. military records that show compliance with one of the following requirements:

(i) Prior to the date of the application, passed an official U.S. military pilot and instrument proficiency check in a military aircraft of the kind of aircraft category, class, or type, if class or type of aircraft is applicable, for the ratings; or

(ii) Prior to the date of application, logged 10 hours of pilot time as a military pilot in a U.S. military aircraft of the kind of category, class, and type of aircraft, if a class rating or type rating is applicable, for the aircraft rating.

(d) Instrument rating. A person who is qualified as a U.S. military pilot or former military pilot may apply for an instrument rating to be added to a pilot certificate if that person has—

(1) Passed an instrument proficiency check by the U.S. Armed Forces in the aircraft category for the instrument rating sought; and

(2) An official U.S. Armed Forces record that shows the person is instrument pilot qualified by the U.S. Armed Forces to conduct instrument flying on Federal airways in that aircraft category and class for the instrument rating sought.

(e) Aircraft type rating. An aircraft type rating may only be issued for a type of aircraft that has a comparable civilian type designation by the Administrator.

(f) Aircraft type rating placed on an airline transport pilot certificate. A person who is a military pilot or former military pilot of the U.S. Armed Forces and requests an aircraft type rating to be placed on an existing U.S. airline transport pilot certificate may be issued the rating at the airline transport pilot certification level, provided that person:

(1) Holds a category and class rating for that type of aircraft at the airline transport pilot certification level; and

(2) Has passed an official U.S. military pilot check and instrument proficiency check in that type of aircraft.

(g) Flight instructor certificate and ratings. A person who is a U.S. military instructor pilot may apply for and be issued a flight instructor certificate with the appropriate ratings if that person:

(1) Holds a commercial or airline transport pilot certificate with the appropriate aircraft category and class rating, if a class rating is appropriate, for the flight instructor rating sought;

(2) Holds an instrument rating on the pilot certificate that is appropriate to the flight instructor rating sought; and

(3) Presents the following evidentiary documents:

(i) A knowledge test report that shows the person passed a knowledge test on the aeronautical knowledge areas listed under § 61.185(a) that are appropriate to the flight instructor rating;

(ii) An official U.S. Armed Forces record that shows the person is qualified as a military instructor pilot for the flight instructor rating;

(iii) An official U.S. Armed Forces record that shows the person is a military instructor pilot for the flight instructor rating;

(iv) An official U.S. Armed Forces record that shows the person graduated from a U.S. Armed Forces' instructor pilot training school and received an aircraft rating qualification as a military instructor pilot that is appropriate to the flight instructor rating; and

(v) An official U.S. Armed Forces record that shows the person passed an instructor pilot proficiency check in an aircraft as a military instructor pilot in the U.S. Armed Forces that is appropriate to the flight instructor rating.

(h) Evidentiary documents for qualifying for a pilot certificate and rating. The following documents are required in order for a person to be able to apply for a pilot certificate and rating:

(1) An official U.S. Armed Forces record that shows the person is or was a military pilot.

(2) An official U.S. Armed Forces record that shows the person graduated from a U.S. Armed Forces undergraduate pilot training school and received a rating qualification as a military pilot.

(3) An official U.S. Armed Forces record that shows the pilot passed a pilot proficiency check and instrument proficiency check in an aircraft as a military pilot.

(4) If a person is a military pilot of an Armed Force from a foreign contracting State to the Convention on International Civil Aviation and is applying for a pilot certificate and rating, that person must present the following:

(i) An official U.S. Armed Forces record that shows the person is a military pilot in an Armed Force of the United States;

(ii) An official U.S. Armed Forces record that shows the person is assigned as a military pilot with an Armed Force of the United States for purposes other than receiving flight training;

(iii) An official record that shows the person graduated from a military undergraduate pilot training school from an Armed Force from a foreign contracting State to the Convention on International Civil Aviation or from an Armed Force of the United States, and received a qualification as a military pilot; and

(iv) An official U.S. Armed Forces record that shows that the person passed a pilot proficiency check and instrument proficiency check in an aircraft as a military pilot in an Armed Force of the United States.

20. Amend § 61.75 by revising paragraphs (a), (b) introductory text, (b)(2), (b)(3), (c), (d) introductory text, (e)(1), (e)(4), (f), and (g) to read as follows:

§ 61.75 Private pilot certificate issued on the basis of a foreign pilot license.

(a) General. A person who holds a valid foreign pilot license at the private pilot level or higher that was issued by a contracting State to the Convention on International Civil Aviation may apply for and be issued a U.S. private pilot certificate with the appropriate ratings if the foreign pilot license meets the requirements of this section.

(b) Certificate issued. A U.S. private pilot certificate issued under this section must specify the person's foreign license number and country of issuance. A person who holds a valid foreign pilot license issued by a contracting State to the Convention on International Civil Aviation may be issued a U.S. private pilot certificate based on the foreign pilot license without any further showing of proficiency, provided the applicant:

(1) * * *

(2) Holds a valid foreign pilot license, at the private pilot license level or higher, that does not contain a limitation stating that the applicant has not met all of the standards of ICAO for that license;

(3) Does not hold a U.S. pilot certificate other than a U.S. student pilot certificate;

* * * * *

(c) Aircraft ratings issued. Aircraft ratings listed on a person's foreign pilot license, in addition to any issued after testing under the provisions of this part, may be placed on that person's U.S. pilot certificate for private pilot privileges only.

(d) Instrument ratings issued. A person who holds a valid instrument rating on the foreign pilot license issued by a contracting State to the Convention on International Civil Aviation may be issued an instrument rating on a U.S. pilot certificate provided:

* * * * *

(e) * * *

(1) May act as a pilot in command of a civil aircraft of the United States in accordance with the pilot privileges authorized by this part and the limitations placed on that U.S. pilot certificate;

* * * * *

(4) Cannot exercise the privileges of that U.S. pilot certificate when the person's foreign pilot license is not valid.

(f) Limitation on licenses used as the basis for a U.S. certificate. A person may use only one foreign pilot license as a basis for the issuance of a U.S. pilot certificate. The foreign pilot license and medical certification used as a basis for issuing a U.S. pilot certificate under this section must be written in English or accompanied by an English transcription that has been signed by an official or representative of the foreign aviation authority that issued the foreign pilot license.

(g) Limitation placed on a U.S. pilot certificate. A U.S. pilot certificate issued under this section can only be exercised when the pilot has the foreign pilot license, upon which the issuance of the U.S. pilot certificate was based, in the holder's possession or is readily accessible in the aircraft.

21. Amend § 61.77 by:

A. Revising the section heading; revising paragraphs (a)(2), (b)(1), and (b)(4);

B. Removing paragraph (b)(5); and

C. Redesignating paragraph (b)(6) as (b)(5) to read as follows:

§ 61.77 Special purpose pilot authorization: Operation of a civil aircraft of the United States and leased by a non -U.S. citizen.

(a) * * *

(2) For carrying persons or property for compensation or hire for operations in—

(i) Scheduled international air services in turbojet-powered airplanes of U.S. registry;

(ii) Scheduled international air services in airplanes of U.S. registry having a configuration of more than nine passenger seats, excluding crewmember seats;

(iii) Nonscheduled international air transportation in airplanes of U.S. registry having a configuration of more than 30 passenger seats, excluding crewmember seats; or

(iv) Scheduled international air services, or nonscheduled international air transportation, in airplanes of U.S. registry having a payload capacity of more than 7,500 pounds.

(b) * * *

(1) A valid foreign pilot license issued by the aeronautical authority of a contracting State to the Convention on International Civil Aviation that contains the appropriate aircraft category, class, type rating, if appropriate, and instrument rating for the aircraft to be flown;

* * * * *

(4) Documentation the applicant meets the medical standards for the issuance of the foreign pilot license from the aeronautical authority of that contracting State to the Convention on International Civil Aviation; and

* * * * *

22. Amend § 61.96 by revising paragraphs (b)(7) and (b)(8); and adding a new paragraph (b)(9) to read as follows:

§ 61.96 Applicability and eligibility requirements: General.

* * * * *

(b) * * *

(7) Pass the practical test on the areas of operation listed under § 61.98(b) of this part that apply to the aircraft category and class rating;

(8) Comply with the sections of this part that apply to the aircraft category and class rating; and

(9) Hold a U.S. student pilot certificate.

23. Amend § 61.101 by revising paragraph (e)(1)(iii) to read as follows:

§ 61.101 Recreational pilot privileges and limitations.

* * * * *

(e) * * *

(1) * * *

(iii) With a powerplant of more than 180 horsepower, except aircraft certificated in the rotorcraft category; or

* * * * *

24. Amend § 61.103 by adding new paragraph (j) to read as follows:

§ 61.103 Eligibility requirements: General.

* * * * *

(j) Hold a valid U.S. student pilot certificate, or recreational pilot certificate.

25. Amend § 61.109 by revising paragraphs (a)(5)(ii), (b)(5)(ii), (c)(4)(ii), (d)(4)(ii), and (e)(5)(ii) to read as follows:

§ 61.109 Aeronautical experience.

(a) * * *

(5) * * *

(ii) One solo cross-country flight of 150 nautical miles total distance, with full-stop landings at three points, and one segment of the flight consisting of a straight-line distance of more than 50 nautical miles between the takeoff and landing locations; and

* * * * *

(b) * * *

(5) * * *

(ii) One solo cross-country flight of 150 nautical miles total distance, with full-stop landings at three points, and one segment of the flight consisting of a straight-line distance of more than 50 nautical miles between the takeoff and landing locations; and

* * * * *

(c) * * *

(4) * * *

(ii) One solo cross-country flight of 100 nautical miles total distance, with landings at three points, and one segment of the flight being a straight-line distance of more than 25 nautical miles between the takeoff and landing locations; and

* * * * *

(d) * * *

(4) * * *

(ii) One solo cross-country flight of 100 nautical miles total distance, with landings at three points, and one segment of the flight being a straight-line distance of more than 25 nautical miles between the takeoff and landing locations; and

* * * * *

(e) * * *

(5) * * *

(ii) One solo cross-country flight of 150 nautical miles total distance, with full-stop landings at three points, and one segment of the flight consisting of a straight-line distance of more than 50 nautical miles between the takeoff and landing locations; and

* * * * *

26. Amend § 61.127 by:

A. Redesignating paragraphs (b)(4)(vi) through (ix) as (b)(4)(vii) through (x);

B. Adding a new paragraph (b)(4)(vi);

C. Removing paragraph (b)(5)(vii); and

D. Re-designating existing paragraphs (b)(5)(viii) through (xiii) as (b)(5)(vii) through (xii) to read as follows:

§ 61.127 Flight proficiency.

* * * * *

(b) * * *

(4) * * *

(vi) Ground reference maneuvers;

* * * * *

27. Amend § 61.129 by revising paragraphs (a)(3)(i), (a)(3)(iii), (a)(3)(iv), (a)(4) introductory text, (b)(3)(i), (b)(3)(iii), (b)(3)(iv), (c)(3)(i), (c)(3)(ii), (c)(3)(iii), (c)(4) introductory text, (d)(3)(i), (d)(3)(ii), (d)(3)(iii), (d)(4) introductory text, (e)(3)(i), (e)(3)(ii), (e)(3)(iii), (e)(4) introductory text, (g)(2) introductory text, (g)(3), (g)(4)(ii), (g)(4)(iii), and (i)(3) to read as follows:

§ 61.129 Aeronautical experience.

(a) * * *

(3) * * *

(i) 10 hours of instrument training using a view limiting device including attitude instrument flying, partial panel skills, recovery from unusual flight attitudes, and intercepting and tracking navigational systems. Five of the 10 hours of instrument training must be in a single-engine airplane;

* * * * *

(iii) One 2-hour cross-country flight in a single-engine airplane in day-time conditions that consists of a total straight-line distance of more than 100 nautical miles from the original point of departure;

(iv) One 2-hour cross-country flight in a single-engine airplane in night-time conditions that consists of a total straight-line distance of more than 100 nautical miles from the original point of departure; and

* * * * *

(4) 10 hours of solo flight time in a single-engine airplane or 10 hours of flight time performing the duties of pilot in command in a single-engine airplane with an authorized instructor on board (either of which may be credited towards the flight time requirement under paragraph (a)(2) of this section), on the areas of operation listed under § 61.127(b)(1) that includes—

* * * * *

(b) * * *

(3) * * *

(i) Ten hours of instrument training using a view limiting device including attitude instrument flying, partial panel skills, recovery from unusual flight attitudes, and intercepting and tracking navigational systems. Five of the 10 hours of instrument training must be in a multiengine airplane;

* * * * *

(iii) One 2-hour cross-country flight in a multiengine airplane in day-time conditions that consists of a total straight-line distance of more than 100 nautical miles from the original point of departure;

(iv) One 2-hour cross-country flight in a multiengine airplane in night-time conditions that consists of a total straight-line distance of more than 100 nautical miles from the original point of departure; and

* * * * *

(c) * * *

(3) * * *

(i) Five hours on the control and maneuvering of a helicopter solely by reference to instruments using a view limiting device including attitude instrument flying, partial panel skills, recovery from unusual flight attitudes, and intercepting and tracking navigational systems. This aeronautical experience may be performed in an aircraft, flight simulator, flight training device, or a personal computer aviation training device;

(ii) One 2-hour cross-country flight in a helicopter in day-time conditions that consists of a total straight-line distance of more than 50 nautical miles from the original point of departure;

(iii) One 2-hour cross-country flight in a helicopter in night-time conditions that consists of a total straight-line distance of more than 50 nautical miles from the original point of departure; and

* * * * *

(4) Ten hours of solo flight time in a helicopter or 10 hours of flight time performing the duties of pilot in command in a helicopter with an authorized instructor on board (either of which may be credited towards the flight time requirement under paragraph (c)(2) of this section), on the areas of operation listed under § 61.127(b)(3) that includes—

* * * * *

(d) * * *

(3) * * *

(i) 2.5 hours on the control and maneuvering of a gyroplane solely by reference to instruments using a view limiting device including attitude instrument flying, partial panel skills, recovery from unusual flight attitudes, and intercepting and tracking navigational systems. This aeronautical experience may be performed in an aircraft, flight simulator, flight training device, or a personal computer aviation training device;

(ii) One 2-hour cross-country flight in a gyroplane in day-time conditions that consists of a total straight-line distance of more than 50 nautical miles from the original point of departure;

(iii) Two hours of flight training during night-time conditions in a gyroplane at an airport, that includes 10 takeoffs and 10 landings to a full stop (with each landing involving a flight in the traffic pattern); and

* * * * *

(4) Ten hours of solo flight time in a gyroplane or 10 hours of flight time performing the duties of pilot in command in a gyroplane with an authorized instructor on board (either of which may be credited towards the flight time requirement under paragraph (d)(2) of this section), on the areas of operation listed under § 61.127(b)(4) of this part that includes—

* * * * *

(e) * * *

(3) * * *

(i) Ten hours of instrument training using a view limiting device including attitude instrument flying, partial panel skills, recovery from unusual flight attitudes, and intercepting and tracking navigational systems. Five of the 10 hours of instrument training must be in a powered-lift;

(ii) One 2-hour cross-country flight in a powered-lift in day-time conditions that consists of a total straight-line distance of more than 100 nautical miles from the original point of departure;

(iii) One 2-hour cross-country flight in a powered-lift in night-time conditions that consists of a total straight-line distance of more than 100 nautical miles from the original point of departure; and

* * * * *

(4) Ten hours of solo flight time in a powered-lift or 10 hours of flight time performing the duties of pilot in command in a powered-lift with an authorized instructor on board (either of which may be credited towards the flight time requirement under paragraph (e)(2) of this section), on the areas of operation listed under § 61.127(b)(5) of this part that includes—

* * * * *

(g) * * *

(2) Thirty hours of pilot in command time in airships or performing the duties of pilot in command in an airship with an authorized instructor aboard, which consists of—

* * * * *

(3) Forty hours of instrument time to include—

(i) Instrument training using a view limiting device for attitude instrument flying, partial panel skills, recovery from unusual flight attitudes, and intercepting and tracking navigational systems; and

(ii) Twenty hours of instrument flight time, of which 10 hours must be in flight in airships.

(4) * * *

(ii) One 1-hour cross-country flight in an airship in day-time conditions that consists of a total straight-line distance of more than 25 nautical miles from the point of departure; and

(iii) One 1-hour cross-country flight in an airship in night-time conditions that consists of a total straight-line distance of more than 25 nautical miles from the point of departure.

* * * * *

(i) * * *

(3) Except when fewer hours are approved by the FAA, an applicant for the commercial pilot certificate with the airplane or powered-lift rating who has completed 190 hours of aeronautical experience is considered to have met the total aeronautical experience requirements of this section, provided the applicant satisfactorily completed an approved commercial pilot course under part 142 of this chapter and the approved course was appropriate to the commercial pilot certificate and aircraft rating sought.

28. Amend § 61.133 by revising paragraph (a)(1) introductory text to read as follows:

§ 61.133 Commercial pilot privileges and limitations.

(a) * * *

(1) General. A person who holds a current and valid commercial pilot certificate may act as pilot in command of an aircraft—

* * * * *

29. Amend § 61.153 by revising paragraphs (d)(1), (d)(3), and (h) to read as follows:

§ 61.153 Eligibility requirements: General.

* * * * *

(d) * * *

(1) Holds a commercial pilot certificate with an instrument rating issued under this part;

* * * * *

(3) Holds either a valid foreign airline transport pilot license with instrument privileges, or a valid foreign commercial pilot license with an instrument rating, that—

(i) Was issued by a contracting State to the Convention on International Civil Aviation; and

(ii) Contains no geographical limitations.

* * * * *

(h) Comply with the sections of this subpart that apply to the aircraft category and class rating sought.

30. Revise § 61.157 to read as follows:

§ 61.157 Flight proficiency.

(a) General.

(1) The practical test for an airline transport pilot certificate is given for—

(i) An airplane category and single-engine class rating.

(ii) An airplane category and multiengine class rating.

(iii) A rotorcraft category and helicopter class rating.

(iv) A powered-lift category rating.

(v) An aircraft type rating.

(2) A person who is applying for an airline transport pilot practical test must meet—

(i) The eligibility requirements of § 61.153 of this part; and

(ii) The aeronautical knowledge and aeronautical experience requirements of this subpart that apply to the aircraft category and class rating sought.

(b) Aircraft type rating. Except as provided in paragraph (c) of this section, a person who applies for an aircraft type rating to be added to an airline transport pilot certificate or applies for a type rating to be concurrently completed with an airline transport pilot certificate:

(1) Must receive and log ground and flight training from an authorized instructor on the areas of operation under this section that apply to the aircraft type rating;

(2) Must receive a logbook endorsement from an authorized instructor that certifies the applicant completed the training on the areas of operation listed under paragraph (e) of this section that apply to the aircraft type rating; and

(3) Must perform the practical test in actual or simulated instrument conditions, except as provided under paragraph (g) of this section.

(c) Exceptions. A person who applies for an aircraft type rating to be added to an airline transport pilot certificate or an aircraft type rating concurrently with an airline transport pilot certificate, and who is an employee of a certificate holder operating under part 121 or part 135 of this chapter, does not need to comply with the requirements of paragraph (b) of this section if the applicant presents a training record that shows completion of that certificate holder's approved pilot in command training program for the aircraft type rating.

(d) Upgrading type ratings. Any type rating(s) and limitations on a pilot certificate of an applicant who completes an airline transport pilot practical test will be included at the airline transport pilot certification level, provided the applicant passes the practical test in the same category and class of aircraft for which the applicant holds the type rating(s).

(e) Areas of operation.

(1) For an airplane category—single-engine class rating:

(i) Preflight preparation;

(ii) Preflight procedures;

(iii) Takeoff and departure phase;

(iv) In-flight maneuvers;

(v) Instrument procedures;

(vi) Landings and approaches to landings;

(vii) Normal and abnormal procedures;

(viii) Emergency procedures; and

(ix) Postflight procedures.

(2) For an airplane category—multiengine class rating:

(i) Preflight preparation;

(ii) Preflight procedures;

(iii) Takeoff and departure phase;

(iv) In-flight maneuvers;

(v) Instrument procedures;

(vi) Landings and approaches to landings;

(vii) Normal and abnormal procedures;

(viii) Emergency procedures; and

(ix) Postflight procedures.

(3) For a powered-lift category rating:

(i) Preflight preparation;

(ii) Preflight procedures;

(iii) Takeoff and departure phase;

(iv) In-flight maneuvers;

(v) Instrument procedures;

(vi) Landings and approaches to landings;

(vii) Normal and abnormal procedures;

(viii) Emergency procedures; and

(ix) Postflight procedures.

(4) For a rotorcraft category—helicopter class rating:

(i) Preflight preparation;

(ii) Preflight procedures;

(iii) Takeoff and departure phase;

(iv) In-flight maneuvers;

(v) Instrument procedures;

(vi) Landings and approaches to landings;

(vii) Normal and abnormal procedures;

(viii) Emergency procedures; and

(ix) Postflight procedures.

(f) Proficiency and competency checks conducted under part 121 or part 135. (1) Completion of a pilot in command proficiency check under § 121.441 of this chapter that is conducted by an Examiner or a FAA Aviation Safety Inspector satisfies the requirements of this section for the appropriate aircraft rating.

(2) Completion of both the following checks that are conducted by an Examiner or a FAA Aviation Safety Inspector satisfies the requirements of this section for the appropriate aircraft rating—

(i) Pilot in command proficiency check under § 135.293 of this chapter; and

(ii) Pilot in command instrument proficiency check under § 135.297 of this chapter.

(g) Aircraft not capable of instrument maneuvers and procedures. An applicant may add a type rating to an airline transport pilot certificate with an aircraft that is not capable of the instrument maneuvers and procedures required on the practical test under the following circumstances—

(1) The rating is limited to “VFR only.”

(2) The type rating is added to an airline transport pilot certificate that has instrument privileges in that category and class of aircraft.

(3) The “VFR only” limitation may be removed for that aircraft type after the applicant:

(i) Passes a practical test in that type of aircraft on the appropriate instrument maneuvers and procedures under § 61.157 of this part; or

(ii) Becomes qualified under § 61.73(d) of this part for that type of aircraft.

(h) Multiengine airplane with a single-pilot station. An applicant for a type rating, at the ATP certification level, in a multiengine airplane with a single-pilot station must perform the practical test in the multi-seat version of that airplane, or the practical test may be performed in the single-seat version of that airplane if the Examiner is in a position to observe the applicant during the practical test in the case where there is no multi-seat version of that multiengine airplane.

(i) Single-engine airplane with a single-pilot station. An applicant for a type rating, at the ATP certification level, in a single-engine airplane with a single-pilot station must perform the practical test in the multi-seat version of that single-engine airplane, or the practical test may be performed in the single-seat version of that airplane if the Examiner is in a position to observe the applicant during the practical test in the case where there is no multi-seat version of that single-engine airplane.

(j) Waiver authority. An Examiner who conducts a practical test may waive any task for which the FAA has provided waiver authority.

31. Amend § 61.159 by adding a new paragraph (c)(3); and revising paragraphs (d) and (e) to read as follows:

§ 61.159 Aeronautical experience: Airplane category rating.

* * * * *

(c) * * *

(3) Flight-engineer time, provided the flight time—

(i) Is acquired as a U.S. Armed Forces' flight engineer crewmember in an airplane that requires a flight engineer crewmember by the flight manual;

(ii) Is acquired while the person is participating in a flight engineer crewmember training program for the U.S. Armed Forces; and

(iii) Does not exceed 1 hour for each 3 hours of flight engineer flight time for a total credited time of no more than 500 hours.

(d) An applicant will be issued an airline transport pilot certificate with the limitation, “Holder does not meet the pilot in command aeronautical experience requirements of ICAO,” as prescribed under Article 39 of the Convention on International Civil Aviation, if the applicant does not meet the ICAO requirements contained in Annex 1 “Personnel Licensing” to the Convention on International Civil Aviation, but otherwise meets the aeronautical experience requirements of this section.

(e) An applicant is entitled to an airline transport pilot certificate without the ICAO limitation specified under paragraph (d) of this section when the applicant presents satisfactory evidence of having met the ICAO requirements under paragraph (d) of this section and otherwise meets the aeronautical experience requirements of this section.

32. Amend § 61.167 by revising paragraphs (a) and (b)(3) to read as follows:

§ 61.167 Privileges.

(a) A person who holds a valid airline transport pilot certificate is entitled to the same privileges as a person who holds a commercial pilot certificate with an instrument rating.

(b) * * *

(3) Only as provided in this section, except that an airline transport pilot who also holds a current and valid flight instructor certificate can exercise the instructor privileges under subpart H of this part for which he or she is rated; and

* * * * *

33. Amend § 61.187 by revising paragraph (b)(6)(vii) to read as follows:

§ 61.187 Flight proficiency.

* * * * *

(b) * * *

(6) * * *

(vii) Launches and landings;

* * * * *

34. Amend § 61.193 by revising the introductory text to read as follows:

§ 61.193 Flight instructor privileges.

A person who holds a current and valid flight instructor certificate is authorized within the limitations of that person's flight instructor certificate and ratings to train and issue endorsements that are required for:

* * * * *

35. Amend § 61.195 by revising paragraphs (b), (c), and (d)(3) introductory text; and adding a new paragraph (k) to read as follows:

§ 61.195 Flight instructor limitations and qualifications.

* * * * *

(b) Aircraft Ratings. A flight instructor may not conduct flight training in any aircraft for which the flight instructor does not hold:

(1) A pilot certificate and flight instructor certificate with the applicable category and class rating; and

(2) If appropriate, a type rating.

(c) Instrument Rating. A flight instructor who provides instrument training for the issuance of an instrument rating, a type rating not limited to VFR, or the instrument training required for commercial pilot and airline transport pilot certificates must hold an instrument rating on his or her pilot certificate and flight instructor certificate that is appropriate to the category and class of aircraft for the training provided.

(d) * * *

(3) Student pilot's logbook for solo flight in a Class B airspace area or at an airport within Class B airspace unless that flight instructor has—

* * * * *

(k) Training for night vision goggle operations. A flight instructor may not conduct training for night vision goggle operations unless the flight instructor:

(1) Has a pilot and flight instructor certificate with the applicable category and class rating for the training;

(2) If appropriate, has a type rating on his or her pilot certificate for the aircraft;

(3) Is pilot-in-command qualified for night vision goggle operations, in accordance with § 61.31(l);

(4) Has logged 100 night vision goggle operations as the sole manipulator of the controls;

(5) Has logged 20 night vision goggle operations as sole manipulator of the controls in the category and class, and type of aircraft, if aircraft class and type is appropriate, that the training will be given in;

(6) Is qualified and current to act as a pilot in command in night vision goggle operations under § 61.57(f) or (g); and

(7) Has a logbook endorsement from an FAA Aviation Safety Inspector or a person who is authorized by the FAA to provide that logbook endorsement that states the flight instructor is authorized to perform the night vision goggle pilot in command qualification and recent flight experience requirements under § 61.31(l) and § 61.57(f) and (g).

36. Amend § 61.197 by revising the section heading and paragraphs (a) introductory text and (a)(2) introductory text to read as follows:

§ 61.197 Recent flight instructor experience.

(a) A person who holds a valid flight instructor certificate must maintain the privileges under that certificate by—

* * * * *

(2) Filing a completed and signed application and receiving an endorsement from an authorized Examiner in his or her logbook or on another suitable document that is acceptable to the FAA that certifies the flight instructor renewal applicant satisfactorily completed one of the following renewal requirements—

* * * * *

37. Amend § 61.199 by revising the section heading and paragraph (a) to read as follows:

§ 61.199 Expired flight instructor privileges.

(a) Flight instructor certificates. The holder of a flight instructor certificate who has not complied with the recent flight instructor experience requirements under § 61.197 may reinstate flight instructor privileges by:

(1) Completing and passing a flight instructor practical test, as prescribed under § 61.183(h); and

(2) Receiving an endorsement in his or her logbook or on another document that is acceptable to the FAA that shows the applicant completed and passed a flight instructor practical test, as prescribed under § 61.183(h).

* * * * *

38. Amend § 61.215 by revising paragraphs (a) introductory text, (b), (c) introductory text, and (d) to read as follows:

§ 61.215 Ground instructor privileges.

(a) A person who holds a current and valid basic ground instructor rating is authorized to provide:

* * * * *

(b) A person who holds a current and valid advanced ground instructor rating is authorized to provide:

(1) Ground training on the aeronautical knowledge areas required for the issuance of any certificate or rating under this part except for the aeronautical knowledge areas required for an instrument rating;

(2) The ground training required for any flight review except for the training required for an instrument rating; and

(3) A recommendation for a knowledge test required for the issuance of any certificate or rating under this part except for an instrument rating.

(c) A person who holds a current and valid instrument ground instructor rating is authorized to provide:

* * * * *

(d) A person who holds a current and valid ground instructor certificate is authorized, within the limitations of the ratings on the certificate, to endorse the logbook or other training record of a person to whom the holder has provided the training or recommendation specified in paragraphs (a) through (c) of this section.

39. Revise § 61.217 to read as follows:

§ 61.217 Recent experience requirements.

The holder of a ground instructor certificate may not perform the duties of a ground instructor unless the person can show that one of the following occurred during the preceding 12 calendar months:

(a) Employment or activity as a ground instructor giving pilot, flight instructor, or ground instructor training;

(b) Employment or activity as a flight instructor giving pilot, flight instructor, or ground instructor ground or flight training;

(c) Completion of an approved flight instructor refresher course and receipt of a graduation certificate for that course; or

(d) An endorsement from an authorized instructor certifying that the person has demonstrated knowledge in the subject areas prescribed under §§ 61.213(a)(3) and (a)(4), as appropriate.

PART 91—GENERAL OPERATING AND FLIGHT RULES

40. The authority citation for part 91 continues to read as follows:

Authority: 49 U.S.C. 106(g), 1155, 40103, 40113, 40120, 44101, 44111, 44701, 44709, 44711, 44712, 44715, 44716, 44717, 44722, 46306, 46315, 46316, 46504, 46506-46507, 47122, 47508, 47528-47531, articles 12 and 29 of the Convention on International Civil Aviation (61 stat. 1180).

41. Amend § 91.205 by:

A. Re-designating existing paragraph (h) as paragraph (i); and

B. Adding a new paragraph (h) to read as follows:

§ 91.205 Powered civil aircraft with standard category U.S. airworthiness certificates; Instrument and equipment requirements.

* * * * *

(h) Night vision goggle operations. For night vision goggle operations, the following instruments and equipment must be installed in the aircraft, functioning in a normal manner, and approved for use by the FAA:

(1) Instruments and equipment specified in paragraph (b) of this section, instruments and equipment specified in paragraph (c) of this section;

(2) Night vision goggles;

(3) Interior and exterior aircraft lighting system required for night vision goggle operations;

(4) Two-way radio communications system;

(5) Gyroscopic pitch and bank indicator (artificial horizon); and

(6) Generator or alternator of adequate capacity for the required instruments and equipment.

* * * * *

PART 141—PILOT SCHOOLS

42. The authority citation for 14 CFR part 141 continues to read as follows:

Authority: 49 U.S.C. 106(g), 40113, 44701-44703, 44707, 44709, 44711, 45102-45103, 45301-45302.

43. Revise § 141.5 to read as follows:

§ 141.5 Requirements for a pilot school certificate.

The FAA may issue a pilot school certificate with the appropriate ratings if, within the 24 calendar months before the date application is made, the applicant—

(a) Completes the application for a pilot school certificate on the form and in the manner prescribed by the FAA;

(b) Has held a provisional pilot school certificate;

(c) Meets the applicable requirements under subparts A through C of this part for the school certificate and associated ratings sought;

(d) Has trained and recommended 10 different people for a knowledge test or a practical test, or any combination thereof, and 80 percent of those persons passed their tests on the first attempt; and

(e) Has graduated 10 different people from the school's approved training courses.

44. Revise § 141.9 to read as follows:

§ 141.9 Examining authority.

The FAA issues examining authority to a pilot school for a training course if the pilot school and its training course meet the requirements of subpart D of this part.

45. Amend § 141.33 by revising paragraph (d)(2) to read as follows:

§ 141.33 Personnel.

* * * * *

(d) * * *

(2) The school has an enrollment of 10 students at the time designation is sought.

* * * * *

46. Revise § 141.39 to read as follows:

§ 141.39 Aircraft.

(a) When the school's training facility is located within the U.S., an applicant for a pilot school certificate or provisional pilot school certificate must show that each aircraft used by the school for flight training and solo flights:

(1) Is a civil aircraft of the United States;

(2) Is certificated with a standard or primary airworthiness certificate, unless the FAA determines otherwise because of the nature of the approved course;

(3) Is maintained and inspected in accordance with the requirements for aircraft operated for hire under part 91, subpart E of this chapter;

(4) Has two pilot stations with engine-power controls that can be easily reached and operated in a normal manner from both pilot stations (for flight training); and

(5) Is equipped and maintained for IFR operations if used in a course involving IFR en route operations and instrument approaches. For training in the control and precision maneuvering of an aircraft by reference to instruments, the aircraft may be equipped as provided in the approved course of training.

(b) When the school's training facility is located outside the U.S. and the training will be conducted outside the U.S., an applicant for a pilot school certificate or provisional pilot school certificate must show that each aircraft used by the school for flight training and solo flights:

(1) Is either a civil aircraft of the United States or a civil aircraft of foreign registry;

(2) Is certificated with a standard or primary airworthiness certificate or an equivalent certification from the foreign aviation authority;

(3) Is maintained and inspected in accordance with the requirements for aircraft operated for hire under part 91, subpart E of this chapter, or in accordance with equivalent maintenance and inspection from the foreign aviation authority's requirements;

(4) Has two pilot stations with engine-power controls that can be easily reached and operated in a normal manner from both pilot stations (for flight training); and

(5) Is equipped and maintained for IFR operations if used in a course involving IFR en route operations and instrument approaches. For training in the control and precision maneuvering of an aircraft by reference to instruments, the aircraft may be equipped as provided in the approved course of training.

47. Amend § 141.53 by revising paragraph (c) to read as follows:

§ 141.53 Approval procedures for a training course: General.

* * * * *

(c) Training courses. An applicant for a pilot school certificate or provisional pilot school certificate may request approval for the training courses specified under § 141.11(b).

48. Amend § 141.55 by revising paragraphs (d) introductory text, (e) introductory text, and (e)(2)(ii) introductory text to read as follows:

§ 141.55 Training course: Contents.

* * * * *

(d) A pilot school may request and receive initial approval for a period of not more than 24 calendar months for any training course under this part that does not meet the minimum ground and flight training time requirements, provided the following provisions are met:

* * * * *

(e) A pilot school may request and receive final approval for any training course under this part that does not meet the minimum ground and flight training time requirements, provided the following conditions are met:

(2) * * *

(ii) At least 80 percent of those students passed the practical or knowledge test, as appropriate, on the first attempt, and that test was given by—

* * * * *

49. Amend § 141.77 by revising paragraph (c) to read as follows:

§ 141.77 Limitations.

* * * * *

(c) A student may be given credit towards the curriculum requirements of a course for previous training under the following conditions:

(1) If the student completed a proficiency test and knowledge test that was conducted by the receiving pilot school and the previous training was based on a part 141 or a part 142-approved flight training course, the credit is limited to not more than 50 percent of the flight training requirements of the curriculum.

(2) If the student completed a knowledge test that was conducted by the receiving pilot school and the previous training was based on a part 141 or a part 142-approved aeronautical knowledge training course, the credit is limited to not more than 50 percent of the aeronautical knowledge training requirements of the curriculum.

(3) If the student completed a proficiency test and knowledge test that was conducted by the receiving pilot school and the training was received from other than a part 141 or a part 142-approved flight training course, the credit is limited to not more than 25 percent of the flight training requirements of the curriculum.

(4) If the student completed a knowledge test that was conducted by the receiving pilot school and the previous training was received from other than a part 141 or a part 142-approved aeronautical knowledge training course, the credit is limited to not more than 25 percent of the aeronautical knowledge training requirements of the curriculum.

(5) Completion of previous training must be certified in the student's training record by the training provider or a management official within the training provider's organization, and must contain—

(i) The kind and amount of training provided; and

(ii) The result of each stage check and end-of-course test, if appropriate.

50. Amend § 141.85 by revising paragraphs (a) introductory text and (a)(1) to read as follows:

§ 141.85 Chief instructor responsibilities.

(a) A chief instructor designated for a pilot school or provisional pilot school is responsible for:

(1) Certifying each student's training record, graduation certificate, stage check and end-of-course test reports, and recommendation for course completion, unless the duties are delegated by the chief instructor to an assistant chief instructor or recommending instructor;

* * * * *

51. Amend Appendix B to part 141 by revising paragraph 2; paragraphs 4.(b)(1)(iii), 4.(b)(2)(iii), and 4.(b)(5)(iii); and 5.(a)(1), 5.(b)(1), 5.(c)(1), 5.(d)(1), and 5.(e)(1) to read as follows:

Appendix B to Part 141—Private Pilot Certification Course

* * * * *

2. Eligibility for enrollment. A person must hold a valid recreational pilot certificate or valid student pilot certificate prior to enrollment in the solo flight phase of the private pilot certification course.

* * * * *

4. * * *

(b) * * *

(1) * * *

(iii) 3 hours of flight training in a single-engine airplane on the control and maneuvering of a single-engine airplane solely by reference to instruments, including straight and level flight, constant airspeed climbs and descents, turns to a heading, recovery from unusual flight attitudes, radio communications, and the use of navigation systems/facilities and radar services appropriate to instrument flight; and

* * * * *

(2) * * *

(iii) 3 hours of flight training in a multiengine airplane on the control and maneuvering of a multiengine airplane solely by reference to instruments, including straight and level flight, constant airspeed climbs and descents, turns to a heading, recovery from unusual flight attitudes, radio communications, and the use of navigation systems/facilities and radar services appropriate to instrument flight; and

* * * * *

(5) * * *

(iii) 3 hours of flight training in a powered-lift on the control and maneuvering of a powered-lift solely by reference to instruments, including straight and level flight, constant airspeed climbs and descents, turns to a heading, recovery from unusual flight attitudes, radio communications, and the use of navigation systems/facilities and radar services appropriate to instrument flight; and

* * * * *

5. * * *

(a) * * *

(1) One solo 100 nautical miles cross-country flight with landings at a minimum of three points and one segment of the flight consisting of a straight-line distance of more than 50 nautical miles between the takeoff and landing locations; and

* * * * *

(b) * * *

(1) One 100 nautical miles cross-country flight with landings at a minimum of three points and one segment of the flight consisting of a straight-line distance of more than 50 nautical miles between the takeoff and landing locations; and

* * * * *

(c) * * *

(1) One solo 100 nautical miles cross-country flight with landings at a minimum of three points and one segment of the flight consisting of a straight-line distance of more than 25 nautical miles between the takeoff and landing locations; and

* * * * *

(d) * * *

(1) One solo 100 nautical miles cross-country flight with landings at a minimum of three points and one segment of the flight consisting of a straight-line distance of more than 25 nautical miles between the takeoff and landing locations; and

* * * * *

(e) * * *

(1) One solo 100 nautical miles cross-country flight with landings at a minimum of three points and one segment of the flight consisting of a straight-line distance of more than 50 nautical miles between the takeoff and landing locations; and

* * * * *

52. Amend Appendix C to part 141 by revising paragraphs 4.(b)(2) through 4.(b)(4); adding new paragraphs 4.(b)(5) and (6); and revising the introductory language of paragraph 4.(d) to read as follows:

Appendix C to Part 141—Instrument Rating Course

* * * * *

4. * * *

(b) * * *

(1) * * *

(2) Credit for training in a flight simulator that meets the requirements of § 141.41(a) of this part cannot exceed 50 percent of the total flight training hour requirements of the course or of this section, whichever is less.

(3) Credit for training in a flight training device that meets the requirements of § 141.41(b) of this part cannot exceed 40 percent of the total flight training hour requirements of the course or of this section, whichever is less.

(4) Credit for training in flight simulators and flight training devices, if used in combination, cannot exceed 50 percent of the total flight training hour requirements of the course or of this section, whichever is less. However, credit for training in a flight training device cannot exceed the limitation provided for in paragraph (b)(3) of this section.

(5) Credit for training in an approved personal computer aviation training device cannot exceed 10 percent of the total flight training hour requirements of the course or of this section, whichever is less.

(6) Credit for training in flight simulators, flight training devices, and personal computer aviation training devices, if used in combination, cannot exceed 50 percent of the total flight training hour requirements of the course or of this section, whichever is less. However, credit for training in a personal computer aviation training device cannot exceed the limitation provided under paragraph (b)(5) of this section.

* * * * *

(d) Each course must include flight training on the areas of operation listed under this paragraph appropriate to the instrument aircraft category and class rating (if a class rating is appropriate) for which the course applies:

* * * * *

53. Amend Appendix D to part 141 by revising paragraphs 4.(b)(1)(i), (ii), (iii), and (iv); revising paragraphs 4.(b)(2)(i), (iii), and (iv); revising paragraphs 4.(b)(3)(i), (ii), and (iii); revising paragraphs 4.(b)(4)(i), (ii), and (iii), 4.(b)(5)(i), (ii), and (iii); revising paragraphs 4.(b)(7)(i), (ii), and (iii); re-designating paragraphs 4.(d)(4)(vi) through (ix) as 4.(d)(4)(vii) through (x); adding a new paragraph 4.(d)(4)(vi); and revising the introductory language of paragraphs 5.(a), (b), (c), (d), and (e) to read as follows:

Appendix D to Part 141—Commercial Pilot Certification Course

* * * * *

4. * * *

(b) * * *

(1) * * *

(i) 10 hours of instrument training using a view limiting device including attitude instrument flying, partial panel skills, recovery from unusual flight attitudes, and intercepting and tracking navigational systems. 5 of the 10 hours of instrument training must be in a single-engine airplane;

(ii) 10 hours of training in an airplane that has a retractable landing gear, flaps, and a controllable pitch propeller, or is turbine-powered;

(iii) One 2-hour cross-country flight in day-time conditions in a single-engine airplane that consists of a total straight-line distance of more than 100 nautical miles from the original point of departure;

(iv) One 2-hour cross-country flight in night-time conditions in a single-engine airplane that consists of a total straight-line distance of more than 100 nautical miles from the original point of departure; and

* * * * *

(2) * * *

(i) 10 hours of instrument training using a view limiting device including attitude instrument flying, partial panel skills, recovery from unusual flight attitudes, and intercepting and tracking navigational systems. 5 of the 10 hours of instrument training must be in a multiengine airplane;

* * * * *

(iii) One 2-hour cross-country flight in day-time conditions in a multiengine airplane that consists of a total straight-line distance of more than 100 nautical miles from the original point of departure;

(iv) One 2-hour cross-country flight in night-time conditions in a multiengine airplane that consists of a total straight-line distance of more than 100 nautical miles from the original point of departure; and

* * * * *

(3) * * *

(i) 5 hours on the control and maneuvering of a helicopter solely by reference to instruments, including using a view limiting device for attitude instrument flying, partial panel skills, recovery from unusual flight attitudes, and intercepting and tracking navigational systems. This aeronautical experience may be performed in an aircraft, flight simulator, flight training device, or a personal computer aviation training device;

(ii) One 2-hour cross-country flight in day-time conditions in a helicopter that consists of a total straight-line distance of more than 50 nautical miles from the original point of departure;

(iii) One 2-hour cross-country flight in night-time conditions in a helicopter that consists of a total straight-line distance of more than 50 nautical miles from the original point of departure; and

* * * * *

(4) * * *

(i) 2.5 hours on the control and maneuvering of a gyroplane solely by reference to instruments, including using a view limiting device for attitude instrument flying, partial panel skills, recovery from unusual flight attitudes, and intercepting and tracking navigational systems. This aeronautical experience may be performed in an aircraft, flight simulator, flight training device, or a personal computer aviation training device;

(ii) One 2-hour cross-country flight in day-time conditions in a gyroplane that consists of a total straight-line distance of more than 50 nautical miles from the original point of departure;

(iii) 2 hours of flight training in night-time conditions in a gyroplane at an airport, that includes 10 takeoffs and 10 landings to a full stop (with each landing involving a flight in the traffic pattern); and

* * * * *

(5) * * *

(i) 10 hours of instrument training using a view limiting device including attitude instrument flying, partial panel skills, recovery from unusual flight attitudes, and intercepting and tracking navigational systems. Five of the 10 hours of instrument training must be in a powered-lift;

(ii) One 2-hour cross-country flight in day-time conditions in a powered-lift that consists of a total straight-line distance of more than 100 nautical miles from the original point of departure;

(iii) One 2-hour cross-country flight in night-time conditions in a powered-lift that consists of a total straight-line distance of more than 100 nautical miles from the original point of departure; and

* * * * *

(7) * * *

(i) 3 hours of instrument training in an airship, including using a view limiting device for attitude instrument flying, partial panel skills, recovery from unusual flight attitudes, and intercepting and tracking navigational systems;

(ii) One 1-hour cross-country flight in day-time conditions in an airship that consists of a total straight-line distance of more than 25 nautical miles from the original point of departure;

(iii) One 1-hour cross-country flight in night-time conditions in an airship that consists of a total straight-line distance of more than 25 nautical miles from the original point of departure; and

* * * * *

(d) * * *

(4) * * *

(vi) Ground reference maneuvers;

5. * * *

(a) For an airplane single-engine course. 10 hours of solo flight time in a single-engine airplane, or 10 hours of flight time while performing the duties of pilot in command in a single-engine airplane with an authorized instructor on board. The training must consist of the approved areas of operation under paragraph (d)(1) of section No. 4 of this appendix, and include—

* * * * *

(b) For an airplane multiengine course. 10 hours of solo flight time in a multiengine airplane, or 10 hours of flight time while performing the duties of pilot in command in a multiengine airplane with an authorized instructor on board. The training must consist of the approved areas of operation under paragraph (d)(2) of section No. 4 of this appendix, and include—

* * * * *

(c) For a rotorcraft helicopter course. 10 hours of solo flight time in a helicopter, or 10 hours of flight time while performing the duties of pilot in command in a helicopter with an authorized instructor on board. The training must consist of the approved areas of operation under paragraph (d)(3) of section No. 4 of this appendix, and include—

* * * * *

(d) For a rotorcraft-gyroplane course. 10 hours of solo flight time in a gyroplane, or 10 hours of flight time while performing the duties of pilot in command in a gyroplane with an authorized instructor on board. The training must consist of the approved areas of operation under paragraph (d)(4) of section No. 4 of this appendix, and include—

* * * * *

(e) For a powered-lift course. 10 hours of solo flight time in a powered-lift, or 10 hours of flight time while performing the duties of pilot in command in a powered-lift with an authorized instructor on board. The training must consist of the approved areas of operation under paragraph (d)(5) of section No. 4 of this appendix, and include—

* * * * *

54. Amend Appendix E to part 141 by revising the introductory text of paragraph 2; removing paragraph 2.(a); re-designating existing paragraph 2.(b) as 2.(a) revising newly re-designated paragraph 2.(a); re-designating paragraph 2.(c) as (b); and re-designating paragraph 2.(d) as (c) to read as follows:

Appendix E to Part 141—Airline Transport Pilot Certification Course

* * * * *

2. Eligibility for enrollment. Before completing the flight portion of the airline transport pilot certification course, a person must meet the aeronautical experience requirements for an airline transport pilot certificate under part 61, subpart G of this chapter that is appropriate to the aircraft category and class rating for which the course applies, and:

(a) Hold a commercial pilot certificate and an instrument rating, or an airline transport pilot certificate with instrument privileges;

* * * * *

55. Amend Appendix I to part 141 by revising the appendix heading; and revising paragraphs 3 and 4 to read as follows:

Appendix I to Part 141—Additional Aircraft Category and/or Class Rating Course

* * * * *

3. Aeronautical knowledge training. (a) For a recreational pilot certificate, the following aeronautical knowledge areas must be included in a 10-hour ground training course for an additional aircraft category and/or class rating:

(1) Applicable Federal Aviation Regulations for recreational pilot privileges, limitations, and flight operations;

(2) Safe and efficient operation of aircraft, including collision avoidance, and recognition and avoidance of wake turbulence;

(3) Effects of density altitude on takeoff and climb performance;

(4) Weight and balance computations;

(5) Principles of aerodynamics, powerplants, and aircraft systems;

(6) Stall awareness, spin entry, spins, and spin recovery techniques if applying for an airplane single-engine rating; and

(7) Preflight action that includes how to obtain information on runway lengths at airports of intended use, data on takeoff and landing distances, weather reports and forecasts, and fuel requirements.

(b) For a private pilot certificate, the following aeronautical knowledge areas must be included in a 10-hour ground training course for an additional class rating or a 15-hour ground training course for an additional aircraft category and class rating:

(1) Applicable Federal Aviation Regulations for private pilot privileges, limitations, and flight operations;

(2) Safe and efficient operation of aircraft, including collision avoidance, and recognition and avoidance of wake turbulence;

(3) Effects of density altitude on takeoff and climb performance;

(4) Weight and balance computations;

(5) Principles of aerodynamics, powerplants, and aircraft systems;

(6) Stall awareness, spin entry, spins, and spin recovery techniques if applying for an airplane single-engine rating; and

(7) Preflight action that includes how to obtain information on runway lengths at airports of intended use, data on takeoff and landing distances, weather reports and forecasts, and fuel requirements.

(c) For a commercial pilot certificate, the following aeronautical knowledge areas must be included in a 15-hour ground training course for an additional class rating or a 20-hour ground training course for an additional aircraft category and class rating:

(1) Federal Aviation Regulations that apply to commercial pilot privileges, limitations, and flight operations;

(2) Basic aerodynamics and the principles of flight;

(3) Safe and efficient operation of aircraft;

(4) Weight and balance computations;

(5) Use of performance charts;

(6) Significance and effects of exceeding aircraft performance limitations;

(7) Principles and functions of aircraft systems;

(8) Maneuvers, procedures, and emergency operations appropriate to the aircraft;

(9) Night-time and high-altitude operations; and

(10) Procedures for flight and ground training for lighter-than-air ratings.

(d) For an airline transport pilot certificate, the following aeronautical knowledge areas must be included in a 25-hour ground training course for an additional aircraft category and/or class rating:

(1) Applicable Federal Aviation Regulations that relate to airline transport pilot privileges, limitations, and flight operations;

(2) Meteorology, including knowledge of and effects of fronts, frontal characteristics, cloud formations, icing, and upper-air data;

(3) General system of weather and NOTAM collection, dissemination, interpretation, and use;

(4) Interpretation and use of weather charts, maps, forecasts, sequence reports, abbreviations, and symbols;

(5) National Weather Service functions as they pertain to operations in the National Airspace System;

(6) Windshear and microburst awareness, identification, and avoidance;

(7) Principles of air navigation under instrument meteorological conditions in the National Airspace System;

(8) Air traffic control procedures and pilot responsibilities as they relate to en route operations, terminal area and radar operations, and instrument departure and approach procedures;

(9) Aircraft loading; weight and balance; use of charts, graphs, tables, formulas, and computations; and the effects on aircraft performance;

(10) Aerodynamics relating to an aircraft's flight characteristics and performance in normal and abnormal flight regimes;

(11) Human factors;

(12) Aeronautical decision making and judgment; and

(13) Crew resource management to include crew communication and coordination.

4. Flight training.

(a) Course for an additional airplane category and single-engine class rating.

(1) For the recreational pilot certificate, the course must include 15 hours of flight training on the areas of operations under part 141, appendix A, paragraph 4(c)(1) that include—

(i) 2 hours of flight training to an airport and at an airport that is located more than 25 nautical miles from the airport where the applicant normally trains, with three takeoffs and three landings, except as provided under § 61.100 of this chapter; and

(ii) 3 hours of flight training in an aircraft with the airplane category and single-engine class within 2 calendar months before the date of the practical test.

(2) For the private pilot certificate, the course must include 20 hours of flight training on the areas of operations under part 141, appendix B, paragraph 4(d)(1). A flight simulator and flight training device cannot be used to meet more than 4 hours of the training requirements, and the use of the flight training device is limited to 3 of the 4 hours. The course must include—

(i) 3 hours of cross-country training in a single-engine airplane, except as provided under § 61.111 of this chapter;

(ii) 3 hours of night-time flight training in a single-engine airplane that includes one cross-country flight of more than 100 nautical miles total distance, and 10 takeoffs and 10 landings to a full stop (with each landing involving a flight in the traffic pattern) at an airport;

(iii) 3 hours of flight training in a single-engine airplane on the control and maneuvering of the airplane solely by reference to instruments, including straight and level flight, constant airspeed climbs and descents, turns to a heading, recovery from unusual flight attitudes, radio communications, and the use of navigation systems/facilities and radar services appropriate to instrument flight; and

(iv) 3 hours of flight training in a single-engine airplane within 2 calendar months before the date of the practical test.

(3) For the commercial pilot certificate, the course must include 55 hours of flight training on the areas of operations under part 141, appendix D, paragraph 4(d)(1). A flight simulator and flight training device cannot be used to meet more than 16.5 hours of the training requirements, and the use of the flight training device is limited to 11 of the 16.5 hours. The course must include—

(i) 5 hours of instrument training in a single-engine airplane that includes training using a view limiting device on attitude instrument flying, partial panel skills, recovery from unusual flight attitudes, and intercepting and tracking navigational systems;

(ii) 10 hours of training in an airplane that has retractable landing gear, flaps, and a controllable pitch propeller, or is turbine-powered;

(iii) One 2-hour cross-country flight during day-time conditions in a single-engine airplane, a total straight-line distance of more than 100 nautical miles from the original point of departure;

(iv) One 2-hour cross-country flight during night-time conditions in a single-engine airplane, a total straight-line distance of more than 100 nautical miles from the original point of departure; and

(v) 3 hours in a single-engine airplane within 2 calendar months before the date of the practical test.

(4) For the airline transport pilot certificate, the course must include 25 hours flight training, including 15 hours of instrument training, in a single-engine airplane on the areas of operation under part 141, appendix E, paragraph 4.(c). A flight simulator and flight training device cannot be used to meet more than 12.5 hours of the training requirements; and the use of the flight training device is limited to 6.25 of the 12.5 hours.

(b) Course for an additional airplane category and multiengine class rating.

(1) For the private pilot certificate, the course requires 20 hours flight training on the areas of operations under part 141, appendix B, paragraph 4.(d)(2). A flight simulator and flight training device cannot be used more than 4 hours to meet the training requirements, and use of the flight training device is limited to 3 of the 4 hours. The course must include—

(i) 3 hours of cross-country training in a multiengine airplane, except as provided under § 61.111 of this chapter;

(ii) 3 hours of night-time flight training in a multiengine airplane that includes one cross-country flight of more than 100 nautical miles total distance, and 10 takeoffs and 10 landings to a full stop (with each landing involving a flight in the traffic pattern) at an airport;

(iii) 3 hours of flight training in a multiengine airplane on the control and maneuvering of a multiengine airplane solely by reference to instruments, including straight and level flight, constant airspeed climbs and descents, turns to a heading, recovery from unusual flight attitudes, radio communications, and the use of navigation systems/facilities and radar services appropriate to instrument flight; and

(iv) 3 hours of flight training in a multiengine airplane in preparation for the practical test within 2 calendar months before the date of the test.

(2) For the commercial pilot certificate, the course requires 55 hours flight training on the areas of operations under part 141, appendix D, paragraph 4.(d)(2). A flight simulator and flight training device cannot be used more than 16.5 hours to meet the training requirements, and use of the flight training device is limited to 11 of the 16.5 hours. The course must include—

(i) 5 hours of instrument training in a multiengine airplane including training using a view limiting device for attitude instrument flying, partial panel skills, recovery from unusual flight attitudes, and intercepting and tracking navigational systems;

(ii) 10 hours of training in a multiengine airplane that has retractable landing gear, flaps, and a controllable pitch propeller, or is turbine-powered;

(iii) One 2-hour cross-country flight during day-time conditions in a multiengine airplane, and a total straight-line distance of more than 100 nautical miles from the original point of departure;

(iv) One 2-hour cross-country flight during night-time conditions in a multiengine airplane, and a total straight-line distance of more than 100 nautical miles from the original point of departure; and

(v) 3 hours in a multiengine airplane within 2 calendar months before the date of the practical test.

(3) For the airline transport pilot certificate, the course requires 25 hours of flight training in a multiengine airplane on the areas of operation under part 141, appendix E, paragraph 4.(c) that includes 15 hours of instrument training. A flight simulator and flight training device cannot be used more than 12.5 hours to meet the training requirements, and use of the flight training device is limited to 6.25 of the 12.5 hours.

(c) Course for an additional rotorcraft category and helicopter class rating.

(1) For the recreational pilot certificate, the course requires 15 hours of flight training on the areas of operations under part 141, appendix A, paragraph 4.(c)(2) that includes—

(i) 2 hours of flight training to and at an airport that is located more than 25 nautical miles from the airport where the applicant normally trains, with three takeoffs and three landings, except as provided under § 61.100 of this chapter; and

(ii) 3 hours of flight training in a rotorcraft category and a helicopter class aircraft within 2 calendar months before the date of the practical test.

(2) For the private pilot certificate, the course requires 20 hours flight training on the areas of operations under part 141, appendix B, paragraph 4.(d)(3). A flight simulator and flight training device cannot be used more than 4 hours to meet the training requirements, and use of the flight training device is limited to 3 of the 4 hours. The course must include—

(i) Except as provided under § 61.111 of this chapter, 3 hours of cross-country flight training in a helicopter;

(ii) 3 hours of night-time flight training in a helicopter that includes one cross-country flight of more than 50-nautical-miles total distance, and 10 takeoffs and 10 landings to a full stop (with each landing involving a flight in the traffic pattern) at an airport; and

(iii) 3 hours of flight training in a helicopter within 2 calendar months before the date of the practical test.

(3) The commercial pilot certificate level requires 30 hours flight training on the areas of operations under appendix D of part 141, paragraph 4.(d)(3). A flight simulator and flight training device cannot be used more than 9 hours to meet the training requirements, and use of the flight training device is limited to 6 of the 9 hours. The course must include—

(i) 5 hours on the control and maneuvering of a helicopter solely by reference to instruments, and must include training using a view limiting device for attitude instrument flying, partial panel skills, recovery from unusual flight attitudes, and intercepting and tracking navigational systems. This aeronautical experience may be performed in an aircraft, flight simulator, flight training device, or a personal computer aviation training device;

(ii) One 2-hour cross-country flight during day-time conditions in a helicopter, a total straight-line distance of more than 50 nautical miles from the original point of departure;

(iii) One 2-hour cross-country flight during night-time conditions in a helicopter, a total straight-line distance of more than 50 nautical miles from the original point of departure; and

(iv) 3 hours in a helicopter within 2 calendar months before the date of the practical test.

(4) For the airline transport pilot certificate, the course requires 25 hours of flight training, including 15 hours of instrument training, in a helicopter on the areas of operation under part 141, appendix E, paragraph 4.(c). A flight simulator and flight training device cannot be used more than 12.5 hours to meet the training requirements, and use of the flight training device is limited to 6.25 of the 12.5 hours.

(d) Course for an additional rotorcraft category and a gyroplane class rating.

(1) For the recreational pilot certificate, the course requires 15 hours flight training on the areas of operations under part 141, appendix A, paragraph 4.(c)(3) that includes—

(i) 2 hours of flight training to and at an airport that is located more than 25 nautical miles from the airport where the applicant normally trains, with three takeoffs and three landings, except as provided under § 61.100 of this chapter; and

(ii) 3 hours of flight training in a gyroplane class within 2 calendar months before the date of the practical test.

(2) For the private pilot certificate, the course requires 20 hours flight training on the areas of operations under part 141, appendix B, paragraph 4.(d)(4). A flight simulator and flight training device cannot be used more than 4 hours to meet the training requirements, and use of the flight training device is limited to 3 of the 4 hours. The course must include—

(i) 3 hours of cross-country flight training in a gyroplane, except as provided under § 61.111 of this chapter;

(ii) 3 hours of night-time flight training in a gyroplane that includes one cross-country flight of more than 50-nautical miles total distance, and 10 takeoffs and 10 landings to a full stop (with each landing involving a flight in the traffic pattern) at an airport; and

(iii) 3 hours of flight training in a gyroplane within 2 calendar months before the date of the practical test.

(3) For the commercial pilot certificate, the course requires 30 hours flight training on the areas of operations of appendix D to part 141, paragraph 4.(d)(4). A flight simulator and flight training device cannot be used more than 6 hours to meet the training requirements, and use of the flight training device is limited to 6 of the 9 hours. The course must include—

(i) 2.5 hours on the control and maneuvering of a gyroplane solely by reference to instruments, and must include training using a view limiting device for attitude instrument flying, partial panel skills, recovery from unusual flight attitudes, and intercepting and tracking navigational systems. This aeronautical experience may be performed in an aircraft, flight simulator, flight training device, or a personal computer aviation training device.

(ii) One 2-hour cross-country flight during day-time conditions in a gyroplane, a total straight-line distance of more than 50 nautical miles from the original point of departure;

(iii) 2 hours of flight training during night-time conditions in a gyroplane at an airport, that includes 10 takeoffs and 10 landings to a full stop (with each landing involving a flight in the traffic pattern); and

(iv) 3 hours in a gyroplane within 2 calendar months before the date of the practical test.

(e) Course for an additional lighter-than-air category and airship class rating.

(1) For the private pilot certificate, the course requires 20 hours of flight training on the areas of operation under part 141, appendix B, paragraph 4.(d)(7). A flight simulator and flight training device cannot be used more than 4 hours to meet the training requirements, and use of the flight training device is limited to 3 of the 4 hours. The course must include—

(i) 3 hours of cross-country flight training in an airship, except as provided under § 61.111 of this chapter;

(ii) 3 hours of night-time flight training in an airship that includes one cross-country flight of more than 25-nautical miles total distance and five takeoffs and five landings to a full stop (with each landing involving a flight in the traffic pattern) at an airport;

(iii) 3 hours of flight training in an airship on the control and maneuvering of an airship solely by reference to instruments, including straight and level flight, constant airspeed climbs and descents, turns to a heading, recovery from unusual flight attitudes, radio communications, and the use of navigation systems/facilities and radar services appropriate to instrument flight; and

(iv) 3 hours of flight training in an airship within 2 calendar months before the date of the practical test.

(2) For the commercial pilot certificate, the course requires 55 hours of flight training on the areas of operation under part 141, appendix D, paragraph 4.(d)(7). A flight simulator and flight training device cannot be used more than 16.5 hours to meet the training requirements, and use of the flight training device is limited to 11 of the 16.5 hours. The course must include—

(i) 3 hours of instrument training in an airship that must include training using a view limiting device for attitude instrument flying, partial panel skills, recovery from unusual flight attitudes, and intercepting and tracking navigational systems;

(ii) One 1-hour cross-country flight during day-time conditions in an airship that consists of a total straight-line distance of more than 25 nautical miles from the original point of departure;

(iii) One 1-hour cross-country flight during night-time conditions in an airship that consists of a total straight-line distance of more than 25 nautical miles from the original point of departure; and

(iv) 3 hours of flight training in an airship within 2 calendar months before the date of the practical test.

(f) Course for an additional lighter-than-air category and a gas balloon class rating.

(1) For the private pilot certificate, the course requires eight hours of flight training that includes five training flights on the areas of operations under part 141, appendix B, paragraph 4(d)(8). A flight simulator and flight training device cannot be used more than 1.6 hours to meet the training requirements, and use of the flight training device is limited to 1.2 of the 1.6 hours. The course must include—

(i) Two flights of 1 hour each;

(ii) One flight involving a controlled ascent to 3,000 feet above the launch site; and

(iii) Two flights within 2 calendar months before the date of the practical test.

(2) For the commercial pilot certificate, the course requires 10 hours of flight training that includes eight training flights on the areas of operations under part 141, appendix D, paragraph 4(d)(8). A flight simulator and flight training device cannot be used more than 3 hours to meet the training requirements, and use of the flight training device is limited to 2 of the 3 hours. The course must include—

(i) Two flights of 1 hour each;

(ii) One flight involving a controlled ascent to 5,000 feet above the launch site; and

(iii) Two flights within 2 calendar months before the date of the practical test.

(g) Course for an additional lighter-than-air category and a hot air balloon class rating.

(1) For the private pilot certificate, the course requires eight hours of flight training that includes five training flights on the areas of operations under part 141, appendix B, paragraph 4(d)(8). A flight simulator and flight training device cannot be used more than 1.6 hours to meet the training requirements, and use of the flight training device is limited to 1.2 of the 1.6 hours. The course must include—

(i) Two flights of 30 minutes each;

(ii) One flight involving a controlled ascent to 2,000 feet above the launch site; and

(iii) Two flights within 2 calendar months before the date of the practical test.

(2) For the commercial pilot certificate, the course requires 10 hours of flight training that includes eight training flights on the areas of operation under part 141, appendix D, paragraph 4(d)(8). A flight simulator and flight training device cannot be used more than 3 hours to meet the training requirements, and use of the flight training device is limited to 2 of the 3 hours. The course must include—

(i) Two flights of 30 minutes each;

(ii) One flight involving a controlled ascent to 3,000 feet above the launch site; and

(iii) Two flights within 2 calendar months before the date of the practical test.

(h) Course for an additional powered-lift category rating.

(1) For the private pilot certificate, the course requires 20 hours flight training on the areas of operations under part 141, appendix B, paragraph 4(d)(5). A flight simulator and flight training device cannot be used more than 4 hours to meet the training requirements, and use of the flight training device is limited to 3 of the 4 hours. The course must include—

(i) 3 hours of cross-country flight training in a powered-lift except as provided under § 61.111 of this chapter;

(ii) 3 hours of night-time flight training in a powered-lift that includes one cross-country flight of more than 100-nautical-miles total distance, and 10 takeoffs and 10 landings to a full stop (with each landing involving a flight in the traffic pattern) at an airport;

(iii) 3 hours of flight training in a powered-lift on the control and maneuvering of a powered-lift solely by reference to instruments, including straight and level flight, constant airspeed climbs and descents, turns to a heading, recovery from unusual flight attitudes, radio communications, and the use of navigation systems/facilities and radar services appropriate to instrument flight;

(iv) 3 hours of flight training in a powered-lift within 2 calendar months before the date of the practical test.

(2) For the commercial pilot certificate, the course requires 55 hours flight training on the areas of operations under part 141, appendix D, paragraph 4(d)(5). A flight simulator and flight training device cannot be used more than 16.5 hours to meet the training requirements, and use of the flight training device is limited to 11 of the 16.5 hours. The course includes—

(i) 5 hours of instrument training in a powered-lift that must include training using a view limiting device for attitude instrument flying, partial panel skills, recovery from unusual flight attitudes, and intercepting and tracking navigational systems;

(ii) One 2-hour cross-country flight during day-time conditions in a powered-lift, a total straight-line distance of more than 100 nautical miles from the original point of departure;

(iii) One 2-hour cross-country flight during night-time conditions in a powered-lift, a total straight-line distance of more than 100 nautical miles from the original point of departure; and

(iv) 3 hours of flight training in a powered-lift within 2 calendar months before the date of the practical test.

(3) For the airline transport pilot certificate, the course requires 25 hours flight training in a powered-lift on the areas of operation under part 141, appendix E, paragraph 4(c) that includes 15 hours of instrument training. A flight simulator and flight training device cannot be used more than 12.5 hours to meet the training requirements, and use of the flight training device is limited to 6.25 of the 12.5 hours.

(i) Course for an additional glider category rating.

(1) For the private pilot certificate, the course requires 4 hours of flight training in a glider on the areas of operations under part 141, appendix B, paragraph 4(d)(6). A flight simulator and flight training device cannot be used more than 0.8 hours to meet the training requirements, and use of the flight training device is limited to 0.6 of the 0.8 hours. The course must include—

(i) Five training flights in a glider with a certificated flight instructor on the launch/tow procedures approved for the course and on the appropriate approved areas of operation listed under appendix B, paragraph 4(d)(6) of this part; and

(ii) Three training flights in a glider with a certificated flight instructor within 2 calendar months before the date of the practical test.

(2) The commercial pilot certificate level requires 4 hours of flight training in a glider on the areas of operation under part 141, appendix D, paragraph 4(d)(6). A flight simulator and flight training device cannot be used more than 0.8 hours to meet the training requirements, and use of the flight training device is limited to 0.6 of the 0.8 hours. The course must include—

(j) Course for an airplane additional single-engine class rating.

(1) For the private pilot certificate, the course requires 3 hours of flight training. in the areas of operations under part 141, appendix B, paragraph 4(d)(1). A flight simulator and flight training device cannot be used more than 0.6 hours to meet the training requirements, and use of the flight training device is limited to 0.4 of the 0.6 hours. The course must include—

(i) 3 hours of cross-country training in a single-engine airplane, except as provided under § 61.111 of this chapter;

(ii) 3 hours of night-time flight training in a single-engine airplane that includes one cross-country flight of more than 100 nautical miles total distance in a single-engine airplane and 10 takeoffs and 10 landings to a full stop (with each landing involving a flight in the traffic pattern) at an airport;

(iii) 3 hours of flight training in a single-engine airplane on the control and maneuvering of a single-engine airplane solely by reference to instruments, including straight and level flight, constant airspeed climbs and descents, turns to a heading, recovery from unusual flight attitudes, radio communications, and the use of navigation systems/facilities and radar services appropriate to instrument flight; and

(iv) 3 hours of flight training in a single-engine airplane within 2 calendar months before the date of the practical test.

(2) For the commercial pilot certificate, the course requires 10 hours of flight training on the areas of operations under part 141, appendix D, paragraph 4.(d)(1).

(i) 5 hours of instrument training in a single-engine airplane that must include training using a view limiting device for attitude instrument flying, partial panel skills, recovery from unusual flight attitudes, and intercepting and tracking navigational systems.

(ii) 10 hours of flight training in an airplane that has retractable landing gear, flaps, and a controllable pitch propeller, or is turbine-powered.

(iii) One 2-hour cross-country flight during day-time conditions in a single-engine airplane and a total straight-line distance of more than 100 nautical miles from the original point of departure;

(iv) One 2-hour cross-country flight during night-time conditions in a single-engine airplane and a total straight-line distance of more than 100 nautical miles from the original point of departure; and

(v) 3 hours of flight training in a single-engine airplane within 2 calendar months before the date of the practical test.

(3) For the airline transport pilot certificate, the course requires 25 hours flight training in a single-engine airplane on the areas of operation under appendix E to part 141, paragraph 4.(c), that includes 15 hours of instrument training. A flight simulator and flight training device cannot be used more than 12.5 hours to meet the training requirements, and use of the flight training device is limited to 6.25 of the 12.5 hours.

(k) Course for an airplane additional multiengine class rating.

(1) For the private pilot certificate, the course requires 3 hours of flight training on the areas of operations of appendix B to part 141, paragraph 4(d)(2). A flight simulator and flight training device cannot be used more than 0.6 hours to meet the training requirements, and use of the flight training device is limited to 0.4 of the 0.6 hours. The course must include—

(i) 3 hours of cross-country training in a multiengine airplane, except as provided under § 61.111 of this chapter;

(ii) 3 hours of night-time flight training in a multiengine airplane that includes one cross-country flight of more than 100 nautical miles total distance in a multiengine airplane, and 10 takeoffs and 10 landings to a full stop (with each landing involving a flight in the traffic pattern) at an airport;

(iii) 3 hours of flight training in a multiengine airplane on the control and maneuvering of a multiengine airplane solely by reference to instruments, including straight and level flight, constant airspeed climbs and descents, turns to a heading, recovery from unusual flight attitudes, radio communications, and the use of navigation systems/facilities and radar services appropriate to instrument flight; and

(iv) 3 hours of flight training in a multiengine airplane within 2 calendar months before the date of the practical test.

(2) For the commercial pilot certificate, the course requires 10 hours of training on the areas of operations under appendix D of part 141, paragraph 4(d)(2). A flight simulator and flight training device cannot be used more than 3 hours to meet the training requirements, and use of the flight training device is limited to 2 of the 3 hours. The course must include—

(i) 5 hours of instrument training in a multiengine airplane that must include training using a view limiting device on for attitude instrument flying, partial panel skills, recovery from unusual flight attitudes, and intercepting and tracking navigational systems;

(ii) 10 hours of training in a multiengine airplane that has retractable landing gear, flaps, and a controllable pitch propeller, or is turbine-powered;

(iii) One 2-hour cross-country flight during day-time conditions in a multiengine airplane and, a total straight-line distance of more than 100 nautical miles from the original point of departure;

(iv) One 2-hour cross-country flight during night-time conditions in a multiengine airplane and, a total straight-line distance of more than 100 nautical miles from the original point of departure; and

(iv) 3 hours of flight training in a multiengine airplane within 2 calendar months before the date of the practical test.

(3) For the airline transport pilot certificate, the course requires 25 hours of training in a multiengine airplane on the areas of operation of appendix E to part 141, paragraph 4.(c) that includes 15 hours of instrument training. A flight simulator and flight training device cannot be used more than 12.5 hours to meet the training requirements, and use of the flight training device is limited to 6.25 of the 12.5 hours.

(l) Course for a rotorcraft additional helicopter class rating.

(1) For the recreational pilot certificate, the course requires 3 hours of flight training on the areas of operations under appendix A of part 141, paragraph 4.(c)(2) that includes—

(i) 2 hours of flight training to and at an airport that is located more than 25 nautical miles from the airport where the applicant normally trains, with three takeoffs and three landings, except as provided under § 61.100 of this chapter; and

(ii) 3 hours of flight training in a helicopter within 2 calendar months before the date of the practical test.

(2) For the private pilot certificate, the course requires 3 hours flight training on the areas of operations under appendix B of part 141, paragraph 4.(d)(3). A flight simulator and flight training device cannot be used more than 0.6 hours to meet the training requirements, and use of the flight training device is limited to 0.4 of the 0.6 hours. The course must include—

(i) 3 hours of cross-country training in a helicopter, except as provided under § 61.111 of this chapter;

(ii) 3 hours of night-time flight training in a helicopter that includes one cross-country flight of more than 50-nautical-miles total distance, and 10 takeoffs and 10 landings to a full stop (with each landing involving a flight in the traffic pattern) at an airport; and

(iii) 3 hours of flight training in a helicopter within 2 calendar months before the date of the practical test.

(3) For the commercial pilot certificate, the course requires 5 hours flight training on the areas of operations under appendix D of part 141, paragraph 4.(d)(3). Use of a flight simulator and flight training device in the approved training course cannot exceed 1 hour; however, use of the flight training device cannot exceed 0.7 of the one hour. The course must include—

(i) 5 hours on the control and maneuvering of a helicopter solely by reference to instruments, and must include training using a view limiting device for attitude instrument flying, partial panel skills, recovery from unusual flight attitudes, and intercepting and tracking navigational systems. This aeronautical experience may be performed in an aircraft, flight simulator, flight training device, or a personal computer aviation training device;

(ii) One 2-hour cross-country flight during day-time conditions in a helicopter and, a total straight-line distance of more than 50 nautical miles from the original point of departure;

(iii) One 2-hour cross-country flight during night-time conditions in a helicopter and a total straight-line distance of more than 50 nautical miles from the original point of departure; and

(iv) 3 hours of flight training in a helicopter within 2 calendar months before the date of the practical test.

(4) For the airline transport pilot certificate, the course requires 25 hours of flight training in a helicopter on the areas of operation under appendix E of part 141, paragraph 4.(c) that includes 15 hours of instrument training. A flight simulator and flight training device cannot be used more than 12.5 hours to meet the training requirements, and use of the flight training device is limited to 6.25 of the 12.5 hours.

(m) Course for a rotorcraft additional gyroplane class rating.

(1) For the recreational pilot certificate, the course requires 3 hours flight training on the areas of operations of appendix A to part 141, paragraph 4.(c)(3) that includes—

(i) Except as provided under § 61.100 of this chapter, 2 hours of flight training to and at an airport that is located more than 25 nautical miles from the airport where the applicant normally trains, with three takeoffs and three landings; and

(ii) Within 2 calendar months before the date of the practical test, 3 hours of flight training in a gyroplane.

(2) For the private pilot certificate, the course requires 3 hours flight training on the areas of operations of appendix B to part 141, paragraph 4.(d)(4). A flight simulator and flight training device cannot be used more than 0.6 hours to meet the training requirements, and use of the flight training device is limited to 0.4 of the 0.6 hours. The course must include—

(i) 3 hours of cross-country training in a gyroplane;

(ii) 3 hours of night-time flight training in a gyroplane that includes one cross-country flight of more than 50-nautical-miles total distance, and 10 takeoffs and 10 landings to a full stop (with each landing involving a flight in the traffic pattern) at an airport; and

(iii) 3 hours of flight training in a gyroplane within 2 calendar months before the date of the practical test.

(3) For the commercial pilot certificate, the course requires 5 hours flight training on the areas of operations of appendix D to part 141, paragraph 4.(d)(4). A flight simulator and flight training device cannot be used more than 1 hour to meet the training requirements, and use of the flight training device is limited to 0.7 of the 1 hour. The course must include—

(i) 2.5 hours on the control and maneuvering of a gyroplane solely by reference to instruments, and must include training using a view limiting device for attitude instrument flying, partial panel skills, recovery from unusual flight attitudes, and intercepting and tracking navigational systems. This aeronautical experience may be performed in an aircraft, flight simulator, flight training device, or a personal computer aviation training device.

(ii) 3 hours of cross-country flight training in a gyroplane, except as provided under § 61.111 of this chapter;

(iii) 2 hours of flight training during night-time conditions in a gyroplane at an airport that includes 10 takeoffs and 10 landings to a full stop (with each landing involving a flight in the traffic pattern); and

(iv) 3 hours of flight training in a gyroplane within 2 calendar months before the date of the practical test.

(n) Course for a lighter-than-air additional airship class rating.

(1) For the private pilot certificate, the course requires 20 hours of flight training on the areas of operation under appendix B of part 141, paragraph 4.(d)(7). A flight simulator and flight training device cannot be used more than 4 hours to meet the training requirements, and use of the flight training device is limited to 3 of the 4 hours. The course must include—

(i) 3 hours of cross-country training in an airship, except as provided under § 61.111 of this chapter;

(ii) 3 hours of night-time flight training in an airship that includes one cross-country flight of more than 25-nautical-miles total distance, and five takeoffs and five landings to a full stop (with each landing involving a flight in the traffic pattern) at an airport;

(iii) 3 hours of flight training in an airship on the control and maneuvering of an airship solely by reference to instruments, including straight and level flight, constant airspeed climbs and descents, turns to a heading, recovery from unusual flight attitudes, radio communications, and the use of navigation systems/facilities and radar services appropriate to instrument flight; and

(iv) 3 hours of flight training in an airship within 2 calendar months before the date of the practical test.

(2) For the commercial pilot certificate, the course requires 55 hours of flight training on the areas of operation under appendix D of part 141, paragraph 4.(d)(7). A flight simulator and flight training device cannot be used more than 16.5 hours to meet the training requirements, and use of the flight training device is limited to 11 of the 16.5 hours. The course must include—

(i) 3 hours of instrument training in an airship that must include training using a view limiting device for attitude instrument flying, partial panel skills, recovery from unusual flight attitudes, and intercepting and tracking navigational systems;

(ii) One 1-hour cross-country flight during day-time conditions in an airship that consists of a total straight-line distance of more than 25 nautical miles from the original point of departure;

(iii) One 1-hour cross-country flight during night-time conditions in an airship that consists of a total straight-line distance of more than 25 nautical miles from the original point of departure; and

(iv) 3 hours of flight training in an airship within 2 calendar months before the date of the practical test.

(o) Course for a lighter-than-air additional gas balloon class rating.

(1) For the private pilot certificate, the course requires eight hours of flight training that includes five training flights on the areas of operations under appendix B of part 141, paragraph 4.(d)(8). A flight simulator and flight training device cannot be used more than 1.6 hours to meet the training requirements, and use of the flight training device is limited to 1.2 of the 1.6 hours. The course must include—

(i) Two flights of 1 hour each;

(ii) One flight involving a controlled ascent to 3,000 feet above the launch site; and

(iii) Two flights within 2 calendar months before the date of the practical test.

(2) For the commercial pilot certificate, the course requires 10 hours of flight training that includes eight training flights on the areas of operations of appendix D to part 141, paragraph 4.(d)(8). A flight simulator and flight training device cannot be used more than 3 hours to meet the training requirements, and use of the flight training device is limited to 2 of the 3 hours. The course must include—

(i) Two flights of 1 hour each;

(ii) One flight involving a controlled ascent to 5,000 feet above the launch site; and

(iii) Two flights within 2 calendar months before the date of the practical test.

(p) Course for a lighter-than-air additional hot air balloon class rating.

(1) For the private pilot certificate, the course requires 8 hours of flight training that includes five training flights on the areas of operations of appendix B to part 141, paragraph 4.(d)(8). A flight simulator and flight training device cannot be used more than 1.6 hours to meet the training requirements, and use of the flight training device is limited to 1.2 of the 1.6 hours. The course must include—

(i) Two flights of 30 minutes each;

(ii) One flight involving a controlled ascent to 2,000 feet above the launch site; and

(iii) Two flights within 2 calendar months before the date of the practical test.

(2) For the commercial pilot certificate, the course requires 10 hours of flight training that includes eight training flight on the areas of operation of appendix D to part 141, paragraph 4.(d)(8). A flight simulator and flight training device cannot be used more than 3 hours to meet the training requirements, and use of the flight training device is limited to 2 of the 3 hours. The course must include—

(i) Two flights of 30 minutes each.

(ii) One flight involving a controlled ascent to 3,000 feet above the launch site; and

(iii) Two flights within 2 calendar months before the date of the practical test.

* * * * *

Issued in Washington, DC on December 27, 2006.
James Ballough,
Director, Flight Standards Service.

[FR Doc. E7-1467 Filed 2-6-07; 8:45 am]

BILLING CODE 4910-13-P